DEPARTMENT OF COMMERCE

National Oceanic and Atmospheric Administration

50 CFR Part 679

[Docket No. 011218304-1304-01; I.D. 121701A]

RIN 0648-AP69

Fisheries of the Exclusive Economic Zone Off Alaska; Steller Sea Lion Protection Measures for the Groundfish Fisheries Off Alaska; Final 2002 Harvest Specifications and Associated Management Measures for the Groundfish Fisheries Off Alaska

AGENCY: National Marine Fisheries Service (NMFS), National Oceanic and Atmospheric Administration (NOAA), Commerce.

ACTION: Emergency interim rule; request for comments.

SUMMARY: NMFS issues an emergency interim rule to implement Steller sea lion protection measures to avoid the likelihood that the groundfish fisheries off Alaska will jeopardize the continued existence of the western population of Steller sea lions or adversely modify their critical habitat. These management measures will disperse fishing effort over time and area to provide protection from potential competition for important Steller sea lion prey species in waters adjacent to rookeries and important haulouts. This action also announces final 2002 harvest specifications and associated management measures for the groundfish fisheries of the Bering Sea and Aleutian Islands management area (BSAI) and the Gulf of Alaska (GOA). The intended effect of this emergency interim rule is to protect the endangered western population of Steller sea lions, as required under the Endangered Species Act (ESA), and to conserve and manage the groundfish resources in the BSAI and the GOA in accordance with the Magnuson-Stevens Fishery Conservation and Management Act (Magnuson-Stevens Act).

DATES: Effective January 1, 2002, except for the addition of § 679.7(a)(18), the suspension of § 679.7(c)(3), and the addition of § 679.28(f)(3)(viii) which will be effective 1200 hours A.l.t. on June 10, 2002, through July 8, 2002, and § 679.7(k), § 679.50(c)(4)(vi) and (c)(6) which will be effective January 15, 2002, through July 8, 2002. Comments must be received by February 7, 2002.

ADDRESSES: Comments may be sent to Sue Salveson, Assistant Regional Administrator, Sustainable Fisheries Division, Alaska Region, NMFS, P.O. Box 21668, Juneau, AK, 99802, Attn: Lori Gravel, or delivered to room 401 of the Federal Building, 709 West 9th Street, Juneau, AK. Comments will not be accepted if submitted via e-mail or Internet. Copies of the Supplemental Environmental Impact Statement on Steller Sea Lion Protection Measures in the Federal groundfish fisheries off Alaska (SEIS), including the 2001 biological opinion, and the Environmental Assessment (EA) for the Total Allowable Catch for the Year 2002 Alaska Groundfish Fisheries may be obtained from the same address. The SEIS and EA are also available on the NMFS Alaska Region homepage at http://www.fakr.noaa.gov. Send comments on collection-of-information requirements to the same address and to the Office of Information and Regulatory Affairs (OIRA), Office of Management and Budget (OMB), Washington, DC 20503 (Attn: NOAA Desk Officer).

Copies of the Final 2002 Stock Assessment and Fishery Evaluation (SAFE) reports, dated November 2001, are available from the North Pacific Fishery Management Council, West 4th Avenue, Suite 306, Anchorage, AK 99510 or from its homepage at http://www.fakr.noaa.gov/npfmc.

FOR FURTHER INFORMATION CONTACT: Melanie Brown, Sustainable Fisheries Division, Alaska Region, 907-586-7228 or e-mail at melanie.brown@noaa.gov.

SUPPLEMENTARY INFORMATION:

Background

NMFS manages the groundfish fisheries in the exclusive economic zone (EEZ) off Alaska under the Fishery Management Plan (FMP) for the Groundfish Fishery of the BSAI and the FMP for Groundfish of the GOA. The North Pacific Fishery Management Council (Council) prepared the FMPs under the authority of the Magnuson-Stevens Act, 16 U.S.C. 1801, et seq. Regulations governing U.S. fisheries and implementing the FMPs appear at 50 CFR parts 600 and 679. NMFS also has management responsibility for certain threatened and endangered species, including Steller sea lions, under the Endangered Species Act of 1973 (ESA), 16 U.S.C. 1531, et seq., and the authority to promulgate regulations to enforce provisions of the ESA to protect such species.

Introduction

The preamble to this emergency rule contains two parts. Part I explains the background surrounding actions taken to protect the endangered western population of Steller sea lions, including information on the development of protection measures for 2002. Part II describes the harvest specifications for the 2002 groundfish fisheries of the BSAI and GOA. These specifications are consistent with the 2002 Steller sea lion protection measures.

Part I. Steller Sea Lion Protection Measures

Steller Sea Lion Endangered Species Status

In 1990, NMFS designated the Steller sea lion as a threatened species under the ESA. The designation followed severe declines throughout much of the GOA and Aleutian Islands region. In 1993, NMFS designated critical habitat for the species to include (among other areas) the marine areas within 20 nautical miles (nm) of major rookeries and haulouts of the species west of 144° W longitude (long.). In 1997, NMFS recognized two separate populations and reclassified the western population (west of 144° W long.) as endangered.

NMFS first began collecting information on the abundance of Steller sea lions during the 1950s and 1960s. However, the first counts based on reliable data were not available until the late 1970s; these counts reported approximately 109,800 animals. During the 1980s, a precipitous decline of Steller sea lions was observed. By 1996, the population had declined by 80 percent from the late 1970s. Counts of adult and juvenile Steller sea lions have continued to decline over the last decade, but at a much lower rate.

Based on the best available scientific information, NMFS attributes the continued decline to multiple factors. Considerable evidence indicates that the lack of available prey is a substantial factor. Diet studies confirm that Steller sea lions depend on pollock, Pacific cod, and Atka mackerel as major prey resources, and that they may be particularly sensitive to reduced availability of prey during the winter. The occurrence of pollock, Pacific cod, and Atka mackerel in the diet of sea lions may have increased since the 1970s due to shifts in the Bering Sea ecosystem related to atmospheric and oceanographic changes. More information on the environmental changes and potential effects on Steller sea lions is detailed in section 4.4.1 of the October 19, 2001, Biological Opinion on the BSAI and GOA groundfish fisheries and the effects on Steller sea lions (see ADDRESSES).

Past Biological Opinions and Court Cases

In accordance with the requirements of the ESA, since 1990 the NMFS Office of Protected Resources has issued biological opinions (BiOps) on the pollock fisheries of the BSAI and GOA, on the Atka mackerel fishery of the Aleutian Islands subarea, and on the entire groundfish fishery for the GOA and BSAI. These opinions analyzed the effects of the various groundfish fisheries with emphasis on the Atka mackerel, Pacific cod, and pollock fisheries in the waters off Alaska and recommended actions to avoid jeopardy for the western population of Steller sea lions and to avoid adverse modification of its habitat. The term “jeopardize” means “to engage in an action that reasonably would be expected, directly or indirectly, to reduce appreciably the likelihood of both the survival and recovery of a listed species in the wild by reducing the reproduction, numbers, or distribution of that species” (50 CFR 402.02). The phrase “adversely modify its critical habitat” means “a direct or indirect alteration that appreciably diminishes the value of critical habitat for both the survival and recovery of a listed species. Such alterations include, but are not limited to, alterations adversely modifying any of those physical or biological features that were the basis for determining the habitat to be critical” (50 CFR 402.02).

Two BiOps were issued by NMFS in December 1998. The first one analyzed the Atka mackerel and pollock fisheries (1998-1 BiOp) and the second one analyzed the 1999 harvest specifications for all the 1999 groundfish fisheries in the BSAI and GOA (1998-2 BiOp). The 1998-1 BiOp, issued December 3, 1998, and revised December 16, 1998, concluded that the Atka mackerel fishery, as modified by regulatory changes (64 FR 3446, January 22, 1999), was not likely to jeopardize the endangered western population of Steller sea lions or adversely modify its critical habitat. However, the 1998-1 BiOp concluded that the pollock fishery, as then proposed, was likely to jeopardize the endangered western population of Steller sea lions and adversely modify its critical habitat. Rather than offering a specific reasonable and prudent alternative (RPA) for the BSAI and GOA pollock fisheries, the 1998-1 BiOp provided a framework in which specific management measures could be developed to avoid the likelihood of jeopardizing the continued existence of the western population of Steller sea lions or adversely modifying its critical habitat. The framework consisted of three principles: (1) Temporal dispersion of fishing effort, (2) spatial dispersion of fishing effort, and (3) protection from fisheries competition for Steller sea lion prey in waters adjacent to rookeries and important haulouts. For each of these principles, the 1998-1 BiOp provided guidance on the development of management measures to meet the objectives and, ultimately, to avoid jeopardy and adverse modification. The 1998-1 BiOp stated that certain conservation measures could be phased in over a 2-year period.

In December 1998, NMFS staff briefed the Council on the 1998-1 BiOp. The Council then prepared recommendations for alternative management measures based on the BiOp framework to avoid jeopardy and adverse modification. The Council's recommendation did not contain Bering Sea subarea (BS) pollock harvest specifications for the second half of 1999. However, the Council planned to recommend these measures prior to mid-1999. The Council also recommended closing all but nine of the haulout zones specified by the 1998-1 BiOp in the BSAI and GOA. NMFS determined these recommendations to be acceptable as part of a 2-year phase-in strategy, in which equivalent or better protections would be extended for those areas for 2000 and beyond.

On December 16, 1998, NMFS adopted the measures recommended by the Council (with modifications) into the 1998-1 BiOp as part of the reasonable and prudent alternatives (RPAs) for the Alaska pollock fisheries. NMFS published an emergency interim rule implementing these measures in the Federal Register on January 22, 1999 (64 FR 3437), as amended on February 17, 1999 (64 FR 7814), and on February 25, 1999 (64 FR 9375), and effective through July 19, 1999. The preamble to the emergency interim rule provides a detailed description of the purpose and need for the implementation of emergency measures in 1999.

The Council met again in February, April, and June 1999 to consider recommendations for extending the emergency rule for the second half of 1999, and, at its June meeting, voted to extend the emergency rule. Using the Council's recommendation, NMFS extended the emergency rule through December 31, 1999 (64 FR 39087, July 21, 1999; technical amendment 64 FR 43297, August 10, 1999), with revisions that included BS pollock harvest specifications for the second half of 1999.

In June 1999, the Council also deliberated on various management measures to implement permanently the RPAs as described in the 1998-1 BiOp for 2000 and beyond. After significant debate and public comment, the Council voted to recommend a series of conservation measures to protect Steller sea lions.

Greenpeace, the American Oceans Campaign, and the Sierra Club challenged the 1998-1 BiOp in the U.S. District Court for the Western District of Washington (Greenpeace v. NMFS, Civ. No. C98-0492Z (W.D. Wash.)). Several industry groups and Alaska communities joined the lawsuit as defendant-intervenors. In an Order issued on July 9, 1999 (and amended on July 13, 1999), the Court upheld the no-jeopardy conclusion for the Atka mackerel fishery and the jeopardy conclusion for the pollock fisheries. However, the Court also found that “the Reasonable and Prudent Alternatives * * * were arbitrary and capricious * * * because they were not justified under the prevailing legal standards and because the record does not support a finding that they were reasonably likely to avoid jeopardy.” On August 6, 1999, the Court remanded the RPA back to NMFS for further analysis and explanation.

To comply with the Court's Order, NMFS conducted additional analyses and completed the Revised Final Reasonable and Prudent Alternatives (RFRPAs) on October 15, 1999. The RFRPAs described management measures to avoid the likelihood that the pollock fisheries authorized by regulations will jeopardize the continued existence of the endangered western population of Steller sea lions or adversely modify its critical habitat.

NMFS modified previous measures to conform with the RFRPA and implemented these measures by emergency interim rule for the 2000 groundfish fisheries (65 FR 3892, January 25, 2000, and 65 FR 36795, June 12, 2000). Although both environmental and fishing industry representatives challenged the adequacy of the RFRPAs in the U.S. District Court for the Western District of Washington, subsequent events in 2000 further modified measures to protect Steller sea lions (see below).

Greenpeace, the American Oceans Campaign, and the Sierra Club also challenged the legal adequacy of the 1998-2 BiOp, which NMFS issued on December 22, 1998. On January 25, 2000, the Court entered an Order finding the 1998-2 BiOp too narrow in scope (Greenpeace v. NMFS, 80 F. Supp. 2d 1137 (W.D. Wash. 2000)). On July 19, 2000, the Court issued an injunction prohibiting fishing for groundfish with trawl gear in the EEZ within Steller sea lion critical habitat west of 144° W long. until NMFS issued a comprehensive biological opinion adequately analyzing the full scope of the FMPs. (Greenpeace v. NMFS, 106 F. Supp. 2d 1066 (W.D. Wash. 2000)). The critical habitat areas closed by the Court's injunction were defined in regulations codified at 50 CFR 226.202, and in Tables 1 and 2 of 50 CFR part 226. NMFS issued an interim final rule prohibiting fishing for groundfish with trawl gear in Steller sea lion critical habitat during the pendency of the Court's injunction (65 FR 49766, August 15, 2000).

In response to the Court's Order finding the 1998-2 BiOp inadequate, NMFS issued a biological opinion on the BSAI and GOA groundfish fisheries FMPs (Comprehensive BiOp) on November 30, 2000. The Comprehensive BiOp evaluated the Federal groundfish fisheries as implemented by the BSAI and GOA FMPs and their implementing regulations. After analyzing the direct and indirect effects of the groundfish fisheries, as authorized by the BSAI and GOA FMPs, on listed species, the cumulative effects of non-Federal actions, and the environmental baseline, NMFS concluded that the pollock, Pacific cod, and Atka mackerel fisheries as then configured jeopardized the continued existence of the western population of Steller sea lions and adversely modified its critical habitat. This conclusion was reached based on the likelihood that pollock, Pacific cod, and Atka mackerel fisheries compete with Steller sea lions and reduce their ability to survive and recover in the wild. Competition with fisheries is likely to cause reduced availability of sea lion prey (especially on small scales) which would reduce their foraging success and lead to nutritional stress, especially of juveniles and to a lesser extent adult females. The Comprehensive BiOp included an RPA that modified the three fisheries in such a manner as to reduce the likelihood of causing local depletion of key sea lion prey species and thus avoid jeopardizing the continued existence of Steller sea lions or adversely modifying their critical habitat.

On December 21, 2000, prior to the implementation of the Comprehensive BiOp RPAs, the President signed Public Law 106-554. This law contained a one-year timetable for implementing the RPA from the Comprehensive BiOp as well as provisions affecting its implementation. Public Law 106-554, section 209(c)(2) required the RPA contained in the Comprehensive BiOp to become effective in its entirety on January 1, 2002, unless revised as necessary and appropriate based on independent scientific review or other new information. In accordance with Public Law 106-554, and starting on January 1, 2001, the 2001 BSAI and GOA groundfish fisheries were initially managed in accordance with the fishery management plans and Federal regulations in effect for such fisheries prior to July 15, 2000. This initial management regime was subsequently replaced as provided in Public Law 106-554, section 209(c)(4), via an emergency interim rule issued by NMFS under the Magnuson-Stevens Act and effective on January 18, 2001 (66 FR 7276, January 22, 2001). The emergency interim rule contained a suite of management measures that phased in certain provisions of the RPA.

In response to the conclusions of the biological opinions since 1998 and Public Law 106-554, NMFS issued permanent regulations for the Atka mackerel fishery (64 FR 3446, January 22, 1999) and a series of emergency regulations for the pollock fishery (64 FR 3437, January 22, 1999; 65 FR 3892, January 25, 2000) and for Atka mackerel, pollock, and Pacific cod fisheries (66 FR 7276, January 22, 2001, extended and amended 66 FR 37167, July 17, 2001, and corrected 66 FR 44073, August 22, 2001, and 66 FR 48371, September 20, 2001). These regulations disperse harvest over time and area and provide protection to areas important to Steller sea lions. In July 2001, the parties to the litigation concerning the biological opinions and the RFRPA filed a joint status report and agreed to stay further litigation until completion of the 2001 BiOp in October 2001. A subsequent joint status report dated November 1, 2001, agreed to continue the temporary stay of litigation until January 18, 2002, when a follow-up status report will be filed with the Court.

Development of 2002 Steller Sea Lion Protection Measures

In January 2001, the Council established an RPA Committee to make recommendations on Steller sea lion protection measures for the second half of 2001 and to develop Steller sea lion protection measures for 2002 and beyond. The Council's RPA Committee was composed of 21 members from the fishing community, the environmental community, NMFS, the Council's Science and Statistical Committee, the Council's Advisory Panel, and the State of Alaska Department of Fish and Game.

In developing the protection measures for the second half of 2001 and for 2002, the RPA Committee's first goal was to determine adequate forage for Steller sea lions using the best scientific and commercial information available and the second goal was to maximize the economic benefit to the fishing industry within constraints imposed by the ESA. The RPA Committee met numerous times to review Steller sea lion biology and habitat requirements, RPA from the Comprehensive BiOp, the draft SEIS and draft 2001 BiOp for this action, and commercial fishery and scientific survey information. Meetings in 2001 were held on February 10, February 20, March 6-7, March 26-29, April 9, May 9-11, May 21-24, and August 23-24. These meetings were open to the public and the public was provided with several opportunities to comment at each meeting.

After the available scientific information on Steller sea lion biology was discussed, the Committee reviewed commercial fisheries and harvest data to determine the competitive overlap between fisheries and Steller sea lions. With all of this information, the Committee then developed a fisheries management program intended to meet the requirements of applicable law. In April 2001, the RPA Committee presented its recommendations to the Council for fishery management measures for the second half of 2001. These recommendations were then forwarded by the Council to NMFS.

In June 2001, the RPA Committee recommended Steller sea lion protection measures for 2002 and beyond. However, the Committee did not reach consensus regarding the recommendations; two representatives from the environmental community objected and provided a minority report with the May 21-24 Committee minutes. Both the Committee's recommendation and the minority recommendation developed by the American Oceans Campaign and the National Environmental Trust were included as alternatives analyzed in the SEIS. Additionally, protection measures in the GOA, developed by the Alaska Marine Conservation Council, were included as an option to the preferred alternative in the SEIS. Minutes from all RPA Committee meetings have been distributed at Council meetings and are available on the Council's Web site at http://www.fakr.noaa.gov/npfmc/default.htm.

In June 2001, the Council recommended a suite of alternatives to be analyzed in the SEIS, including the RPA Committee's recommendation and the protection measures described in the minority report mentioned above. NMFS reviewed the recommendations and determined that they represented an adequate range of reasonable alternatives as required by the National Environmental Policy Act (NEPA). For purposes of identifying a proposed action in order to initiate formal consultation under Section 7 of the ESA, NMFS used the RPA Committee's recommendation as the preferred alternative (Alternative 4) in the draft SEIS. Alternative 4 also included three options added by the Council. Two of the options provided small boat exemptions for nontrawl gear Pacific cod fishing in the Chignik and Unalaska areas, and the third option established gear specific fishing zones for GOA Pacific cod fisheries (the Alaska Marine Conservation Council option).

In July 2001, the NMFS Office of Sustainable Fisheries (OSF) reinitiated consultation under the ESA with the NMFS Office of Protected Resources (OPR) based on the availability of new information and the substantial changes proposed in the fisheries since the completion of the Comprehensive BiOp. The new scientific information is described in more detail below under the specific protection measures. Consultation was requested on the management measures outlined in Alternative 4 of the draft SEIS. A draft biological opinion (2001 BiOp) was prepared by the OPR and distributed as Appendix A to the draft SEIS, which was available for public review on August 20, 2001 (comment period closed October 15, 2001). During informal consultations, the OSF and the OPR concurred that all other listed species occurring in Alaska other than Steller sea lions would not be adversely affected by the implementation of the proposed action. Therefore, only the endangered and threatened populations of Steller sea lions were the subject of the formal consultation and draft biological opinion issued by the OPR.

The draft 2001 BiOp, which is a consultation at the project level, did not supersede the previous Comprehensive BiOp. The Comprehensive BiOp remains valid and meets NMFS' requirement to consult at the FMP level. However, the RPA from the Comprehensive BiOp has been superseded by the managment measures in this rule.

The Council conducted a special meeting in September 2001 to review the draft SEIS and the draft 2001 BiOp. After review of these documents and public testimony, the Council identified Alternative 4 in the draft SEIS, with several modifications and without the options identified in June, as its preliminary preferred alternative. The Council decided not to include additional small boat exemptions for Unalaska and Chignik due to concerns that opening these areas would reduce their values as control sites for evaluating management measures and increase the likelihood for competitive interactions with sea lions, and that these sites have not been economically important to the small boat fleets. Also, the Council preliminarily decided not to include the GOA “gear zone” option due to potential conflicts with Magnuson-Stevens Act national standards 8 and 10 (i.e., local community access to fishing resources and safety).

Based on the analysis of alternatives in the SEIS, public testimony, and the draft 2001 BiOp, the Council made final recommendations for Steller sea lion protection measures. The 2001 BiOp determined that Alternative 4 met the requirements of the ESA by avoiding the likelihood of jeopardy to Steller sea lions and adverse modification of their critical habitat. Alternative 5 was determined in the SEIS to have similar effects as Alternative 4 on Steller sea lions and their critical habitat. Alternatives 2 and 3 were determined in the SEIS to have less adverse effects on Steller sea lions than Alternatives 4 and 5. Alternative 1 was more adverse to Steller sea lions than Alternative 4, based on the SEIS analysis. Given the results of the SEIS and the draft 2001 BiOp, the Council assumed that Alternatives 2, 3, 4, and 5 would meet the requirements of the ESA because Alternatives 2, 3, and 5 were considered to have similar or less adverse effects on Steller sea lions compared to Alternative 4. After the alternatives were identified that met the ESA requirements, the Council then determined which alternative provided the least impact on the human environment, including socioeconomic impacts, and which also met the requirements of the Magnuson-Stevens Act, including the national standards. The Council chose Alternative 4 because it met ESA requirements and came closer to meeting the overall objectives of the Magnuson-Stevens Act, including the national standards, and NMFS concurs with this decision. The final SEIS is available from NMFS (see ADDRESSES) or on the NMFS home page at http://www.fakr.noaa.gov.

NMFS solicited comments on the draft 2001 BiOp, which were considered in the final biological opinion. NMFS released the final 2001 BiOp on October 19, 2001, which was included as an appendix to the SEIS. Copies of the 2001 BiOp are available from the NMFS, Alaska Region homepage at http://www.fakr.noaa.gov (or see ADDRESSES). The 2001 BiOp concluded that the proposed action under Alternative 4, which is implemented by this emergency interim rule, is not likely to jeopardize the continued existence of either the eastern or western populations of Steller sea lions or adversely modify their critical habitat.

At its October 2001 meeting, the Council slightly modified its preferred alternative to provide limited relief to small vessels in response to public comments. These changes do not undermine the primary objective of avoiding jeopardy and adverse modifications to the Steller sea lions or their critical habitat. All of these modifications fell within the scope of the draft SEIS and the 2001 BiOp. Two modifications provided additional protection to Steller sea lions during 2002 in the Aleutian Islands subarea by eliminating the directed fishery for pollock and by reducing the proposed harvest of Atka mackerel in Steller sea lion critical habitat. The third modification is a near shore exemption for small vessels directed fishing for Pacific cod using hook-and-line or jig gear in the Bogoslof area and includes a harvest limit. Because of the extremely small harvest amount and closures around Steller sea lion haulouts in the area, this modification is expected to have no appreciable effects on Steller sea lions or their critical habitat. Public comment on the 2001 BiOp provided at the October Council meeting raised questions regarding the efficacy of using the Bogoslof area as a control site for comparing the fishery effects on Steller sea lions. Based on the extremely limited fishing by small vessels for Pacific cod and fishing prohibitions around Bishop Point, the Council changed its recommendation from September and requested NMFS implement a small boat exemption in the Bogoslof area (option 2 to Alternative 4 in the SEIS). The small vessel exemption in the Bogoslof area is within the scope of option 2 analyzed in the SEIS.

NMFS concurs with the protection measures recommended by the Council and these measures are contained in this emergency interim rule. NMFS intends to supersede this emergency interim rule implementing 2002 protection measures with proposed and final rulemaking to implement these or similar measures for the remainder of 2002 and beyond. The protection measures also replace the RPA identified in the Comprehensive BiOp.

Protection Measures and the Most Recent Information

Scientists generally agree that the decline of the western population of Steller sea lions is due to a combination of factors including nutritional stress, predation, and natural environmental changes. These factors are primarily thought to affect juveniles, and to a lesser extent adult females, although how this occurs and the magnitude of the effects are largely unknown. Of these factors, the groundfish fisheries primarily affect nutritional stress and, through indirect mechanisms, may increase the likelihood for predation due to increased search time for prey. Funding for Steller sea lion research has increased over the past few years and may provide clarification on the causes for the sea lion decline.

The ESA requires NMFS to develop a Steller sea lion recovery plan, which includes criteria for delisting the species. A recovery plan was developed in 1992 with a set of delisting criteria, but these criteria were never adopted by the agency. A new Steller sea lion recovery team has been assembled and plans to meet in January 2002. Over a course of one to two years, the team will review the best available scientific and commercial data and will develop a new recovery plan replacing the outdated version. Because no recovery criteria are available, the 2001 BiOp addressed recovery in terms of effects of the proposed action on Steller sea lion population trajectories.

The 2001 BiOp concluded that the contribution of the groundfish fisheries to the Steller sea lion decline is likely to be small under the protection measures specified in this emergency interim rule. Although, adverse impacts to the two populations of Steller sea lions and their critical habitat are expected to result from these groundfish fisheries, the fisheries are unlikely to jeopardize the continued existence or adversely modify critical habitat for these populations. These protection measures are intended to avoid fishery-related reductions in abundance of Steller sea lion prey in key local foraging areas, as such reductions could reduce the effectiveness of sea lion foraging.

These protection measures address competitive interactions between the groundfish fishery and Steller sea lions in several ways. First, these measures will modify the existing harvest control rule to ensure that in the future enough prey resources exist overall and that prey densities are sufficient for Steller sea lions on a large scale. Second, the protection measures will distribute the catch of important prey species over zones of key importance to critical components of the Steller sea lion population and over time to reduce the effects of localized depletion. Localized depletion for a Steller sea lion is the reduction of prey resources to a level that decreases the efficiency of a foraging sea lion so that it adversely affects its health or increases its risk to predation. Finally, the protection measures will prohibit fishing in areas immediately surrounding all rookery and many haulout sites and curtail fishing for important prey species in significant portions of designated critical habitat to relieve competition in areas considered important to Steller sea lion survival and recovery.

In 1993, critical habitat was established to 20 nm seaward of haulouts and rookeries based on the best scientific information available at the time, such as Platform of Opportunity (POP) data (August 27, 1993, 58 FR 45269). In 1999 through 2001, protection measures included fishery restrictions out to 20 nm from Steller sea lion rookery and haulout sites. In most cases, the portion of critical habitat areas considered important for protection in 2002 and beyond is between 0 nm and 10 nm of haulout and rookery sites with areas closer to shore considered more important for animals with less foraging skills or for females with pups. POP data still provide the best information for adult male Steller sea lions because little telemetry data have been collected for these animals. Recent telemetry data have been collected and analyzed from primarily adult females and juveniles, which are the portion of the population that pose the most concern for localized depletion of prey. The new telemetry data indicate that waters beyond 10 nm are mainly used by adults and older juveniles, which are considered to have stronger foraging skills, and depletion of prey by groundfish harvesting in these waters is not as likely to adversely affect foraging by these individuals. Both telemetry data and POP data are known to have biased results, but NMFS recognizes that the telemetry data provide more recent information on the more sensitive components of population when considering potential localized depletion of prey by the groundfish fisheries. For these reasons, many of the protection zones or areas in this emergency interim rule extend to 10 nm from Steller sea lion rookeries and haulouts.

Steller sea lion count survey data also were used to determine the areas that needed more protection from potential fishery interaction. Some of the rookeries showed declines of more than 10 percent. In most cases, sites with higher rates of decline receive additional protection over areas with less decline under the measures in this emergency interim rule.

This emergency interim rule also includes provisions for control areas to aid in an experimental design to determine the effectiveness of management measures. The Bogoslof area and Seguam foraging area, and the Chignik critical habitat areas will be closed to pollock, Atka mackerel, and Pacific cod directed fishing, except to vessels using jig gear in the Chignik area and to small vessels fishing for Pacific cod using jig or hook-and-line gear in the Bogoslof area. The Chiniak Gully will be closed to trawling August 1 through September 20 to determine the impact of trawl fishing on localized depletion of pollock. A review of the 2001 BiOp by the National Academy of Science may provide further recommendations on an experimental design that would provide the information needed on the efficacy of management measures.

Summary of the 2002 Management Measures

The following is a summary of protection measures. More detailed descriptions by topic, fishery, and area follow in this preamble. The State of Alaska Board of Fisheries at its November 2001 meeting adopted the same protection measures for the State parallel fisheries with two exceptions in the Pacific cod pot fishery which are noted below. The State of Alaska Department of Fish and Game should be contacted for details on Steller sea lion protection measures inside State waters. The majority of the Steller sea lion protection measures contained in this emergency interim rule are effective January 1, 2002, through July 8, 2002. Protection measures include:

1. Area closures for federally permitted vessels to all groundfish fishing between 0 nm and 3 nm of 39 rookery sites. These sites are considered the most sensitive for females with pups and the near shore marine critical habitat the most important to protect from interactions between groundfish fisheries and Steller sea lions.

2. For the Atka mackerel, pollock, and Pacific cod directed fisheries in the waters off Alaska, protection measures include: (a) A modified harvest control rule (HCR) to prohibit directed fishing when the biomass reaches 20 percent of its unfished level, (b) closures within 10 or 20 nm of selected haulout and rookery sites to directed fishing for Atka mackerel, pollock, and Pacific cod in the GOA and BSAI, (c) closure of Seguam foraging area and most of the Bogoslof area to all gear types, (d) a VMS requirement, (e) closure of the Chignik area to pot, trawl, and hook-and-line gears, (f) closure within 10-20 nm of 46 rookeries and haulouts to hook-and-line fishing for Pacific cod, and 44 rookeries and haulouts to pot fishing for Pacific cod, and (g) modifications to the CDQ groundfish program.

3. Aleutian Island area protection measures include: (a) Closure of the subarea to directed fishing for pollock, (b) Pacific cod total allowable catch (TAC) apportionment by season and gear, as well as gear specific area restrictions that alternate with the Atka mackerel fishery in critical habitat in areas 542 and 543, (c) closure of the Seguam foraging area to pollock, Atka mackerel, and Pacific cod directed fishing by all gear types, (d) critical habitat harvest limit of 60 percent for Atka mackerel in areas 542 and 543, (e) a platoon management system for Atka mackerel fishing in critical habitat in areas 542 and 543, (f) two observers required for critical habitat Atka mackerel directed fishing, (g) at least 0-3 nm closures around all haulouts for Atka mackerel and Pacific cod trawl fishing and (h) no Atka mackerel critical habitat fishing west of 178° W long.

4. Bering Sea protection measures include: (a) Two seasons (40:60 percent apportionment) for the pollock fishery with no more than 28 percent of the annual directed fishing allowance taken from the Steller sea lion conservation area (SCA) before April 1, (b) continuation of BS pollock fishery cooperatives established under the AFA, (c) establishment of the BS Pollock Restriction Area during the A season, (d) closure of the Catcher Vessel Operation Area (CVOA) to non-CDQ pollock trawl catcher/processors during the B season, (e) Pacific cod TAC apportionments by season and gear, as well as gear specific area restrictions, and (f) closure of all BS subarea critical habitat to Atka mackerel fishing.

5. Gulf of Alaska protection measures include: (a) Distribution of pollock harvest evenly over 4 seasons, (b) closure of directed fishing for pollock in areas that vary from 0-20 nm to 0-3 nm around rookeries and haulouts, (c) two seasons (60 percent:40 percent) for Pacific cod fishing and area restrictions that are dependent on gear type and vessel size, and (d) continuation of the NMFS Chiniak Gully research project to explore the effects of commercial fisheries on pollock abundance and distribution in the GOA.

2002 Protection Measures Details for Harvest Time, Limits, and Apportionments

Modification of the Existing Harvest Control Rule (HCR)

The protection measures include a modification of the existing HCR for pollock, Pacific cod, and Atka mackerel. NMFS currently uses an HCR established under Amendments 56/56 to the FMPs when determining the maximum allowable biological catch (ABC). Under the existing HCR, the ABC for a majority of stocks, including pollock, Pacific cod, and Atka mackerel, is based on a fishing mortality rate intended to reduce the spawning biomass per recruit to 40 percent of its theoretical unfished level (F40%%). When the biomass is below the amount necessary to produce the maximum sustainable yield (MSY), the fishing mortality rate is reduced linearly. When the spawning biomass per recruit is reduced to 2 percent of its unfished level, the fishing mortality rate becomes 0 and all fishing for that target stock is prohibited (see Figure 1). A new HCR was used in 2001 which reduced directed fishing for pollock, Pacific cod, and Atka mackerel in a more aggressive linear fashion than the original HCR and included a directed fishing prohibition at the 20 percent unfished biomass level.

The new HCR will be almost identical except that directed fishing would be prohibited when the spawning biomass is below 20 percent of the unfished level (as opposed to 2 percent in the current HCR).

Figure 1 shows the reduction in fishing mortality under the three methods of harvest control: (1) Amendments 56/56 to the BSAI and GOA FMPs for most groundfish species, (the existing HCR for most groundfish species), (2) the 2001 HCR, and (3) the 2002 HCR. The harvest rate under the 2002 HCR and under Amendments 56/56 would decrease at the same rate until 20 percent of the unfished spawning biomass is reached.

In a model, NMFS analyzed the difference in recovery rates back up to the MSY under the 2001 and 2002 HCRs and found very little difference (3-4 percent) between them. The 2001 BiOp concluded that the 2002 HCR is adequate to avoid locally depleting Atka mackerel, pollock, and Pacific cod for Steller sea lions.

In 2002, the new HCR does not affect the harvest rates for any species. However, the GOA pollock biomass is estimated to be about 45 percent less than the 2000 estimate. Because of uncertainty in the point estimate and continued poor recruitment in the GOA pollock stock, the Plan Team recommended an ABC well below the maximum permissible using the HCR. Given the fact that in hindsight using the current model and known biomass amounts in 2001, the fishery would have overfished this stock if the total TAC would have been taken in areas 620 and 630. NMFS determines that this action is reasonable from a Steller sea lion and stock assessment perspective. See the SAFE reports for the GOA and BSAI and Part II of this preamble for more details. The SAFE reports are available from the Council (see ADDRESSES).

Steller Sea Lion Protection Measures for Pollock, Atka Mackerel, and Pacific Cod Fisheries

The 2002 Steller sea lion protection measures include fishing seasons and area restrictions for the pollock, Pacific cod, and Atka mackerel fisheries. The seasons will distribute these fisheries over time. Critical habitat harvest limits for pollock and Atka mackerel will be implemented by this emergency interim rule consistent with the Council recommendations. Critical habitat limits will distribute the Atka mackerel and pollock fisheries over area, reducing the potential for localized depletion of prey.

In order to manage fishing to protect Steller sea lions, this emergency interim rule includes changes to the permit information collected under § 679.4. Vessels owners will need to register with NMFS to participate in the pollock, Pacific cod, and Atka mackerel fisheries. These directed fisheries will appear as endorsements on the vessel's Federal fishery permit for the area that the vessel owner has chosen for fishing these species. Vessel owners wishing to fish for Atka mackerel in critical habitat will also need to indicate whether they want to fish in Federal regulatory areas 542, 543, or both. The Atka mackerel registration information will be used for platoon management, which is explained later in this section.

Several AFA provisions from 2001 are extended into 2002 under this emergency interim rule as well as inshore/offshore allocations of GOA pollock and Pacific cod. These provisions effectively slow the rate of fishing and distribute fishing effort in a manner expected to reduce competition with Steller sea lions. These provisions also were evaluated by the Council as part of the new Steller sea lion protection measures. More details are in Part II of this preamble under the BSAI harvest specifications. Separate rulemaking is being pursued by NMFS to permanently implement these provisions in the future.

This action suspends the definition of directed fishing for pollock and other groundfish harvested under the CDQ program. It also revises the way that groundfish CDQ species may be used to calculate retainable amounts of other species, modifies groundfish CDQ retention requirements, and requires that a vessel's intended target fishery be reported on CDQ catch reports. These changes are necessary to ensure that the Steller sea lion protection measures being implemented by this emergency interim rule are applicable to groundfish CDQ harvesting activities.

Under current regulations, the general groundfish fisheries and groundfish CDQ fisheries have different definitions of directed fishing. For recordkeeping and reporting requirements, as well as for License Limitation groundfish fishing, directed fishing is defined as any fishing activity that results in the retention of an amount of a species or species group on board a vessel that is greater than the current maximum retainable bycatch (MRB) amount, based on retained (or “basis”) species on board a vessel at a given time. The pollock and groundfish CDQ directed fishing definitions differ from the MRB-based definition for two reasons. First, the AFA specifies that the only pollock that will accrue to the pollock CDQ reserve will be that amount caught by vessels directed fishing for pollock CDQ. Second, all other groundfish caught while groundfish CDQ fishing must accrue towards one of the specified CDQ reserves, including economic discards or non-target species. In general, a vessel is considered groundfish CDQ fishing if it has been listed in a NMFS approved Community Development Plan and catches any amount of groundfish CDQ, including pollock. More specifically, the assessment of a vessel's particular target fishery is determined differently, depending on vessel type. For catcher/processors, the species composition of each haul is assessed to determine the directed fishery. For catcher vessels, the species composition on board the vessel at any time is used. Typically this information is used for pollock catch accounting purposes and the calculation of halibut bycatch mortality rather than at-sea enforcement of other management measures.

The definition of directed fishing for pollock CDQ uses a 60 percent threshold to determine whether a vessel using trawl gear is directed fishing for this species. If this criterion is met, then the pollock accrues toward the pollock CDQ reserve. If not, it accrues towards the pollock Incidental Catch Allowance (ICA). Pollock caught incidentally in groundfish CDQ fisheries by vessels using nontrawl gear also accrues towards the ICA. This definition of pollock CDQ fishing was established as part of a final rule implementing Amendment 66 to the BSAI FMP on March 7, 2001 (66 FR 13672), and was intended to meet the intent of the AFA. This definition was designed to facilitate pollock catch accounting, not to identify a vessel's overall target fishery. Defining CDQ directed fisheries via the use of MRB standards will offer a more accurate portrayal of a vessel's actual CDQ target fishery. For purposes of implementing the Steller sea lion protection measures, using the 60 percent definition of pollock CDQ fishing could conflict with the calculated target fishery derived by using MRB amount calculations. A vessel could, under current regulations, be considered directed fishing for pollock CDQ based on the species composition of a single haul, whereas under MRB calculations it would not.

The suspension of CDQ specific directed fishing definitions, modifications of the use of CDQ species as basis species, and suspension of the use of a 60 percent threshold to facilitate pollock CDQ catch accounting in this emergency interim rule are necessary to establish a means to readily enforce time and area closures to directed fishing for pollock, Pacific cod, and Atka mackerel. Applying the definition of directed fishing already used for the non-CDQ groundfish fisheries will enhance the monitoring and enforcement of Steller sea lion protection measures. This will give consistency to the at-sea determination of both a vessel's non-CDQ and CDQ target fisheries. Additionally, to lessen the potential for confusion by NMFS staff, U.S. Coast Guard boarding personnel, vessel operators, and CDQ groups, MRB amounts will be used to define directed fishing for all groundfish CDQ species.

These measures, along with a new requirement to report the intended target species on CDQ catch reports, will also assist NMFS management to determine when catch limits have been reached, when area closures should occur, and how to account for pollock caught in the groundfish CDQ fisheries. The target information that will be received on CDQ catch reports will be used by NMFS to determine whether to accrue pollock towards either the pollock CDQ allocation or the pollock ICA. Additionally, current regulations do not require regulatory discards in the groundfish CDQ fisheries. However, the use of MRB amounts may require that some Atka mackerel or Pacific cod be discarded at-sea if CDQ directed fishery closures are in effect for these two species. Such catch will still be required to be reported on CDQ catch reports and will be subtracted from their corresponding CDQ allocations.

The protection measures addressing temporal and spatial dispersion of the pollock, Atka mackerel, and Pacific cod directed fisheries are as follows:

1. Aleutian Island Subarea Pollock Fishery

In the AI subarea directed fishing for pollock is prohibited at all times.

2. Bering Sea Subarea Pollock Fishery

In the Bering Sea subarea, fishing seasons are continued for the four sectors of the Bering Sea pollock fishery that are defined in the AFA. These seasons are defined as the A season (January 20-June 10, 40 percent) and the B season (June 10-November 1, 60 percent).

Pollock fishing will be prohibited during the A season in the Bering Sea Pollock Restriction Area (BSPRA). This area is based on a series of straight lines tangential to haulouts, 10 nm from the shore between the eastern edge of the SCA and the western edge of Statistical Area 519. The BSPRA is intended to reduce the likelihood of localized depletion and competitive interactions during critical winter months when juvenile Steller sea lions are learning to forage.

This emergency interim rule extends the repeal of the “fair start” provisions at § 679.7(b) that required vessels fishing for pollock in the Bering Sea to cease fishing for groundfish during the week preceding each pollock season or face a mandatory stand-down period during the first week of the pollock season. The Council determined that these fair start requirements were no longer necessary given the changes to the pollock fishery that occurred under the AFA.

Catcher vessel exclusive fishing seasons at § 679.23(i) will be continued by this emergency interim rule. Vessels fishing in one season in the GOA or in the BSAI are restricted from fishing in the alternative management area until the following season. This restriction will limit the concentration of fishing effort in one area and reduce the potential for localized depletion of Steller sea lion prey. Catcher vessels less than 125 ft (38.1 m) LOA fishing east of 157° W long. are exempt from this restriction.

This emergency interim rule also will extend the use of the SCA established by the emergency interim rule published January 25, 2000 (65 FR 3892), at § 679.22(a)(11). The SCA includes the portion of Bering Sea critical habitat known as the Bogoslof Foraging area and the portion of the CVOA that extends eastward from the Bogoslof Foraging area. This eastern block of the CVOA overlaps with the pollock trawl exclusion zone for Sea Lion Rocks (Amak Island). Inclusion of this eastern block in the SCA is necessary to provide sufficient protection from concentrated fishing and resulting localized depletions of sea lion prey in (1) the narrow corridor between the Bogoslof Foraging Area and the Sea Lion Rocks (Amak Island) trawl exclusion zone and (2) the adjacent portions of critical habitat.

The SCA consists of the area of the Bering Sea between 170°00′ W long. and 163°00′ W long., south of straight lines connecting the following points in the order listed:

55°00′ N lat. 170°00′ W long.;

55°00′ N lat. 168°00′ W long.;

55°30′ N lat. 168°00′ W long.;

55°30′ N lat. 166°00′ W long.;

56°00′ N lat. 166°00′ W long.;

56°00′ N lat. 163°00′ W long.

This emergency interim rule specifies the amount of the annual pollock directed fishing allowance (PDFA) that can be taken from the SCA during the A season. The PDFA is equal to the sum of each sector's TAC minus the ICA and 10 percent CDQ reserve. Until April 1, the harvest within the SCA is limited to 28 percent of the annual PDFA which is equivalent to 70 percent of the A season apportionment. The remaining 12 percent of the annual PDFA allocated to the A season may be taken outside of SCA before April 1 or inside the SCA after April 1. If the 28 percent of the annual PDFA is not taken inside the SCA before April 1, the remainder may be taken inside the SCA after April 1. The A season pollock SCA harvest limit will be apportioned to each industry sector in proportion to each sector's allocated percentage of the PDFA as set forth in the AFA. This action is necessary to avoid high harvest rates within a relatively small area of the BS subarea which is Steller sea lion critical habitat.

NMFS will monitor catch by each industry sector and close the SCA to directed fishing for pollock by sector when NMFS determines that a sector's specified portion of the SCA limit has been reached. As in 2001, in accordance with the Council's intent to address small vessel safety concerns, inshore catcher vessels less than or equal to 99 ft (30.2 m) LOA will continue to be exempt from SCA closures unless the cap for the inshore sector has been reached, as specified in § 679.22(a)(11)(vii). Under the authority of the AFA, NMFS will separate the inshore fishery into cooperative and non-cooperative sector allocations. For each sector, NMFS will announce the closure of the SCA to catcher vessels over 99 ft (30.2 m) LOA before the inshore sector SCA limit is reached. NMFS will implement the closure in a manner intended to leave remaining quota within the SCA that is sufficient to support directed fishing for pollock by vessels less than or equal to 99 ft (30.2 m) LOA for the duration of the inshore sector opening.

The CVOA will continue to be closed to pollock trawl catcher/processors during the B season (June 10-November 1) to reduce the amount of pollock taken from this area and to reduce the potential for competition with Steller sea lions.

3. GOA Pollock Fishery Seasons and Apportionments

Fishing seasons and pollock TAC apportionments in the GOA are summarized in Table 1.

Table 1.—Pollock Fishing Seasons and TAC Apportionments for the Western and Central Regulatory Areas of the Gulf of Alaska
Season | TAC apportionment (percent) | Season dates
A | 25 | January 20-February 25.
B | 25 | March 10-May 31.
C | 25 | August 25-September 15.
D | 25 | October 1-November 1.

Rollover of a seasonal TAC apportionment is permitted as long as it does not exceed 30 percent of the annual TAC.

The start date of the C season has been changed from August 20 in 2001 to August 25 in 2002. This change is intended to reduce salmon bycatch and to optimize the use of shoreside processing facilities and the harvest of the pollock allocation in the C season. This change is expected to have no appreciable effect on Steller sea lions.

The 300,000 lb (136 mt) trip limit for catcher vessels harvesting pollock in the directed pollock fisheries of the GOA at § 679.7 supports temporal distribution objectives and is maintained by this rule. A catcher vessel fishing for groundfish in the GOA will be prohibited from retaining on board more than 300,000 lb (136 mt) of pollock harvested in the GOA any time during a trip. This trip limit will not exempt vessels from existing regulations that require 100 percent retention of pollock when directed fishing for pollock is open. A vessel would have to stop fishing for pollock during a fishing trip before the 300,000 lb (136 mt) trip limit is reached to avoid a violation of either the 300,000 lb (136 mt) trip limit or the 100 percent retention requirement for pollock.

In addition, § 679.7 continues to prohibit vessels from operating as pollock tenders in the GOA east of 157°00′ W long. to prevent the large scale use of tender vessels to avoid the trip limit restriction. Vessels operating as tenders in the GOA west of 157°00′ W long. will be prohibited from retaining on board more than 600,000 lb (272 mt) of unprocessed pollock or the equivalent of two fishing trips. Tendering west of 157°00′ W long. is allowed because smaller vessels delivering to Sand Point and King Cove are more dependent on tenders than the larger vessels that operate east of 157°00′ W long. and deliver primarily to Kodiak.

4. BSAI Atka Mackerel Seasons, Apportionments, Critical Habitat Harvest Limits, and Platoons

In the BSAI at § 679.23(e)(7), the A season for Atka mackerel will begin January 20 and end April 15. The B season will begin September 1 and end November 1. The CDQ Atka mackerel fishery will have a single season from January 20 through November 1 because the vessels used in the non-CDQ Atka mackerel fishery are generally the same vessels used in the CDQ fishery, and the CDQ harvest historically takes place when the non-CDQ season is closed.

Fifty percent of the annual TACs for the western, central, and eastern Aleutian Islands districts is available during each season. No more than 60 percent of the seasonal TAC may be taken from within the harvest limit area (HLA) in statistical Areas 542 and 543 in the AI subarea. The HLA includes critical habitat and two additional Steller sea lion haulouts located west of 178° W long. and is further explained below. The apportionment is based on the assumed distribution of Atka mackerel based on depth contour of the continental shelf and on an objective to reduce the amount of rockfish bycatch that has occurred historically at relatively high levels outside of critical habitat in deeper waters in areas 542 and 543. Critical habitat limits in 2001 were between 48 and 46 percent. One of the objectives in setting harvest levels is to harvest at a level relative to the abundance of the fish in the area to avoid localized depletion. The biomass estimates in areas 542 and 543 indicated that up to 75 percent of the biomass occurs in critical habitat, but the Council recommended, and NMFS concurs, that a more conservative increase in the amount of harvest from critical habitat is appropriate because this fishery has caused measurable localized depletions in the past. Higher levels of harvest in critical habitat may be considered in the future after additional analysis. Analyzing the effectiveness of the platooning system for managing the fleet in the HLA will provide additional information to understand the potential impact of higher harvest limits in the future. The amount of harvest allocated to the HLA also needs to be enough to encourage the participation in platoons used to manage the critical habitat fisheries.

NMFS catch data indicate a higher catch rate of Atka mackerel in area 542 than in area 543 so that area 542 vessels will likely reach their HLA limit quicker than area 543 vessels. Thus, area 542 vessels could have an earlier opportunity to fish outside of critical habitat and encounter rockfish bycatch in amounts sufficient to pose overfishing concerns and close the Atka mackerel fishery without area 543 critical habitat limits being reached. With the 60 percent limit in the HLA, vessels will be able to spend more effort inside critical habitat and will be less likely to shut down the Atka mackerel fishery due to rockfish bycatch compared to a limit set at 50 percent or less.

To clearly identify the Steller sea lion protection areas for Atka mackerel directed fishing in areas 542 and 543, this emergency interim rule establishes a new definition at § 679.2. For purposes of Atka mackerel platooning and for restriction of Pacific cod trawling during the Atka mackerel HLA directed fishery, the definition of the HLA is waters within 20 nm seaward of Steller sea lion sites listed in Table 24 of 50 CFR part 679. This definition is needed to include Rat Island and Cape Ivakin haulouts because these are not listed under 50 CFR 226.202 as critical habitat but are identified by NMFS as needing protection as part of the measures implemented to avoid the likelihood of jeopardy.

Atka mackerel fishing is prohibited in critical habitat east of 178° W long. to provide maximum protection to Steller sea lions and because Atka mackerel is readily available in waters outside of critical habitat. Atka mackerel harvest is permitted in critical habitat west of 178° W long. under a system of platooning and with observers. All vessels fishing for Atka mackerel in HLA west of 178° W long. are required to have two observers so that NMFS can meet the requirements of the 2001 BiOp to adequately monitor fisheries to manage critical habitat limits.

To reduce the amount of daily catch in the HLA by about half and to disperse the fishery over two areas, the Atka mackerel fleet is divided into two platoons assigned to fish in the HLA in either areas 542 or 543. NMFS will assign vessels to a platoon for each area that a vessel registered to fish. Each platoon in an area will be assigned to fish during one of the two directed fisheries held in the area during a season. This division will be done through a lottery system that ensures random selection of vessels to a platoon. The random selection process will be used to ensure that each participant in a platoon is provided an equal opportunity to fish in a platoon of vessels in an HLA in area 542 or area 543 and that the combination of vessels fishing together is determined by chance.

With the random selection process, the potential exists that vessels of less fishing capability may be in a group of vessels with more fishing capability, affecting the smaller vessel's opportunity to harvest fish. By dividing the vessels registered for an area into platoons, all vessels will be competing with half of the vessels that they normally compete against, reducing competition on the fishing grounds and potentially enhancing the overall harvest for smaller vessels in the HLA. However, the potential for competitive advantage of larger vessels from the same company working together over the smaller vessels will be reduced with the random platoon assignments, making it more likely that dispersion of catch over time is achieved.

During a fishing season, the fishing limit inside the HLA will be split into two predetermined Atka mackerel directed fisheries with each platoon fishing under a harvest limit in proportion to the number of vessels in the platoon compared to the number of vessels registered for the area. The time period of the directed fishery is based on the combined harvest potential of the vessels in the platoon. The start date for the first directed fishery is 48 hours after the closure of the area 541 Atka mackerel directed fishery. Historically, area 541 is harvested first with vessels, which later move into areas 542 and 543. Starting the HLA directed fisheries 48 hours after closure of area 541 provides a fair start to the HLA fisheries by allowing for off loading of catch and travel to areas 542 and 543. When the HLA directed fishery is closed in either areas 542 or 543, vessels may fish outside of the HLA anywhere in the Aleutian Islands where directed fishing is open.

If a vessel has registered to fish in an HLA in both areas 542 and 543 during a season, it will be assigned to fish in directed fisheries in area 542 and in area 543 that begin on different dates. Regardless of the number of vessels in a platoon, an HLA directed fishery would last no longer than 14 days to allow each platoon ample opportunity to harvest in the HLA in areas 542 or 543 before the end of the season.

During each season, vessels registered to fish in the HLA in areas 542 or 543 may not fish for groundfish in any other location while the first directed fishery in an HLA which the vessel is assigned is open. This stand down provision may last up to 14 days, the maximum length of an HLA directed fishery for Atka mackerel.

Vessels not wishing to participate in the platoons may fish for Atka mackerel outside of the HLA and outside of critical habitat in the BSAI subareas.

5. BSAI and Western and Central Districts of the GOA Pacific Cod Seasons, Apportionments, and Closures

For the BSAI and Western and Central Districts of the GOA Pacific cod seasons, this emergency interim rule separates the TACs into separate seasonal apportionments depending on gear type (Table 2). For the nontrawl vessels in the BSAI and Western and Central Districts of the GOA, the A season begins on January 1, 2002, and ends June 10, 2002. Sixty percent of the annual TAC, after subtraction of any reserves and incidental catch, will be available for harvest during the A season and will be allocated among the various sectors as provided in § 679.20(a)(6)(iii) and (a)(7). The nontrawl B season in both the BSAI and Western and Central Districts of the GOA begins at 1200 hours, A.l.t., on June 10, 2002, and ends on December 31, 2002. Forty percent of the annual TAC, after subtraction of any reserves and incidental catch, will be available for harvest during the B season and will be allocated among the various sectors as provided in § 679.20(a)(6)(iii) and (a)(7). Pot and hook-and-line vessels less than 60 ft (18.3 m) LOA in the BSAI have no seasonal apportionment. For the trawl fisheries in the BSAI, the annual TAC is apportioned to three seasons. The A season starts January 20 and ends April 1 with 60 percent of the annual TAC allocated. The B season starts April 1 (1200 hours, A.l.t.) and ends June 10 with 20 percent of the annual TAC allocated and the C season starts June 10 (1200 hours, A.l.t.) and ends November 1 with 20 percent of the annual TAC allocated. In the Western and Central Districts of the GOA, trawl vessels are allocated 60 percent of the annual TAC in the A season and 40 percent in the B season.

Table 2.—Bering Sea and Aleutian Islands Subareas and Western and Central Districts of the Gulf of Alaska Pacific Cod Seasons and TAC Apportionments
Gear and area | A season and apportionment | B season and apportionment | C season and apportionment
Trawl in W/C GOA | January 20-June 10 (60%) | September 1-November 1 (40%)
Trawl in BSAI | January 20-April 1 (60%) | April 1-June 10 (20%) | June 10-November 1 (20%)
Hook-and-line, pot, and jig in W/C GOA, and pot > 60 ft. LOA in BSAI | January 1-June 10 (60%) | September 1-December 31 (40%)
Hook-and-line > 60 ft. and jig in BSAI | January 1-June 10 (60%) | June 10- December 31 (40%)
CDQ* pot, pot and hook-and-line < 60 ft in the BSAI | January 1-December 31
*Community Development Quota program. CDQ vessels fishing with non-pot gear are governed by the gear specific seasonal restrictions listed in Table 2.

Unused Pacific cod allocations among sectors and unused apportionments for seasons in the BSAI and Western and Central GOA may be redistributed, considering bycatch and optimization of catch by gear groups and sectors.

Moving 20 percent of the BSAI Pacific cod TAC from the first season to the second season provides greater dispersion of the harvest and limits fishing in the most sensitive period for Steller sea lions. Apportioning the BSAI Pacific cod trawl TAC among three seasons shifts 20 percent of the harvest out of the June through October time period compared to 2001 apportionments. Moving 20 percent of the harvest from the second half of the year enhances the opportunity for the Pacific cod trawl fleet to harvest Pacific cod when it is aggregated, optimizing the potential to reach the annual harvest limit. The apportionment during the first half of the year is further divided into 60 percent and 20 percent of the annual TAC.

Apportioning Pacific cod between two or among three seasons may affect the ability of fishermen to fully utilize the TAC for Pacific cod. In previous years, a large portion of the Pacific cod TAC was taken during the early part of the calendar year. Pacific cod tends to aggregate during the early part of the calendar year when it is easier to locate and catch. Also, as Pacific cod becomes disaggregated, the increased fishing time and effort to catch the same amount of fish results in increases in bycatch, which also can affect the success of fully utilizing the TAC.

In the BSAI, the trawl allocations of Pacific cod TAC are further allocated to catcher vessels and catcher/processors. The seasonal allocation for the Pacific cod trawl catcher vessels is further split to 70 percent in the A season, 10 percent in the B season, and 20 percent in the C season. Pacific cod trawl catcher/processors' portion of the TAC is allocated 50 percent in the A season, 30 percent in the B season, and 20 percent in the C season. Many of these vessels participate in the AFA pollock fishery, which has resulted in the dispersion over time of not only pollock but also Pacific cod harvests in the BSAI. Rollovers between these sectors will continue to be allowed under § 679.20(a)(7)(ii). Regulatory provisions are added by this emergency interim rule to allow the rollover of BSAI Pacific cod trawl allocations between seasons. Trawl allocations to catcher vessels and catcher/processors may continue to be moved between vessel types within a season before reallocation to other gear types to allow for full optimization of an allocation by the trawl sector during a season. These gear allocations will help to further disperse the Pacific cod fishery over time and lessen the potential for depletion of prey.

In the GOA, bycatch of Pacific cod in other groundfish fisheries during the time period between the closure of the A season and the opening of the B season will be deducted from the B season apportionment. This recommendation by the Council is intended to optimize the harvest of Pacific cod when it is most vulnerable to fishing gear while fully providing for Pacific cod bycatch needs in other groundfish fisheries.

Under this emergency interim rule, Pacific cod harvest by trawl gear in the Aleutian Islands critical habitat in areas 542 and 543, west of 178° W long. is prohibited during the Atka mackerel HLA directed fisheries. (See above discussion of Atka mackerel for the definition of the HLA.) This provision reduces potential competition for prey posed by concurrent trawl fisheries in critical habitat. It also allows for easier management by NMFS of the Atka mackerel fishery during the short time period that HLA is open to directed fishing for Atka mackerel vessels. Vessels fishing in the HLA during the Atka mackerel directed fishing opening will be managed for Atka mackerel only, instead of managing directed fisheries for Atka mackerel and Pacific cod.

Closed Areas and Management Measures

The Steller sea lion protection measures include fishery closure areas designed to reduce competition with Steller sea lions, consistent with the concerns described in the 2001 BiOp. Scientific information suggests that the effects of the groundfish fisheries on Steller sea lions may be greatest around rookeries and haulouts. Fishing prohibitions around rookeries and haulouts is important to the most vulnerable Steller sea lions, lactating females, young-of-the-year, and juveniles.

Since publication of critical habitat definitions in 50 CFR 226.202, NMFS has identified 19 additional haulouts in the BSAI and the GOA as areas to be protected from fishery effects similarly to critical habitat. The Council recommended and NMFS agreed that the 19 additional haulouts should be treated in this manner to provide protection to Steller sea lions occurring in areas with the same features as areas listed as critical habitat. The majority of these sites had fishing prohibitions consistent with those for critical habitat closures sites in 2001. Cape Ivakin and Rat Island in the Aleutian Islands are two haulouts that are not listed as critical habitat and were not protected from fishing activities in 2001 in the same manner as critical habitat in the Aleutian Islands. More information and justification for including these haulouts is contained in the 2001 BiOp.

At its November 2001 meeting, the Alaska Board of Fish (BOF) accepted Steller sea lion protection measures for the State parallel fishery similar to Federal protection measures, with two exceptions. State parallel fisheries are open during the same time period as Federal directed fisheries in the EEZ. NMFS deducts harvest amounts which occur during the State parallel fisheries from the Federal TACs. Other State-managed groundfish fisheries function exclusively under State regulations and management policies and are not accounted for by NMFS management. The single exception is the State-managed Pacific cod fishery in the Central, Western, and Prince William Sound State waters of the GOA. The Federal TACs for Pacific cod in the Western and Central districts are reduced from the ABCs by the amounts anticipated to be taken in the State-managed Pacific cod fishery. The State parallel groundfish fisheries management plan requires the Commissioner by emergency order to open and close parallel seasons and implement gear, time, and area restrictions at the same time and in the same manner as Federal managers do under the regulations implementing the FMPs. The State intends to implement Steller sea lion protection measures in the State parallel fisheries regulations that apply to State waters 0 nm to 3 nm and in Prince William Sound and Cook Inlet.

The BOF gave the Commissioner of the Alaska Department of Fish and Game emergency order authority to exempt pot fishing for Pacific cod within 0-3 nm of Caton Island and Cape Barnabus from the parallel fishery closures which are based on Federal rules. Because of the slow rate of extraction in the pot fishery and the small amount of Pacific cod harvest by this gear sector, NMFS determined through continued consultation under section 7 of the ESA that this change to the action would not result in any appreciable effects on Steller sea lions not previously considered in the 2001 BiOp.

Four haulout sites listed as critical habitat under 50 CFR 226.202 occur in the internal waters of Prince William Sound. These sites are Pt. Elrington, The Needle, Perry Island, and Pt. Eleanor. Glacier Island also occurs in Prince William Sound and is one of the 19 haulouts not listed as critical habitat. There is no Federal fishery or State parallel fishery in this area. The State-managed fisheries are closed to pollock trawling from June 1-November 1 from 0 nm to 10 nm around Pt. Elrington, The Needle, and Glacier Island. Harvest of pollock is also apportioned across three areas of Prince William Sound with no more than 40 percent of the total harvest coming from a single area. This emergency interim rule includes no protection measures for these sites inside State internal waters.

The protection measures make no changes to the existing 3 nm no-entry zones around rookeries listed in 50 CFR 223.202. Those sites that are subject to the no-entry zones under 50 CFR 223.202 are also listed in Table 21 to 50 CFR part 679 for fishing closures. However, persons should refer to 50 CFR 223.202 for the appropriate locations of the no-entry zones. In some cases those locations may be different than locations for the same sites that are also listed in Table 21 to 50 CFR part 679. NMFS will reconcile any differences between the two sets of regulations in the near future. However, until that occurs, persons are advised to refer to 50 CFR 223.202 for the proper location of no-entry zones and Table 21 to 50 CFR part 679 for proper location of sites for fishery closures. Two additional rookeries currently not designated as critical habitat are included in Table 21 for groundfish fishing closures within 3 nm of the rookeries. These sites are Wooded Island and Seal Rocks (Cordova). The 3 nm groundfish fishing closures apply to all groundfish fishing vessels and all gear types. The State-managed and parallel fisheries through emergency orders and regulations prohibit entry and/or groundfish fishing in waters within 3 nm of all of the rookeries listed on Table 21.

The RPA Committee made recommendations for closures around haulouts and rookeries dependent on the rate of decline seen at the site and historical fishing patterns. In some cases, sites with higher rates of decline received greater protection over areas with lower declines. Jig vessels are exempt from most of the closure zones beyond 3 nm of rookeries and beyond the shore around haulouts. This is due to their slow rate of extraction and small number of vessels which prosecute these fisheries. Site specific closures are detailed in Tables 21 through 24 of 50 CFR part 679 and in § 679.22. Closures apply only to federally permitted vessels. A summary of area and fishery specific closures are as follows:

Groundfish Fishery Closures

1. All rookeries listed in Table 21 of part 679 are closed to directed groundfish fishing with federally permitted vessels using any gear type from 0 nm to 3 nm.

2. Five haulout areas in the Northern Bering Sea are closed to directed fishing with federally permitted vessels for pollock, Pacific cod, and Atka mackerel with vessels using trawl, pot, or hook-and-line gear from 0 nm to 20 nm. These haulouts are Hall Island, Round (Walrus) Island, St. Lawrence Island/S. Punuk Island, St. Lawrence Island/SW Cape, and Cape Newenham. Historically, only limited fishing has occurred for the three prey species near these haulouts, and closures offer protection from developing fisheries in this area.

3. The Seguam foraging area, and the Bogoslof area are closed to pollock, Pacific cod, and Atka mackerel fishing by federally permitted vessels using any gear types. Catcher vessels less than 60 ft (18.3 m) LOA may fish for Pacific cod using hook-and-line or jig gear in the Bogoslof Pacific cod exemption area. In addition, critical habitat areas around two rookeries and four haulouts in the Chignik area are closed to pot, hook-and-line, and trawl fishing for the three species.

Aleutian Island Closures

1. The Aleutian Islands subarea is closed to pollock fishing by federally permitted vessels in 2002. Pollock fishing was prohibited in the Aleutian Islands subarea in 2000 and 2001 as part of Steller sea lion protection measures. The Council recommended and NMFS agrees with the subarea closure in 2002 to allow for additional analysis and consideration for opening the AI subarea to pollock fishing outside of critical habitat in 2003.

2. Atka mackerel fishing by federally permitted vessels is prohibited in critical habitat east of 178° W long. in the Aleutian Islands and Bering Sea subareas. Historically, Atka mackerel has been harvested outside of critical habitat east of 178° W long. Because of this, the fishery is expected to be able to harvest their allocation while providing substantial protection to Steller sea lions. West of 178° W long., Atka mackerel directed fishing by federally permitted vessels is prohibited between 0 nm and 15 nm of Buldir rookery, and prohibited between 0 nm and 10 nm of the remaining rookeries. Due to a continued steep decline in the population at Buldir greater than 10 percent, an additional 5 nm protection zone was added. Additionally, Buldir is isolated from other near shore foraging locations making it more susceptible to local depletions. Atka mackerel directed fishing by federally permitted vessesls is also prohibited between 0 nm and 3 nm of haulouts west of 178° W long. to protect near shore foraging areas.

3. Pacific cod fishing closure areas for federally permitted vessels are dependent on the gear used and location. Hook-and-line and pot vessels are prohibited from fishing (1) in critical habitat east of 173° W long. to the western boundary of the Bogoslof area to reduce gear conflicts with trawl vessels, (2) 0 nm to 10 nm of Buldir rookery, and (3) 0 nm to 20 nm of Agligadak rookery. Increased protection around Agligadak is established because this site has a high rate of Steller sea lion count declines. Due to limited extraction rates by hook-and-line and pot vessels, closures are limited to 0 nm to 3 nm around rookeries.

Pacific cod trawl closures for federally permitted vessels in the Aleutian Islands include (1) east of 178° W long. between 0 nm and 10 nm of rookeries, except Agligadak rookery which is closed 0 nm to 20 nm, and between 0 nm and 3 nm of haulouts, and (2) west of 178° W long., between 0 nm and 20 nm around haulouts and rookeries until the Atka mackerel HLA fishery is completed. After the HLA fishery for Atka mackerel is closed for the season, Pacific cod trawling is prohibited 0 nm to 3 nm of haulouts and 0 nm to 10 nm of rookeries. Trawl closures are more extensive around haulouts and rookeries due to higher removal rates and large extractions by trawl gear. Increased protection around Agligadak rookery is established because this site has a high rate of Steller sea lion decline.

Bering Sea Closures

1. Atka mackerel directed fishing by federally permitted vessels is prohibited in critical habitat in the Bering Sea subarea. This will provide protection to Steller sea lions by reducing the potential for competition for Atka mackerel prey.

2. Pollock directed fishing by federally permitted vessels is prohibited (a) between 0 nm and 10 nm of all rookeries and haulouts, except four Pribilof haulouts which are closed between 0 nm and 3 nm, (b) in the Bering Sea Pollock Restriction area during the A season, and (c) non-CDQ trawl catcher/processors are prohibited from fishing in the CVOA during the B season (June 10-November 1) to reduce the rate and amount of harvest in critical habitat. No Steller sea lions were observed during the last NMFS survey of the Pribilof haulouts in 1991; therefore, the Council recommended and NMFS concurs that these haulouts do not require 10 nm protection zones. The Pribilof Islands Conservation Zone described at § 679.22(a)(6) is a trawl closure area, which encompasses some of the Steller sea lion critical habitat areas. Five haulouts and one rookery are located in the Bering Sea Pollock Restriction Area. This area is closed to pollock fishing in the A season to provide protection to Steller sea lions in the near shore foraging areas during the most critical time of the year.

3. Pacific cod closures for federally permitted vessels are dependent on the type of gear used. Fishing for Pacific cod with vessels using trawl gear is prohibited between 0 nm and 10 nm around all rookeries and haulouts, except for the four Pribilof haulouts that are closed between 0 nm and 3 nm. All hook-and-line and pot gear vessels are prohibited from fishing between 0 nm and 3 nm of rookeries and haulouts, except the Amak rookery which is closed to hook-and-line and pot gear from 0 nm to 7 nm.

In 2001, the closures around rookeries in the Bering Sea subarea were 10 nm for vessels greater than 60 ft (18.3 m) LOA using nontrawl gear to harvest Pacific cod. For 2002, closure areas are 3 nm, a reduction from the 10 nm based on the lower rate of extraction by vessels using nontrawl gear. As stated earlier in the preamble, the Bogoslof area is closed to pollock, Pacific cod, and Atka mackerel directed fishing. The rest of the Bering Sea subarea, except within 3 nm of rookeries, has been open to Pacific cod nontrawl fisheries during the same time period that the non-pup counts have been increasing. Regardless, for the Bering Sea subarea, an amount of critical habitat closure was the target for designing the protection measures that apply to the Pacific cod nontrawl fisheries. Large amounts of this target were accounted for in the closures of the northern haulouts and the Bogoslof area. Amak rookery is closed out to 7 nm. The extension beyond 3 nm was important to reach an annual BS subarea critical habitat closure amount based on the total area.

A small exemption area was established in the southern portion of the Bogoslof area for catcher vessels less than 60 ft (18.3 m) LOA using hook-and-line or jig gear for directed fishing for Pacific cod. This area includes all water of the Bering Sea south of a line connecting a point 3 nm north of Bishop Pt. to Cape Tanak. The Bishop Pt. 10 nm closure area remains in effect for these vessels in the Bogoslof area. The amount of Pacific cod harvested from the exemption area is limited to 113 mt to minimize the possibility of localized depletion of Pacific cod. This exemption will allow a small number of vessels from the Dutch Harbor area a relatively safe location to harvest Pacific cod and will reduce the potential for gear conflicts east of Bishop Pt. These vessels have limited opportunities because there is no Pacific cod State-managed fishery in the Dutch Harbor area, and some vessels are constrained by their license limitation permit from fishing in Gulf of Alaska waters.

A 0-10 nm closure is also established around Bishop Pt. and Reef/Lava haulouts for vessels greater than or equal to 60 ft (18.3 m) LOA using hook-and-line gear. This restriction was added to reduce the possibility of gear conflicts between hook-and-line and pot vessels in the Pacific cod fishery and to provide added protection to Steller sea lions by reducing fishing effort near these haulouts.

Gulf of Alaska Closures

1. Atka mackerel directed fishing by federally permitted vessels is prohibited in the GOA subarea. Biomass has been insufficient to support a directed fishery for the past several years.

2. Pollock and Pacific cod directed fishing by federally permitted vessels using trawl gear is closed between 0 nm and 10 nm or 20 nm around most haulouts and rookeries year round. Exceptions include: (a) Marmot Island rookery is closed between 0 nm and 15 nm during the first half of the year and between 0 nm and 20 nm during the second half of the year, (b) Gull Point and Ugak Island are closed between 0 nm and 3 nm in the second half of the year, (c) Cape Barnabus, Cape Ikolik, Mitrofania, Spitz, Whaleback, Sea Lion Rocks, Mountain Point, Castle Rock, and Canton haulouts are closed between 0 nm and 3 nm, and (d) Pinnacle Rocks rookery is closed between 0 nm and 3 nm.

Marmot Island is closed between 0 nm and 15 nm in the first half of the year to allow the pollock fishing fleet access to pollock that are likely to have roe and are more valuable. Marmot Island is closed between 0 nm and 20 nm in the second half of the year. Closures are reduced to 3 nm around a number of sites in the GOA year round or for the B season to provide opportunities for fishing by small, local trawl fleets that have historically fished near these sites in consideration of national standard 8 of the Magnuson-Stevens Act. These sites are located in areas that have lower rates of decline for non-pups since 1991 than other areas of the GOA. The rate of extraction by the small vessel trawl fleet is expected to be small enough to avoid any localized depletion of prey for Steller sea lions.

3. Directed fishing for Pacific cod with federally permitted vessels using hook-and-line or pot gear is prohibited: (a) 0 nm to 10 nm or 20 nm of all rookeries except for Seal Rocks, Wooded Island, Atkins, Chernabura, Clubbing Rocks, and Pinnacle Rock which are closed 0 nm to 3 nm; (b) 0 nm to 20 nm around Sutwik, Nagai Rocks, Lighthouse Rocks, and Kak haulouts; (c) 0 nm to 3 nm around Cape Barnabus, Cape Ikolik, Mitrofania, Spitz, Whaleback, Sea Lion Rocks, Mountain Point, Castle Rock, and Canton haulouts; (d) 0 nm to 10 nm around haulouts between 170° W and 164°30′00″ W long. for hook-and-line; and (e) 0 nm to 20 nm around haulouts between 170° W and 164°30′00″ W long. for pot gear.

Closures around sites in the area of Chignik are to 20 nm to increase the overall closure area for the GOA. This area also has one of the higher rates of Steller sea lion non-pup count declines in the GOA since 1991, making it an area of greater potential sensitivity to fishing activities. In accordance with national standard 8 of the Magnuson-Stevens Act, sustained participation of the communities in the Pacific cod fishery in this area was considered by the RPA Committee and Council. Historically, Pacific cod available in the State-managed fishery has not been fully harvested. Even with the Federal fishery closure, opportunity still exists for Pacific cod fishing with vessels using pot or jig gear under the State-managed fishery. With these gear type fisheries available under the State of Alaska managed fishery and jig fishing available under the Federal fishery, the closure of this area should not pose excessive economic hardship on the residents of the small communities which use these fishing grounds.

Vessel Monitoring Systems

To ensure vessels are complying with area restrictions, § 679.7 prohibits all vessels permitted to directed fish for Pacific cod, pollock, or Atka mackerel with trawl, hook-and-line, or pot gear from directed groundfish fishing or fishing for halibut IFQ unless they have an operable VMS at all times that the Atka mackerel, Pacific cod, or pollock directed fisheries they have permits for are open. This is necessary to meet one of the reasonable and prudent measures detailed in the 2001 BiOp requiring that NMFS have the capability to detect illegal fishing activity inside closed areas. Halibut IFQ is included in the prohibition because many Pacific cod vessels may also be used for halibut IFQ fishing and not just groundfish harvest. This emergency interim rule makes this requirement effective 1200 hours, A.l.t., June 10, 2002, to allow the vessel owners time to purchase and install VMS equipment. The Atka mackerel fishing fleet is currently equipped with VMS, as required by § 679.7(c)(3). Jig vessels are exempt from this requirement due to the fact they generally are not restricted except within 3 nm of rookeries (no fishing zones in Table 21 to 50 CFR part 679) and in the Seguam foraging and Bogoslof areas. Before groundfish fishing, vessel owners will also be required to inform NMFS of the VMS transponder ID number and the vessel on which the transponder will be used so that equipment operation can be confirmed.

The Chiniak Gully Pollock Research Program

The Council endorsed a research project proposed by NMFS in the Chiniak Gully off Kodiak Island to determine the effect of pollock fisheries on pollock school dynamics and the likelihood of localized depletions. The experiment includes the closure of Chiniak Gully to trawl fishing from August 1 to no later than September 20. A more detailed description of the experiment is provided in the draft environmental assessment/regulatory impact review/final regulatory flexibility analysis for the proposed rule to implement a seasonal closure of a portion of the Central Regulatory Area, GOA, to vessels using trawl gear (65 FR 41044, July 3, 2000). For copies of these documents, please contact NMFS (see ADDRESSES). This experiment was implemented by emergency interim rule in 2001 (66 FR 37167, July 17, 2001). This emergency interim rule continues the implementation of this experiment including trawl closures necessary to conduct the experiment.

National Standards

A summary of how this action addresses relevant national standards under the Magnuson-Stevens Act follows. The Assistant Administrator for Fisheries finds that the Steller sea lion protection measures recommended by the Council meet the applicable national standards.

National Standard 1. Achieving optimum yield while preventing overfishing. The harvesting of pollock, Atka mackerel, and Pacific cod will be controlled so that directed fishing will stop if the biomass falls to below 20 percent of the unfished projected biomass. This will ensure that prey is available to Steller sea lions and that fish stocks may be maintained for optimal yield without the likelihood of overfishing. NMFS determined in the 2001 BiOp that the harvest control in this emergency interim rule is protective of Steller sea lions and their designated critical habitat and is consistent with this national standard.

National Standard 2. Use of best scientific information available. NEPA and ESA analyses of this action were based on the latest reliable information available regarding Steller sea lion mortality, diet, foraging behavior, count data, and recent scientific review of the Comprehensive BiOp and the draft 2001 BiOp. The RPA Committee and Council carefully considered these analyses during the development of their recommendations for Steller sea lion protection measures. The standard has been met because NMFS used the best available scientific information, meeting this national standard.

National Standard 3. Manage an individual stock of fish or interrelated stocks of fish as a unit throughout its range. Groundfish stocks are continuing to be managed under the Steller sea lion protection measures as units based on species and occurrence, and stock assessment information continues to be used in these management decisions. NMFS also works closely with the State of Alaska in managing fish stocks that occur across Federal and State waters as individual units. As an example, GOA Pacific cod acceptable biological catch (ABC) accommodates both a Federal fishery and a State-managed cod fishery. Further, the State opens and closes State waters consistent with the management of the groundfish fisheries in Federal waters.

National Standard 4. Fair and equitable allocation to individuals, corporations, or other entities. The RPA Committee was comprised of representatives from different regions and types of fisheries so that differential effects of changes to pollock, Pacific cod, and Atka mackerel were considered as the Steller sea lion protection measures were developed. The draft SEIS and public comments from fishing industry representatives and communities also were considered by the RPA Committee and Council before finalizing recommended protection measures. This allowed the RPA committee and Council to consider the impacts of the protection measures on different sectors of the fishing industry and on different communities and to take steps to fairly distribute the impacts so that no one sector or community suffered an excessive adverse economic impact. NMFS determined through SEIS analysis that the process described above provided recommendations that led to fair and equitable allocation of the impacts of the protection measures.

National Standard 5. Efficiency of using fishery resources. The RPA Committee and Council considered the efficiency of using the fishing resources when developing the Atka mackerel platooning management, and for setting closure areas and seasons for the pollock, Atka mackerel, and Pacific cod fisheries. Within the limitations of protection measures, the fisheries management measures were developed to ensure that as much of the available TAC as possible could be harvested with the least amount of effort. NMFS has determined that fishing will take place in a manner that protects Steller sea lions and their critical habitat and minimizes disruption to fisheries and allows for efficient use of resources.

National Standard 6. Consideration of variations among and contingencies in fisheries, fishery resources, and catches. The RPA Committee process ensured that the Steller sea lion protection measures were developed with understanding of the variations in fishing activities in the different areas and for different species and variations in the abundance of different fish stocks in different areas. NMFS determined that the protection measures were developed taking variations into consideration, consistent with this national standard.

National Standard 7. Minimize cost and avoid unnecessary duplication. The economic analysis in the SEIS for the Steller sea lion protection measures shows that the protection measures in this emergency interim rule minimized the cost to the industry while protecting Steller sea lions and their critical habitat. Based on the SEIS analysis, NMFS determined that the protection measures are consistent with this national standard.

National Standard 8. Consider the importance of fishing resources to fishing communities. Part of the SEIS analysis included socioeconomic impacts of the action and alternatives on small communities. Several provisions in the protection measures allow small vessels and vessels with nontrawl gear to fish near their home ports to ensure small community access to the fishing resources. Provisions in the protection measures also allow for fishing opportunities for small coastal communities in Alaska by providing for year long Atka mackerel fishing seasons and by allowing access to fishing areas used by these communities.

At its October 2001 meeting, the Council did recognize that its preferred alternative would impose costs and burdens, particularly on some small coastal communities and associated fishing fleets. The Council expressed its intent to explore management measures intended to provide further relief to these sectors, yet meet the requirements of applicable law. Council consideration of these measures is scheduled for its April 2002 meeting. NMFS determined that the impact of the protection measures in this emergency interim rule on fishing communities was considered in developing the Council's recommendation, consistent with this national standard.

National Standard 9. Reduce bycatch. In designing the protection measures, the RPA Committee considered areas and timing of fishing to address concerns about potential increases in bycatch in the Atka mackerel, pollock, and Pacific cod fisheries. The Atka mackerel additional harvest in the harvest limit area in 2002 is expected to reduce the amount of rockfish bycatch, normally encountered outside of critical habitat. Salmon bycatch will be evaluated in 2002 as the SCA is opened where salmon bycatch is known to occur, but the pollock fishing industry is implementing incentive measures to reduce bycatch. The regulations will continue to have bycatch closure areas for crab, herring, and salmon and prohibited species catch limits as detailed in Part II of this preamble. NMFS has determined through SEIS analysis that the protection measures minimize bycatch to the extent possible while providing protection to Steller sea lions and minimizing adverse economic impacts on the fisheries.

National Standard 10. Safety. Several provisions in the protection measures allow small vessels to fish near their home ports or in near shore waters that are more protected from bad weather than off shore waters. Some examples include the Bogoslof Pacific cod exemption area and Pacific cod nontrawl fishery in the Sand Point and King Cove area near haulouts.

Part II. Specifications

The FMP and its implementing regulations require NMFS, after consultation with the Council, to specify annually the TAC for each target species and for the “other species” category, the sum of which must be within the optimum yield range of 1.4 million to 2.0 million metric tons (mt) for the BSAI and within the optimum yield range of 116,000 mt to 800,000 mt for the GOA (§ 679.20(a)(1)).

NMFS is establishing the 2002 TAC specifications for the BSAI and GOA by this emergency interim rule. The normal procedure of publishing proposed, interim, and final TAC specifications was not followed in 2002 because the information needed to establish the harvest specifications did not become available until mid-November and the Council recommendations were not received by NMFS until December 11, 2001. Analysis of the action and the preparation of the Federal Register notification could not be completed until the Council recommendations were received for the final specifications as well as the Steller sea lion protection measures, of which the specifications are an integral part and must be in place by January 1, 2002, to allow the orderly commencement of the 2002 groundfish fisheries. Accordingly, it is impracticable to provide prior notice and an opportunity for public comment, or to delay for 30 days the effective date of this rule. Further, it would be contrary to the public interest to delay the start of the season to allow for prior notice, an opportunity for public comment, and for a 30-day delay in the effective date.

This emergency interim rule includes the following provisions for the BSAI and GOA: (1) AFA measures; (2) specifications of overfishing level (OFL), ABC, and TAC for each groundfish species category; (3) apportionments of reserves; (4) allocations of the sablefish TAC to vessels using hook-and-line and trawl gear; (5) apportionments of pollock TAC among regulatory areas, seasons, and allocations among different industry sectors including Bering Sea fishery cooperatives; (6) apportionments of Pacific cod TAC among regulatory areas, seasons, and allocations among different industry sectors; (7) apportionment of Atka mackerel in the BSAI among seasons, gear, and regulatory areas; (8) PSC limits; (9) fishery and seasonal apportionments of the Pacific halibut PSC limits; (10) fishery apportionments of other PSC limits in the BSAI; (11) Pacific halibut assumed discard mortality rates; (12) groundfish harvest and PSC limitations for AFA vessels; (13) closures to directed fishing for specified groundfish targets; (14) AFA measures for inshore and offshore component participation, crab harvesting, and observer requirements; and (15) an increase in the contribution of arrowtooth flounder to the CDQ non-specific reserve. A discussion of these measures follows.

AFA Measures

AFA prohibitions on crab harvesting and processing are continued with this emergency interim rule. In § 679.7, catcher vessels must have a sideboard endorsement for BSAI crab to retain crab and can not exceed the processing limits. These prohibitions are necessary to limit the advantage of AFA pollock fishery participants over open access crab fishery participants.

Another AFA measure maintained with this emergency interim rule under § 679.7 is prohibiting the participation in both the inshore and offshore component during a fishing year. This is necessary to maintain the Council's inshore and offshore policy of harvest allocation in the GOA.

Observer coverage requirements for AFA vessels in § 679.50(c)(4)(vi) are continued with this emergency interim rule to maintain consistency between observer requirements in the CDQ fishery and the AFA fishery where the same vessels are used and the same level of observer coverage is needed. This will allow for smoother transitions between the two types of fisheries.

Acceptable Biological Catch (ABC) and TAC Specifications

The final ABC levels are based on the best available scientific information, including projected biomass trends, information on assumed distribution of stock biomass, and revised technical methods used to calculate stock biomass. The FMPs specify the formulas, or tiers, to be used in computing ABCs and overfishing levels. The formulas applicable to a particular stock or stock complex are determined by the level of reliable information available to fishery scientists. This information is categorized into a successive series of six tiers.

In December 2001, the Scientific and Statistical Committee (SSC), Advisory Panel (AP), and Council reviewed current biological information about the condition of groundfish stocks in the BSAI and GOA. This information was compiled by the Council's Plan Teams and is presented in the final 2002 SAFE reports for the BSAI and GOA groundfish fisheries, dated November 2001 (See ADDRESSES). The SAFE reports contain a review of the latest scientific analyses and estimates of each species' biomass and other biological parameters, as well as summaries of the available information on the BSAI and GOA ecosystem and the economic condition of groundfish fisheries off Alaska. From these data and analyses, the Plan Teams estimate an ABC for each species or species category.

The Council considered the ecological, socioeconomic, and ecosystem information in the SAFE reports, recommendations from its SSC and AP, as well as public testimony when recommending ABCs and TACs at its December 2001 meeting.

The final specifications are set forth in Tables 3 through 29 of this action. For 2002, the sum of TACs is 2 million mt in the BSAI and 237,890 mt in the GOA.

Bering Sea and Aleutian Islands Management Area

In December 2001, the SSC, AP, and Council reviewed the BSAI Plan Team's recommendations for OFL and ABC levels. Except for Bogoslof pollock, and the “other species” category, the SSC, AP, and Council endorsed the Plan Team's ABC recommendations. Based on the best available information, the SSC recommended a lower ABC for Bogoslof pollock and a slightly higher ABC for the “other species” category than the Plan Team recommended. For Bogoslof pollock, the SSC agrees with the Plan Team recommended ABC. The Plan Team recommended splitting the “other species” category into sculpins, skates, sharks and octopus with individual group ABCs based on mean catch since 1977. The SSC disagreed with this approach and recommended calculating the individual group ABCs, summing these ABCs to form an aggregate maximum allowable ABC and scaling the ABC down to be closer to recent TACs for the complex. For all species, the AP endorsed the ABCs recommended by the SSC, and the Council adopted the AP's recommendations.

The Council's TAC recommendations were based on the ABCs as adjusted for other biological and socioeconomic considerations, including maintaining the total TAC within the required OY range of 1.4 million to 2.0 million mt. The Council adopted the AP's TAC recommendations.

Through 2000, the “other red rockfish” complex was comprised of northern, sharpchin, rougheye, and shortraker rockfish in the Bering Sea subarea. In the Aleutian Islands subarea, this complex was split out into two groups comprised of northern/sharpchin and rougheye/shortraker rockfish. For 2002, the Council recommended species-specific BSAI OFLs and ABCs for each species in the “other red rockfish” complex to reduce the potential for one species to be fished disproportionately to its abundance and resulting in overfishing concerns. The Council also recommended that sharpchin rockfish, which were previously included in the “other red rockfish” complex, be moved into the “other rockfish” complex.

NMFS agrees with these recommendations, but will not be able to implement all of them in 2002 due to monitoring constraints in the hook-and-line gear fisheries. Shortraker and rougheye rockfish are reported by observers using a group species code, which, under current observer procedures, cannot be separated into specific species and incorporated into routine observer reports prior to the 2002 fishing year. Thus NMFS is modifying the Council's recommendation and is establishing BSAI wide OFL and ABC amounts for northern and rougheye/shortraker rockfish. The Bering Sea subarea and Aleutian Islands subarea now will be managed for CDQ and non-CDQ with one TAC group for shortraker/rougheye rockfish, a separate TAC for northern rockfish, and sharpchin rockfish will join the “other rockfish” category. Changing the Bering Sea and Aleutian Islands subareas “other red rockfish” complex in this manner addresses overfishing concern by decreasing the TAC amounts. The final ABCs as recommended by the Council and modified and approved by NMFS are listed in Table 3.

As in 2001, for the CDQ fisheries, NMFS is combining the northern and shortraker/rougheye rockfish in the Bering Sea into the “other red rockfish” species category. The CDQ reserves for rockfish are 7.5 percent of the TAC. If CDQ reserves were specified for the two rockfish TAC categories, they would be 1.4 mt for Bering Sea northern rockfish and 8.7 mt for Bering Sea shortraker/rougheye rockfish. If these CDQ reserves were further divided among the six CDQ groups, the northern rockfish CDQ amounts available to each group would be between 100 kg and 325 kg. NMFS recommends not splitting out the CDQ reserves to the individual species group because these small quotas could prevent the CDQ groups from harvesting much of their other groundfish CDQs. Therefore, to avoid premature closure of the CDQ fisheries, NMFS will continue to specify the CDQ reserve for the Bering Sea “other red rockfish” complex. The CDQ reserve for this complex will be calculated as the sum of an amount equal to 7.5 percent of the TAC for Bering Sea shortraker/rougheye plus 7.5 percent of the TAC for northern rockfish, for a total of 10 mt to the CDQ reserve for the “other red rockfish” complex.

None of the Council's recommended TACs for 2002 exceeds the final ABC for any species category. NMFS finds that the Council's recommended TACs are consistent with the biological condition of groundfish stocks as described in the 2002 SAFE document and approves them with the exception of the “other red rockfish” complex. NMFS has modified the Council's TAC recommendations for this complex as described above to accommodate monitoring and reporting constraints.

For 2002, the Plan Team recommended and the AP, SSC, and NMFS agreed to separate Alaska plaice from the “other flatfish” category. Because 85 percent of the “other flatfish” category is Alaska plaice and the ABC and OFL are calculated separately for Alaska plaice and the remaining “other flatfish” species, the Plan Team recommended setting the ABC and OFL for Alaska plaice separately from the “other flatfish” species.

Table 3 lists the 2002 OFL, ABC, TAC, initial TAC (ITAC) which is the TAC minus the reserves, and CDQ reserve amounts, overfishing levels, and initial apportionments of groundfish in the BSAI. The apportionment of TAC amounts among fisheries and seasons is discussed below.

Table 3.—2002 Acceptable Biological Catch (ABC), Total Allowable Catch (TAC), Initial TAC (ITAC), CDQ Reserve Allocation, and Overfishing Levels of Groundfish in the Bering Sea and Aleutian Islands Area (BSAI) ¹
[All amounts are in metric tons]
Species | Area | Overfishing level | ABC | TAC | ITAC ² | CDQ reserve ³
Pollock ⁴ | Bering Sea (BS) | 3,530,000 | 2,110,000 | 1,485,000 | 1,283,040 | 148,500
| Aleutian Islands (AI) | 31,700 | 23,800 | 1,000 | 900 | 100
| Bogoslof District | 46,400 | 4,310 | 100 | 90 | 10
Pacific cod | BSAI | 294,000 | 223,000 | 200,000 | 170,000 | 15,000
Sablefish ⁵ | BS | 2,900 | 1,930 | 1,930 | 821 | 265
| AI | 3,850 | 2,550 | 2,550 | 541 | 431
Atka mackerel | BSAI | 82,300 | 49,000 | 49,000 | 41,650 | 3,675
| Western AI |  | 19,700 | 19,700 | 16,745 | 1,478
| Central AI |  | 23,800 | 23,800 | 20,230 | 1,785
| Eastern AI/BS |  | 5,500 | 5,500 | 4,675 | 413
Yellowfin sole | BSAI | 136,000 | 115,000 | 86,000 | 73,100 | 6,450
Rock sole | BSAI | 268,000 | 225,000 | 54,000 | 45,900 | 4,050
Greenland turbot | BSAI | 36,500 | 8,100 | 8,000 | 6,800 | 600
| BS |  | 5,427 | 5,360 | 4,556 | 402
| AI |  | 2,673 | 2,640 | 2,244 | 198
Arrowtooth flounder | BSAI | 137,000 | 113,000 | 16,000 | 13,600 | 1,200
Flathead sole | BSAI | 101,000 | 82,600 | 25,000 | 21,250 | 1,875
Other flatfish ⁶ | BSAI | 21,800 | 18,100 | 3,000 | 2,550 | 225
Alaska plaice | BSAI | 172,000 | 143,000 | 12,000 | 10,200 | 900
Pacific ocean perch | BSAI | 17,500 | 14,800 | 14,800 | 12,580 | 1,111
| BS |  | 2,620 | 2,620 | 2,227 | 197
| AI Total |  | 12,180 | 12,180 | 10,353 | 914
| Western AI |  | 5,660 | 5,660 | 4,811 | 425
| Central AI |  | 3,060 | 3,060 | 2,601 | 230
| Eastern AI |  | 3,460 | 3,460 | 2,941 | 260
Northern rockfish ⁷ | BSAI | 9,020 | 6,760 | 6,760 | 5,746
| BS |  |  | 19 | 16 | (⁷)
| AI |  |  | 6,741 | 5,730 | 506
Shortraker/Rougheye ⁷ | BSAI | 1,369 | 1,028 | 1,028 | 874 |
| BS |  |  | 116 | 99 | (⁷)
| AI |  |  | 912 | 775 | 68
Other rockfish ⁸ | BS | 482 | 361 | 361 | 307 | 27
| AI | 901 | 676 | 676 | 575 | 51
Squid | BSAI | 2,620 | 1,970 | 1,970 | 1,675 |
Other species ⁹ | BSAI | 78,900 | 39,100 | 30,825 | 26,201 | 2,312
Total |  | 4,974,242 | 3,184,085 | 2,000,000 | 1,717,399 | 187,504
¹ Amounts are in metric tons. These amounts apply to the entire Bering Sea (BS) and Aleutian Islands (AI) management area unless otherwise specified. With the exception of pollock, and for the purpose of these specifications, the Bering Sea subarea includes the Bogoslof District.
² Except for pollock, squid, and the portion of the sablefish TAC allocated to hook-and-line or pot gear, 15 percent of each TAC is put into a reserve. The ITAC for each species is the remainder of the TAC after the subtraction of the reserve.
³ Except for pollock and the hook-and-line or pot gear allocation of sablefish, one half of the amount of the TACs placed in reserve, or 7.5 percent of the TACs, is designated as a CDQ reserve for use by CDQ participants (see § 679.31).
⁴ The American Fisheries Act (AFA) requires that 10 percent of the annual pollock TAC be allocated as a directed fishing allowance for the CDQ sector. NMFS then subtracts 4 percent of the remainder as an incidental catch allowance of pollock, which is not apportioned by season or area. The remainder is further allocated by sector as follows: inshore, 50 percent; catcher/processor, 40 percent; and motherships, 10 percent. NMFS, under regulations at § 679.24(b)(4), prohibits nonpelagic trawl gear to engage in directed fishing for non-CDQ pollock in the BSAI.
⁵ The ITAC for sablefish reflected in Table 3 is for trawl gear only. Regulations at § 679.20(b)(1) do not provide for the establishment of an ITAC for the hook-and-line or pot gear allocation for sablefish. Twenty percent of the sablefish TAC allocated to hook-and-line gear or pot gear and 7.5 percent of the sablefish TAC allocated to trawl gear is reserved for use by CDQ participants (see § 679.31(c)).
⁶ “Other flatfish” includes all flatfish species, except for Pacific halibut (a prohibited species), flathead sole, Greenland turbot, rock sole, yellowfin sole, arrowtooth flounder, and Alaska Plaice.
⁷ The CDQ reserves for shortraker, rougheye, and northern rockfish will continue to be managed as the “other red rockfish” complex for the BS. For 2002 the CDQ reserve for the “other red rockfish” complex is 10 mt.
⁸ “Other rockfish” includes all Sebastes and Sebastolobus species except for Pacific ocean perch, northern, shortraker, and rougheye rockfish.
⁹ “Other species” includes sculpins, sharks, skates and octopus. Forage fish, as defined at § 679.2, are not included in the “other species” category.

Reserves and the Pollock Incidental Catch Allowance (ICA)

Regulations at § 679.20(b)(1)(i) require that 15 percent of the TAC for each target species or species group, except for the hook-and-line and pot gear allocation of sablefish, be placed in a non-specified reserve. The AFA supersedes this provision for pollock by requiring that the 2002 TAC for this species be fully allocated among the CDQ program, the ICA, inshore, catcher/processor, and mothership directed fishery allowances.

Regulations at § 679.20(b)(1)(iii) require that one-half of each TAC amount placed in the non-specified reserve, with the exception of squid, be allocated to the groundfish CDQ reserve and that 20 percent of the hook-and-line and pot gear allocation of sablefish be allocated to the fixed gear sablefish CDQ reserve. Section 206(a) of the AFA requires that 10 percent of the pollock TAC be allocated to the pollock CDQ reserve. With the exception of the hook-and-line and pot gear sablefish CDQ reserve, the regulations do not further apportion the CDQ reserves by gear. Regulations at § 679.21(e)(1)(i) also require that 7.5 percent of each PSC limit, with the exception of herring, be withheld as a prohibited species quota (PSQ) reserve for the CDQ fisheries. Regulations governing the management of the CDQ and PSQ reserves are set forth at §§ 679.30 and 679.31.

Under section 206(b) of the AFA, NMFS allocates a pollock ICA of 4 percent of the pollock TAC after subtraction of the 10 percent CDQ reserve. This is unchanged from the 4 percent ICA specified for 2001. The 2002 allowance is based on an examination of the incidental catch of pollock in non-pollock target fisheries from 1997 through 2001. During this 4-year period, the incidental catch of pollock ranged from a low of 3 percent in 1998 to a high of about 6 percent in 1997, with a 4-year average of 4 percent. In 2001, the actual incidental catch was only 3 percent of the TAC which resulted in 12,000 mt of pollock reallocated to the directed fishing allowance for non-CDQ fisheries in the fall (66 FR 49146, September 26, 2001). Based on this experience, NMFS believes that a 2002 ICA of 4 percent is appropriate, because the biomass has increased for 2002 to 2.1 million tons and there is the potential for increased bycatch of pollock in other groundfish fisheries.

The regulations do not designate the remainder of the non-specified reserve by species or species group, and any amount of the reserve may be reapportioned to a target species or to the “other species” category during the year, providing that such reapportionments do not result in overfishing. The Regional Administrator has determined that the ITACs specified for the species listed in Table 4 need to be supplemented from the non-specified reserve because U.S. fishing vessels have demonstrated the capacity to harvest the full TAC allocations. Therefore, in accordance with § 679.20(b)(3), NMFS is apportioning the amounts shown in Table 4 from the non-specified reserve to increase the ITAC to an amount that is equal to TAC minus the CDQ reserve.

Table 4.—Apportionment of Reserves to ITAC Categories
[All amounts are in metric tons]
Species—area or subarea | Reserve amount | Final ITAC
Atka mackerel—Western Aleutian District | 1,478 | 18,223
Atka mackerel—Central Aleutian District | 1,785 | 22,015
Atka mackerel—Eastern Aleutian District and Bering Sea subarea | 413 | 5,088
Pacific ocean perch—Western Aleutian District | 425 | 5,236
Pacific ocean perch—Central Aleutian District | 230 | 2,831
Pacific ocean perch—Eastern Aleutian District | 260 | 3,201
Pacific cod—BSAI | 15,000 | 185,000
Northern rockfish—Aleutian Islands subarea | 506 | 6,236
Shortraker/Rougheye rockfish—Aleutian Islands subarea | 68 | 843
Greenland turbot—Bering Sea subarea | 402 | 4,958
Greenland turbot—Aleutian Islands subarea | 198 | 2,442
Total | 20,765 | 256,076

Pollock Allocations Under the AFA

Section 206(a) of the AFA requires the allocation of 10 percent of the BSAI pollock TAC as a directed fishing allowance to the CDQ program. The remainder of the BSAI pollock TAC, after the subtraction of an allowance for the incidental catch of pollock by vessels, including CDQ vessels, harvesting other groundfish species, must be allocated as follows: 50 percent to catcher vessels harvesting pollock for processing by the inshore component, 40 percent to catcher/processors and catcher vessels harvesting pollock for processing by catcher/processors in the offshore component, and 10 percent to catcher vessels harvesting pollock for processing by motherships in the offshore component. These amounts are listed in Table 5.

The AFA also contains several specific requirements concerning pollock and pollock allocations. First, paragraph 210(c) of the AFA requires that not less than 8.5 percent of the pollock allocated to vessels for processing by offshore catcher/processors be available for harvest by offshore catcher vessels listed in section 208(b) harvesting pollock for processing by offshore catcher/processors listed in paragraph 208(e). Second, paragraph 208(e)(21) of the AFA specifies that catcher/processors eligible to fish for pollock under such paragraph are prohibited from harvesting in the aggregate a total of more than one-half of a percent (0.5 percent) of the pollock allocated to vessels for processing by offshore catcher/processors. Third, paragraph 210(e)(1) of the AFA specifies that no particular individual, corporation, or other entity may harvest, through a fishery cooperative or otherwise, a total of more than 17.5 percent of the pollock available to be harvested in the directed pollock fishery. Other provisions of the AFA, including inshore pollock cooperative allocations and AFA harvest limitations are discussed later in this section. Table 5 lists the 2001 allocations of pollock TAC as described by the AFA.

SCA Harvest Limits

The harvest within the SCA, as defined at § 679.22(a)(11), is limited to 28 percent of the annual directed fishing allowance (DFA) until April 1. The remaining 12 percent of the annual DFA allocated to the A season may be taken outside of the SCA before April 1 or inside the SCA after April 1. If the 28 percent of the annual DFA is not taken inside the SCA before April 1, the remainder is available to be taken inside the SCA after April 1. The A season pollock SCA harvest limit will be apportioned to each industry sector in proportion to each sector's allocated percentage of the DFA as set forth in the AFA. These amounts, by sector, are listed in Table 5.

Table 5.—Allocations of the Pollock TAC and Directed Fishing Allowance (DFA) to the Inshore, Catcher/Processor, Mothership, and CDQ Components ¹
[All amounts are in metric tons]
Area and sector | 2002 DFA | A Season ¹: A DFA (40% of annual DFA) | B Season ¹,²: SCA limit ³ | B Season ¹,²: B DFA (60% of annual DFA)
Bering Sea subarea | 1,485,000 | 594,000 |  | 891,000
CDQ | 148,500 | 59,400 | 41,580 | 89,100
ICA⁴ | 53,460 |  |  |
AFA Inshore | 641,520 | 256,608 | 179,626 | 384,912
AFA C/Ps ⁵ | 513,216 | 205,286 | 143,700 | 307,930
Catch by C/Ps | 469,593 | 187,837 |  | 281,756
Catch by CVs ⁵ | 43,623 | 17,449 |  | 26,174
Restricted C/P cap ⁶ | 2,566 | 1,026 |  | 1,540
AFA Motherships | 128,304 | 51,322 | 35,925 | 76,982
Excessive shares cap ⁷ | 224,532 |  |  |
Aleutian Islands:
ICA ⁸ | 900
Bogoslof District:
ICA ⁸ | 90
¹ After subtraction for the CDQ reserve and the incidental catch allowance, the pollock TAC is allocated as a DFA as follows: inshore component—50 percent, catcher/processor component—40 percent, and mothership component—10 percent. Under paragraph 206(a) of the AFA, the CDQ reserve for pollock is 10 percent. NMFS, under regulations at § 679.24(b)(4), prohibits nonpelagic trawl gear to engage in directed fishing for non-CDQ pollock in the BSAI. The A season, January 20—June 10, is allocated 40 percent of the DFA and the B season, June 10—November 1 is allocated 60 percent of the DFA.
² This emergency interim rule expires on July 8, 2002, before the B season will conclude. Therefore, the B season is not fully authorized unless the emergency interim rule is extended.
³ The SCA limits harvest to 28 percent of each sectors annual DFA until April 1. The remaining 12 percent of the annual DFA allocated to the A season may be taken outside of the SCA before April 1 or inside the SCA after April 1. If the 28 percent of the annual DFA is not taken inside the SCA before April 1, the remainder is available to be taken inside the SCA after April 1.
⁴ The pollock incidental catch allowance for the BS subarea is 4 percent of the TAC after subtraction of the CDQ reserve.
⁵ Subsection 210(c) of the AFA requires that not less than 8.5 percent of the directed fishing allowance allocated to listed catcher/processors (C/Ps) shall be available for harvest only by eligible catcher vessels (CVs) delivering to listed catcher/processors.
⁶ The AFA requires that vessels described in section 208(e)(21) be prohibited from exceeding a harvest amount of one-half of one percent of the directed fishing allowance allocated to vessels for processing by AFA catcher/processors.
⁷ Paragraph 210(e)(1) of the AFA specifies that “No particular individual, corporation, or other entity may harvest, through a fishery cooperative or otherwise, a total of more than 17.5 percent of the pollock available to be harvested in the directed pollock fishery.”
⁸ Consistent with the Steller sea lion protection measures, the Aleutian Islands subarea and the Bogoslof District are closed to directed fishing for pollock. The amounts specified are for incidental catch amounts only, and are not apportioned by season or sector.

Allocation of the Atka Mackerel TAC

Regulations implementing Steller sea lion protection measures at § 679.20(a)(8)(ii) apportion the Atka mackerel ITAC into two equal seasonal allowances. After subtraction of the jig gear allocation, the first allowance is made available for directed fishing from January 1 to April 15 (A season), and the second seasonal allowance is made available from September 1 to November 1 (B season) (Table 6). Under § 679.20(a)(8)(ii)(C)(1), the Regional Administrator will establish a harvest limit area (HLA) limit of no more than 60 percent of the seasonal TAC for the Western and Central Aleutian Districts. Pacific cod harvest by trawl gear in the Aleutian Islands HLA in 542 and 543, west of 178° W long. is prohibited during the Atka mackerel HLA directed fisheries. Atka mackerel fishing is prohibited in critical habitat east of 178° W long. to provide maximum protection to Steller sea lions and because Atka mackerel is readily available in waters outside of critical habitat.

Under § 679.20(a)(8)(i), up to 2 percent of the Eastern Aleutian District and the Bering Sea subarea Atka mackerel ITAC may be allocated to the jig gear fleet. The Council determines the amount of this allocation annually, based on several criteria including the anticipated harvest capacity of the jig gear fleet. In December 2001, the Council recommended that 1 percent of the Atka mackerel TAC in the Eastern Aleutian District and Bering Sea subarea be allocated to the jig gear fleet based on historic harvest capacity of the fleet. NMFS finds that this is consistent with the status of the stock and with the regulatory framework stated above. Based on an ITAC of 5,088 mt, the jig gear allocation is 51 mt.

A platoon system to reduce the amount of daily catch in critical habitat by about half and to disperse the fishery over two areas is discussed in the Steller sea lion protection measures part of this emergency interim rule and found in the regulations at § 679.20(a)(8)(iii).

Table 6.—Seasonal and Spatial Apportionments, Gear Shares, and CDQ Reserve of the BSAI ATKA Mackerel TAC
(All amounts are in metric tons)
Subarea and component | TAC | CDQ reserve | ITAC ¹ | Seasonal appointment ²: A Season ³: Total | Seasonal appointment ²: A Season ³: HLA Limit ⁵ | Seasonal appointment ²: B Season ⁴: Total | Seasonal appointment ²: B Season ⁴: HLA Limit ⁵
Western Aleutian District (543) | 19,700 | 1,478 | 18,223 | 9,111 | 5,467 | 9,111 | 5,467
Central Aleutian District (542) | 23,800 | 1,785 | 22,015 | 11,008 | 6,605 | 11,008 | 6,605
Eastern AI/BS subarea ⁶ | 5,500 | 413 | 5,088 |  |  |  |
Jig (1%) ⁷ |  |  | 51 |  |  |  |
Other gear (99%) |  |  | 5,037 | 2,518 |  | 2,518 |
Total | 49,000 | 3,676 | 45,326 | 22,637 |  | 22,637 |
¹ The reserves have been released for Atka mackerel (See Table 4).
² The seasonal apportionment of Atka mackerel is 50 percent in the A season and 50 percent in the B season.
³ The A season is January 1 through noon April 15.
⁴ The B season is September 1 through noon November 1.
⁵ HLA limit refers to the amount of each seasonal allowance that is available for fishing inside the HLA (§ 679.2). In 2002, 60 percent of each seasonal allowance is available for fishing inside the HLA in the Western and Central AI. Pacific cod harvest by trawl gear in the Aleutian Islands HLA in 542 and 543, west of 178°W long. is prohibited during the Atka mackerel HLA directed fisheries.
⁶ Eastern Aleutian Islands District and Bering Sea subarea.
⁷ Regulations at § 679.20(a)(8) require that up to 2 percent of the Eastern AI/BS area ITAC be allocated to the jig gear fleet. The amount of this allocation is 1 percent and was determined by the Council based on anticipated harvest capacity of the jig gear fleet. The jig gear allocation is not apportioned by season.

Allocation of the Pacific Cod TAC

Under § 679.20(a)(7), 2 percent of the Pacific cod ITAC is allocated to vessels using jig gear, 51 percent to vessels using hook-and-line or pot gear, and 47 percent to vessels using trawl gear. Under § 679.20(a)(7)(i)(B), the portion of the Pacific cod TAC allocated to trawl gear is further allocated 50 percent to catcher vessels and 50 percent to catcher/processors. Under regulations at § 679.20(a)(7)(i)(C)(1), a portion of the Pacific cod allocated to hook-and-line or pot gear is set aside as an ICA of Pacific cod in directed fisheries for groundfish other than Pacific cod by vessels using these gear types. Based on anticipated bycatch in these fisheries, the Council proposed an ICA of 500 mt. The remainder of Pacific cod is further allocated to vessels using hook-and-line or pot gear as the following directed fishing allowances: 80 percent to hook-and-line catcher/processor vessels, 0.3 percent to hook-and-line catcher vessels, 18.3 percent to pot gear vessels, and 1.4 percent to catcher vessels less than 60 feet (18.3 m) LOA using hook-and-line or pot gear.

Due to concerns about the potential impact of the Pacific cod fishery on Steller sea lions and their critical habitat, NMFS is implementing under this emergency interim rule temporal dispersion of fishing effort in the Pacific cod fisheries by apportioning the Pacific cod ITAC into two seasonal allowances. For most non-trawl gear the first allowance, 60 percent of the ITAC, is made available for directed fishing from January 1 to June 10, and the second seasonal allowance, 40 percent of the ITAC, is made available from June 10 to December 31. No seasonal harvest constraints are imposed for the Pacific cod fishery by catcher vessels less than 60 feet (18.3 m) LOA using hook-and-line or pot gear. For trawl gear the first season is January 20 to April 1, and 60 percent of the TAC is allocated to the first season. The second season, April 1 to June 10, and third season, June 10 to November 1, are each allocated 20 percent of the TAC. The trawl catcher vessels' allocation is further allocated as 70 percent in the first season, 10 percent in the second season and 20 percent in the third season. The trawl catcher/processors' allocation is allocated 50 percent in the first season, 30 percent in the second season, and 20 percent in the third season. Table 7 lists the 2002 allocations and seasonal apportionments of the Pacific cod ITAC.

Table 7.—2001 Gear Shares and Seasonal Apportionments of the BSAI Pacific Cod TAC
Gear sector | Percent | Share of gear sector total (mt) | Subtotal percentages for gear sectors | Share of gear sector total (mt) | Seasonal apportionment ²: Date | Seasonal apportionment ²: Amount (mt)
Total hook-and-line and pot gear allocation of Pacific cod TAC | 51 | 94,350 |  |  |  |
Incidental Catch Allowance |  |  |  | 500 |  |
Processor and Vessel subtotal |  | 93,850 |  |  |  |
Hook-and-line Catcher Processors |  |  | 80 | 75,080 | Jan 1-Jun 10 Jun 10-Dec 31 | 45,048 30,032
Hook-and-line Catcher Vessels |  |  | 0.3 | 282 | Jan 1-Jun 10 Jun 10-Dec 31 | 169 113
Pot Gear Vessels |  |  | 18.3 | 17,175 | Jan 1-Jun 10 Sep 1-Dec 31 | 10,305 6,870
Catcher Vessels <60 feet LOA using Hook-and-line or Pot gear |  |  | 1.4 | 1,314 | Jan 1-Dec 31 | 1,314
Trawl gear Total | 47 | 86,950 |  |  |  |
Trawl Catcher Vessel |  |  | 50 | 43,475 | Jan 1-Apr 1 Apr 1-Jun 10 Jun 10-Nov 1 | 30,433 4,348 8,695
Trawl Catcher Processor |  |  | 50 | 43,475 | Jan 1-Apr 1 Apr 1-Jun 10 Jun 10-Nov 1 | 21,738 13,043 8,695
Jig | 2 | 3,700 |  |  | Jan 1-Jun 10 Jun 10-Dec 31 | 2,220 1,480
Total | 100 | 185,000 |  |  |  |
¹ The reserve has been released for Pacific cod (See Table 4).
² For non-trawl gear the first season is allocated 60 percent of the TAC and the second season is allocated 40 percent of the TAC. No seasonal harvest constraints are imposed for the Pacific cod fishery by catcher vessels less than 60 feet (18.3 m) LOA using hook-and-line or pot gear. For trawl gear, the first season is allocated 60 percent of the TAC and the second and third seasons are each allocated 20 percent of the TAC. The trawl catcher vessels' allocation is further allocated as 70 percent in the first season, 10 percent in the second season and 20 percent in the third season. The trawl catcher/processors' allocation is allocated 50 percent in the first season, 30 percent in the second season and 20 percent in the third season. Any unused portion a seasonal Pacific cod allowance will be reapportioned to the next seasonal allowance.

Allocation of the Shortraker and Rougheye Rockfish TAC

Under § 679.20(a)(9), the ITAC of shortraker rockfish and rougheye rockfish specified for the Aleutian Islands subarea is allocated 30 percent to vessels using non-trawl gear and 70 percent to vessels using trawl gear. Based on a 2002 ITAC of 844 mt, the trawl allocation is 591 mt and the non-trawl allocation is 253 mt.

Sablefish Gear Allocation

Regulations at § 679.20(a)(4)(iii) and (iv) require that sablefish TACs for the BS and AI subareas be allocated between trawl and hook-and-line or pot gear. Gear allocations of TACs for the Bering Sea subarea are 50 percent for trawl gear and 50 percent for hook-and-line or pot gear and for the Aleutian Islands subarea are 25 percent for trawl gear and 75 percent for hook-and-line or pot gear. Regulations at § 679.20(b)(1)(iii)(B) require that 20 percent of the hook-and-line and pot gear allocation of sablefish be reserved as sablefish CDQ. Additionally, regulations at § 679.20(b)(1)(iii)(A) require that 7.5 percent of the trawl gear allocation of sablefish (one half of the reserve) be reserved as groundfish CDQ. Gear allocations of the sablefish TAC and CDQ reserve amounts are specified in Table 8.

Table 8.—Gear Shares and CDQ Reserve of BSAI Sablefish TAC
[All amounts are in metric tons]
Subarea and Gear | Percent of TAC | Share of TAC | ITAC ¹ | CDQ Reserve
Bering Sea
Trawl ² | 50 | 965 | 821 | 72
Hook-&-line/pot gear ³ | 50 | 965 | N/A | 193
Total | 100 | 1,930 | 821 | 265
Aleutian Islands:
Trawl ² | 25 | 637 | 541 | 48
Hook-&-line/pot gear ³ | 75 | 1,913 | N/A | 383
Total | 100 | 2,550 | 541 | 431
¹ Except for the sablefish hook-and-line and pot gear allocation, 15 percent of TAC is apportioned to the reserve. The ITAC is the remainder of the TAC after the subtraction of these reserves.
² For the portion of the sablefish TAC allocated to vessels using trawl gear, one half of the reserve (7.5 percent of the specified TAC) is reserved for the multi-species CDQ program.
³ For the portion of the sablefish TAC allocated to vessels using hook-and-line or pot gear, 20 percent of the allocated TAC is reserved for use by CDQ participants. Regulations in § 679.20(b)(1) do not provide for the establishment of an ITAC for sablefish allocated to hook-and-line or pot gear.

Allocation of Prohibited Species Catch (PSC) Limits for Halibut, Crab, Salmon, and Herring

PSC limits for halibut are set in regulations at § 679.21(e). For the BSAI trawl fisheries, the limit is 3,675 mt mortality of Pacific halibut. For non-trawl fisheries, the limit is 900 mt mortality. PSC limits for crab and herring are specified annually based on abundance and spawning biomass. Regulations at § 679.21(e)(1)(vii) specify a scheduled reduction of Chinook salmon PSC limits until the final limit is reached in 2004. In 2002, the chinook salmon PSC limit for the pollock fishery is 37,000 fish.

The criteria for determining the PSC limits for red king crab in Zone 1 are set forth at § 679.21(e)(1)(ii). For 2002, the PSC limit of red king crab in Zone 1 for trawl vessels is 97,000 animals. The number of mature female red king crab is estimated in 2002 to be above the threshold of 8.4 million animals, and the effective spawning biomass is greater than 14.5 million lb (6,577 mt) but less than 55 million lb (24,948 mt). Based on the criteria set out at § 679.21(e)(1)(ii)(B), the limit is 97,000 animals.

The criteria for determining the PSC limits for C. bairdi crabs are set forth in § 679.21(e)(1)(iii). The 2002 C. bairdi PSC limit for trawl gear is 980,000 animals in Zone 1 and 2,970,000 animals in Zone 2. These limits are based on the C. bairdi abundance of 624 million crab from 2001 survey data because the abundance is over 400 million crabs.

Under § 679.21(e)(1)(iv), the PSC limit for C. opilio is based on total abundance as indicated by the NMFS annual bottom trawl survey. The C. opilio PSC limit is set at 0.1133 percent of the Bering Sea abundance index. Based on the 2001 survey estimate of 3.86 billion animals, the calculated limit would be 4,373,380 animals. Because this limit is less than 4.5 million, under § 679.21(e)(1)(iv)(B), the 2002 C. opilio PSC limit is 4,350,000 animals.

Under § 679.21(e)(1)(vi), the PSC limit of Pacific herring caught while conducting any trawl operation for groundfish in the BSAI is 1 percent of the annual eastern Bering Sea herring biomass. NMFS' estimate of 2002 herring biomass is 152,574 mt. This amount was derived using 2001 survey data and an age-structured biomass projection model developed by the Alaska Department of Fish and Game (ADF&G). Therefore, the herring PSC limit for 2002 is 1,526 mt.

Under § 679.21(e)(1)(i), 7.5 percent of each PSC limit specified for crab and halibut is reserved as a PSQ reserve for use by the groundfish CDQ program. Regulations at § 679.21(e)(3) require the apportionment of each trawl PSC limit into PSC bycatch allowances for seven specified fishery categories. Regulations at § 679.21(e)(4)(ii) authorize the apportionment of the non-trawl halibut PSC limit among five fishery categories. The fishery bycatch allowances for the trawl and non-trawl fisheries are listed in Table 9. These amounts are unchanged from those recommended by the Council at its December 2001 meeting.

Regulations at § 679.21(e)(3)(ii)(B) establish criteria under which NMFS must specify an annual red king crab bycatch limit for the Red King Crab Savings Subarea (RKCSS). The regulations limit the RKCSS to 35 percent of the trawl bycatch allowance specified for the rock sole/flathead sole/“other flatfish” fishery category and must be based on the need to optimize the groundfish harvest relative to red king crab bycatch. The Council recommended and NMFS approves a red king crab bycatch limit equal to 35 percent of the trawl bycatch allowance specified for the flatfish fishery within the RKCSS in order to maximize harvest of groundfish relative to red king crab bycatch.

Regulations at § 679.21(e)(4)(ii) authorize exemption of specified non-trawl fisheries from the halibut PSC limit. As in past years, NMFS, after consultation with the Council, is exempting pot gear, jig gear, and the sablefish IFQ hook-and-line gear fishery categories from halibut bycatch restrictions because these fisheries use selective gear types that take few halibut compared to other gear types such as nonpelagic trawl. In 2001, total groundfish catch for the pot gear fishery in the BSAI was approximately 16,655 mt with an associated halibut bycatch mortality of about 5 mt. The 2001 groundfish jig gear fishery harvested about 74 mt of groundfish. Most vessels in the jig gear fleet are less than 60 ft (18.3 m) LOA and are exempt from observer coverage requirements. As a result, observer data are not available on halibut bycatch in the jig gear fishery. However, NMFS assumes a negligible amount of halibut bycatch mortality because of the selective nature of this gear type and the likelihood that halibut caught with jig gear have a high survival rate when released.

As in past years, the Council recommended that the sablefish IFQ fishery be exempt from halibut bycatch restrictions because of the sablefish and halibut IFQ program (subpart D of 50 CFR part 679). The sablefish IFQ program requires legal-sized halibut to be retained by vessels using hook-and-line gear if a halibut IFQ permit holder is aboard and is holding unused halibut IFQ. This action results in less halibut discard in the sablefish fishery. In 1995, about 36 mt of halibut discard mortality was estimated for the sablefish IFQ fishery. A similar estimate for 1996 through 2001 has not been calculated, but NMFS has no information indicating that it would be significantly different. NMFS approves the Council's recommendation to exempt the hook-and-line sablefish from halibut bycatch restrictions.

Regulations at § 679.21(e)(5) authorize NMFS, after consultation with the Council, to establish seasonal apportionments of PSC amounts in order to maximize the ability of the fleet to harvest the available groundfish TAC and to minimize bycatch. The factors to be considered are: (1) Seasonal distribution of prohibited species, (2) seasonal distribution of target groundfish species, (3) PSC bycatch needs on a seasonal basis relevant to prohibited species biomass, (4) expected variations in bycatch rates throughout the year, (5) expected start of fishing effort, and (6) economic effects of seasonal PSC apportionments on industry sectors. In December 2001, the Council's AP recommended seasonal PSC apportionments in order to maximize harvest among gear types, fisheries, and seasons while minimizing PSC based on the criteria above.

NMFS approves the PSC apportionments specified in Table 9 below with one change. The AP recommended and the Council accepted a July 4 seasonal allocation of PSC to the yellowfin sole, rock sole/flathead sole/“other flatfish” and rockfish fishery categories. Under § 679.21(e)(5), factor (5) expected start of fishing effort, NMFS is changing the July 4 seasonal allocation to a June 30 seasonal allocation to facilitate the inseason management of these fishery categories. The June 30 opening will allow the collection of the data NMFS requires to close a fishery before the interruption of the July 4 holiday when Federal offices are closed.

Table 9.—Prohibited Species Bycatch Allowances for the BSAI Trawl and Non-Trawl Fisheries ¹
[All amounts are in metric tons]
| Prohibited Species and Zone: Halibut mortality (mt) BSAI ⁷ | Prohibited Species and Zone: Herring (mt) BSAI | Prohibited Species and Zone: Red King Crab (animals) Zone 1 | Prohibited Species and Zone: C. opilio (animals) COBLZ ² | Prohibited Species and Zone: C. bairdi (animals): Zone 1 | Prohibited Species and Zone: C. bairdi (animals): Zone 2
Trawl Fisheries
Yellowfin sole | 886 | 139 | 16,664 | 2,776,981 | 340,844 | 1,788,459
January 20-April 1 | 262 |  |  |  |  |
April 1-May 21 | 195 |  |  |  |
May 21-June 30 | 49 |  |  |  |  |
June 30-December 31 | 380 |  |  |  |  |
Rock sole/flat. sole/other flatfish ³ | 779 | 20 | 59,782 | 969,130 | 365,320 | 596,154
January 20-April 1 | 448 |  |  |  |  |
April 1-June 30 | 164 |  |  |  |  |
June 30-December 31 | 167 |  |  |  |  |
RKC savings subarea ³ |  |  | 20,924 |  |  |
Turbot/sablefish/arrowtooth ⁴ |  | 9 |  | 40,238 |  |
Rockfish (June 30-Dec. 31) ⁵ | 69 | 7 |  | 40,237 |  | 10,988
Pacific cod | 1,434 | 20 | 11,664 | 124,736 | 183,112 | 324,176
Pollock/Atka/other ⁶ | 232 | 146 | 1,615 | 72,428 | 17,224 | 27,473
Midwater trawl pollock |  | 1,184 |  |  |  |
Total Trawl PSC | 3,400 | 1,526 | 89,725 | 4,023,750 | 906,500 | 2,747,250
Non-Trawl Fisheries
Pacific cod—Total | 775 |  |  |  |  |
January 1-June 10 | 320 |  |  |  |  |
June 10-August 15 | 0 |  |  |  |  |
August 15-December 31 | 455 |  |  |  |  |
Other non-trawl—Total | 58 |  |  |  |  |
May 1-December 31 | 58 |  |  |  |  |
Groundfish pot & jig | Exempt |  |  |  |  |
Sablefish hook-&-line | Exempt |  |  |  |  |
Total Non-Trawl | 833 |  |  |  |  |
PSQ Reserve ⁸ | 342 |  | 7,275 | 326,250 | 73,500 | 222,750
Grand Total | 4,575 | 1,526 | 97,000 | 4,350,000 | 980,000 | 2,970,000
¹ Refer to § 679.2 for definitions of areas.
² C. opilio Bycatch Limitation Zone. Boundaries are defined at 50 CFR part 679, fig. 13.
³ The Council at its December 2001 meeting limited red king crab for trawl fisheries within the RKCSS to 35 percent of the total allocation to the rock sole/flathead sole/ “other flatfish” fishery category (§ 679.21(e)(3)(ii)(B)). “Other flatfish” for PSC monitoring includes all flatfish species, except for Pacific halibut (a prohibited species), Greenland turbot, rock sole, yellowfin sole, arrowtooth flounder.
⁴ Greenland turbot, arrowtooth flounder, and sablefish fishery category.
⁵ The Council at its December 2001 meeting apportioned the rockfish PSC amounts from June 30-December 31.
⁶ Pollock other than pelagic trawl pollock, Atka mackerel, and “other species” fishery category.
⁷ Any unused halibut PSC apportionment may be rolled into the following seasonal apportionment.
⁸ With the exception of herring, 7.5 percent of each PSC limit is allocated to the multi-species CDQ program as PSQ reserve. The PSQ reserve is not allocated by fishery, gear or season.

To monitor halibut bycatch mortality allowances and apportionments, the Administrator, Alaska Region, NMFS (Regional Administrator), will use observed halibut bycatch rates, assumed mortality rates, and estimates of groundfish catch to project when a fishery's halibut bycatch mortality allowance or seasonal apportionment is reached. The Regional Administrator monitors a fishery's halibut bycatch mortality allowances using assumed mortality rates that are based on the best information available, including information contained in the annual SAFE reports.

The Council recommended, and NMFS concurs, that the assumed halibut discard mortality rates (DMRs) developed by staff of the International Pacific Halibut Commission (IPHC) for the 2001 BSAI groundfish fisheries be adopted for purposes of monitoring halibut bycatch allowances established for 2002 (Table 10). Results from analysis of halibut release condition data for 2000 showed continued stability in halibut DMRs for many fisheries. Plots of annual DMRs against the 10-year mean indicated little change since 1990 for some fisheries, particularly the major trawl fisheries. DMRs were more variable for the smaller fisheries which typically take minor amounts of halibut bycatch. For 2002, the Council adopted Preseason Assumed DMRs, which included use of the long-term mean DMR for a 3-year period before revisions are proposed except for the BSAI hook-and-line Pacific cod fishery and CDQ fisheries, for which the Council recommended setting annual DMRs. The IPHC will also continue to conduct annual analyses of observer data and recommend changes to the Preseason Assumed DMR where a fishery DMR shows large variation from the mean and for the CDQ fisheries. For 2002, the BSAI hook-and-line Pacific cod fishery DMR did not change; but the CDQ fishery DMRs were adjusted. The justification for these mortality rates is discussed in the final SAFE report dated November 2001.

Table 10.—Assumed Pacific Halibut Discard Mortality Rates for the BSAI Fisheries
Fishery | Preseason Assumed discard mortality (percent)
Hook-and-line gear fisheries:
Rockfish | 25
Pacific cod | 12
Greenland turbot | 18
Sablefish | 22
Other Species | 12
Trawl gear fisheries:
Midwater pollock | 84
Nonpelagic pollock | 76
Yellowfin sole | 81
Rock sole | 76
Flathead sole | 67
Other flatfish | 71
Rockfish | 69
Pacific cod | 67
Atka mackerel | 75
Greenland turbot | 70
Sablefish | 50
Other species | 67
Pot gear fisheries:
Pacific cod | 8
Other species | 8
CDQ Trawl fisheries:
Atka mackerel | 89
Flathead sole | 83
Midwater pollock | 88
Nonpelagic pollock | 90
Rockfish | 89
Yellowfin sole | 77
CDQ Hook-and-line fisheries:
Pacific cod | 13
Greenland turbot | 14
CDQ Pot fisheries:
Pacific cod | 7
Sablefish | 38

Directed Fishing Closures

In accordance with § 679.20(d)(1)(i), if the Regional Administrator determines that any allocation or apportionment of a target species or “other species” category has been or will be reached, the Regional Administrator may establish a directed fishing allowance for that species or species group. If the Regional Administrator establishes a directed fishing allowance, and that allowance is or will be reached before the end of the fishing year, NMFS will prohibit directed fishing for that species or species group in the specified subarea or district (§ 697.20(d)(1)(iii)). Similarly, under § 679.21(e), if the Regional Administrator determines that a fishery category's bycatch allowance of halibut, red king crab, or C. bairdi Tanner crab for a specified area has been reached, the Regional Administrator will prohibit directed fishing for each species in that category in the specified area.

The Regional Administrator has determined that the following remaining allocation amounts will be necessary as incidental catch to support other anticipated groundfish fisheries for the 2002 fishing year:

Bogoslof District:

Pollock—90 mt

Aleutian Islands subarea:

Pollock—900 mt

Northern rockfish—6,236 mt

Shortraker/rougheye rockfish—844 mt

“Other rockfish”—575 mt

Bering Sea subarea:

Pacific ocean perch—2,227 mt

“Other rockfish”—307 mt

Northern rockfish—16 mt

Shortraker/rougheye rockfish—99 mt

Consequently, in accordance with § 679.20(d)(1)(i), the Regional Administrator establishes the directed fishing allowances for the above species or species groups as zero.

Therefore, in accordance with § 679.20(d)(1)(iii), NMFS immediately is prohibiting directed fishing for these species in the specified areas and these closures will remain in effect through 2400 hrs, Alaska local time (A.l.t.), December 31, 2002, effective January 1, 2002, through July 8, 2002.

In addition, the BSAI Zone 1 annual red king crab bycatch allowance specified for the trawl rockfish fishery (§ 679.21(e)(3)(iv)(D)) is 0 mt and the BSAI first seasonal halibut bycatch allowance specified for the trawl rockfish fishery is 0 mt. The BSAI annual halibut bycatch allowance specified for the trawl Greenland turbot/arrowtooth flounder/sablefish fishery categories, (§ 679.21(e)(3)(iv)(C)) is 0 mt. Therefore, in accordance with § 1(e)(7)(ii) and (v), NMFS is prohibiting directed fishing for rockfish by vessels using trawl gear in Zone 1 of the BSAI and directed fishing for Greenland turbot/arrowtooth flounder/sablefish by vessels using trawl gear in the BSAI for the entire 2002 fishing year. NMFS also is prohibiting directed fishing for rockfish outside Zone 1 in the BSAI until 1200 hrs, A.l.t, June 30, 2002, due to 0 amounts of halibut bycatch allowance apportioned to this fishery prior to that date.

While these closures are in effect, the maximum retainable bycatch amounts at § 679.20(e) and (f) apply at any time during a fishing trip. These closures to directed fishing are in addition to closures and prohibitions found in regulations at 50 CFR part 679. Refer to § 679.2 for definitions of areas. In the BSAI, “other rockfish” includes Sebastes and Sebastolobus species except for Pacific ocean perch, shortraker, rougheye, and northern rockfish.

BS Subarea Inshore Pollock Allocations

Under § 679.4, NMFS set out procedures for AFA inshore catcher vessel pollock cooperatives to apply for and receive cooperative fishing permits and inshore pollock allocations. NMFS received applications from seven inshore catcher vessel cooperatives. Table 11 lists the pollock allocations to the seven inshore catcher vessel pollock cooperatives that have been approved and permitted by NMFS for the 2002 fishing year. Allocations for cooperatives and vessels not participating in cooperatives are not made for the AI subarea because the AI subarea has been closed to directed fishing for pollock. These allocations may be revised based on any corrections to AFA vessels' catch history.

Table 11.—Bering Sea Subarea Inshore Cooperative Allocations
Cooperative name and member vessels | Sum of member vessel's official catch histories ¹ | Percentage of inshore sector allocation (percent) | Annual co-op allocation
Akutan Catcher Vessel Association: ALDEBARAN, ARCTIC EXPLORER, ARCTURUS, BLUE FOX, CAPE KIWANDA, COLUMBIA, DOMINATOR, EXODUS, FLYING CLOUD, GOLDEN DAWN, GOLDEN PISCES, HAZEL LORRAINE, INTREPID EXPLORER, LESLIE LEE, LISA MELINDA, MAJESTY, MARCY J, MARGARET LYN, NORDIC EXPLORER, NORTHERN PATRIOT, NORTHWEST EXPLORER, PACIFIC RAM, PACIFIC VIKING, PEGASUS, PEGGY JO, PERSEVERANCE, PREDATOR, RAVEN, ROYAL AMERICAN, SEEKER, SOVEREIGNTY, TRAVELER, VIKING EXPLORER | 245,527 | 28.085 | 180,169
Arctic Enterprise Association: BRISTOL EXPLORER, OCEAN EXPLORER, PACIFIC EXPLORER | 36,807 | 4.210 | 27,009
Northern Victor Fleet Cooperative: ANITA J, COLLIER BROTHERS, COMMODORE, EXCALIBUR II, GOLDRUSH, HALF MOON BAY, MISS BERDIE, NORDIC FURY, PACIFIC FURY, POSEIDON, ROYAL ATLANTIC, SUNSET BAY, STORM PETREL | 73,656 | 8.425 | 54,049
Peter Pan Fleet Cooperative: AMBER DAWN, AMERICAN BEAUTY, ELIZABETH F, MORNING STAR, OCEAN LEADER, OCEANIC, PROVIDIAN, TOPAZ, WALTER N | 18,693 | 2.138 | 13,717
Unalaska Cooperative: ALASKA ROSE, BERING ROSE, DESTINATION, GREAT PACIFIC, MESSIAH, MORNING STAR, MS AMY, PROGRESS, SEA WOLF, VANGUARD, WESTERN DAWN | 106,737 | 12.209 | 78,324
UniSea Fleet Cooperative:ALSEA, AMERICAN EAGLE, ARGOSY, AURIGA, AURORA, DEFENDER, GUN-MAR, NORDIC STAR, PACIFIC MONARCH, SEADAWN, STARFISH, STARLITE | 201,566 | 23.056 | 147,910
Westward Fleet Cooperative:A.J., ALASKAN COMMAND, ALYESKA, ARCTIC WIND, CAITLIN ANN, CHELSEA K, DONA MARTITA, FIERCE ALLEGIANCE, HICKORY WIND, OCEAN HOPE 3, PACIFIC KNIGHT, PACIFIC PRINCE, STARWARD, VIKING, WESTWARD I | 189,544 | 21.681 | 139,089
Open access AFA vessels | 1,707 | 0.195 | 1,252
Total inshore allocation | 874,238 | 100 | 641,520
¹ Under 679.62(e)(1) the individual catch history for each vessel is equal to the vessel's best 2 of 3 years inshore pollock landings from 1995 through 1997 and includes landings to catcher/processors for vessels that made 500 or more mt of landings to catcher/processors from 1995 through 1997.

Under § 679.20(a)(5)(i)(C), NMFS must subdivide the inshore pollock allocation into allocations for cooperatives and vessels not fishing in a cooperative (i.e., the open access sector). In addition, under § 679.22(a)(11)(vii), NMFS must establish harvest limits inside the Steller sea lion conservation area (SCA) and provide a set-aside so that catcher vessels less than or equal to 99 ft (30.2 m) LOA have the opportunity to operate entirely within the SCA during the A season. Accordingly, Table 12 lists the apportionment of the BS subarea inshore pollock allocation into allocations for vessels fishing in a cooperative and for vessels not participating in a cooperative and establishes a cooperative-sector SCA set-aside for AFA catcher vessels less than or equal to 99 ft (30.2 m) LOA. The SCA set-aside for sector catcher vessels less than or equal to 99 ft (30.2 m) LOA that are not participating in a cooperative will be established inseason based on actual participation levels and is not included in Table 12. These allocations may be revised based on any corrections to AFA vessels' catch history.

Table 12.—Bering Sea Subarea Pollock Allocations To The Cooperative and Open Access Sectors of the Inshore Pollock Fishery. Amounts are Expressed in Metric Tons
| A season TAC | A season inside SCA ¹ | B season TAC
Cooperative sector:
Vessels > 99 ft | n/a | 161,601 | n/a
Vessels ≤ 99 ft | n/a | 17,675 | n/a
Total | 256,107 | 179,275 | 384,161
Open access sector | 501 | ² 351 | 751
Total inshore | 256,608 | 179,626 | 384,912
¹ Steller sea lion conservation area established at § 679.22(a)(11)(vii). The harvest limit for the SCA applies until April 1.
² SCA limitations for vessels less than or equal to 99 ft LOA that are not participating in a cooperative will be established on an inseason basis in accordance with § 679.22(a)(11)iiiv)(C)(2) which specifies that “the Regional Administrator will prohibit directed fishing for pollock by vessels catching pollock for processing by the inshore component greater than 99 ft (30.2 m) LOA before reaching the inshore SCA harvest limit during the A season to accommodate fishing by vessels less than or equal to 99 ft (30.2 m) inside the SCA for the duration of the inshore seasonal opening.”

2002 Unrestricted AFA Catcher/Processor Sideboards

Regulations at § 679.63(a) establish a formula for setting AFA catcher/processor sideboard limits for non-pollock groundfish and PSC in the BSAI. The basis for these sideboard amounts was recommended by the Council and is described in detail in the Emergency Interim Rule to Implement Major Provisions of the AFA (64 FR 4520, January 28, 2000). The 2002 catcher/processor sideboards are set out in Table 13 below.

All non-pollock groundfish that is harvested by unrestricted AFA catcher/processors, whether as targeted catch or bycatch, will be deducted from the harvest limits in Table 13. However, non-pollock groundfish that is delivered to listed catcher/processors by catcher vessels will not be deducted from the 2002 harvest limits for the listed catcher/processors.

TABLE 13.—2002 Unrestricted BSAI AFA Catcher/Processor Groundfish Sideboards
(Amounts are Expressed in Metric Tons)
Target species | Area | 1995-1997: Total catch | 1995-1997: Available TAC | 1995-1997: Ratio | 2002 ITAC available to trawl C/Ps | 2002 C/P sideboard amount
Pacific cod trawl | BSAI | 13,547 | 51,450 | 0.263 | 43,475 | 11,434
Sablefish trawl | BS | 8 | 1,736 | 0.005 | 820 | 4
| AI | 1 | 1,135 | 0.001 | 542 | 1
Atka mackerel | Western AI |  |  | 0.200 |  |
| A season ¹ | n/a | n/a | 0.100 | 9,111 | 911
| CH limit ² |  |  |  |  | 547
| B season | n/a | n/a | 0.100 | 9,111 | 911
| CH limit |  |  |  |  | 547
| Central AI |  |  | 0.115 |  |
| A season ¹ | n/a | n/a | 0.058 | 11,008 | 633
| CH limit |  |  |  |  | 380
| B season | n/a | n/a | 0.058 | 11,008 | 633
| CH limit |  |  |  |  | 380
Yellowfin sole | BSAI | 123,003 | 527,000 | 0.233 | 73,100 | 17,032
Rock sole | BSAI | 14,753 | 202,107 | 0.073 | 45,900 | 3,351
Greenland turbot | BS | 168 | 16,911 | 0.010 | 4,958 | 50
| AI | 31 | 6,839 | 0.005 | 2,442 | 12
Arrowtooth flounder | BSAI | 788 | 36,873 | 0.021 | 13,600 | 286
Flathead sole | BSAI | 3,030 | 87,975 | 0.034 | 34,000 | 1,156
Alaska Plaice | BSAI |  |  | 0.034 | 10,200 | 347
Other flatfish | BSAI | 12,145 | 92,428 | 0.131 | 2,550 | 1,336
Pacific ocean perch | BS | 58 | 5,760 | 0.010 | 2,620 | 26
| Western AI | 356 | 12,440 | 0.029 | 5,236 | 152
| Central AI | 95 | 6,195 | 0.015 | 2,831 | 42
| Eastern AI | 112 | 6,265 | 0.018 | 3,201 | 58
Northern rockfish | BS |  |  | 0.078 | 16 | 1
| AI | 1,034 | 13,254 | 0.078 | 6,236 | 486
Shortraker/rougheye | BS |  |  | 0.024 | 99 | 24
| AI | 68 | 2,827 | 0.024 | 843 | 20
Other rockfish | BS | 39 | 1,026 | 0.038 | 307 | 12
| AI | 95 | 1,924 | 0.049 | 575 | 28
Squid | BSAI | 7 | 3,670 | 0.002 | 1,675 | 3
Other species | BSAI | 3,551 | 65,925 | 0.054 | 26,201 | 1,415
¹ The seasonal apportionment of Atka mackerel in the open access fishery is 50 percent in the A season and 50 percent in the B season. Unrestricted AFA catcher/processors are limited to harvesting no more than 20 and 11.5 percent of the available TAC in the Western and Central AI subareas respectively. Unrestricted AFA catcher/processors are prohibited from harvesting Atka mackerel in the Eastern Aleutian Islands District and Bering Sea subarea (paragraph 211(b)(2)(C)).
² Critical habitat (CH) allowance refers to the amount of each seasonal allowance that is available for fishing inside critical habitat (50 CFR part 679 Table 21). In 2002, the percentage of TAC available for fishing inside critical habitat area is 60 percent in the Western and Central AI.

Regulations at § 679.63(a)(2) establish a formula for PSC sideboards for unrestricted AFA catcher/processors. These amounts are equivalent to the percentage of prohibited species bycatch limits harvested in the non-pollock groundfish fisheries by the AFA catcher/processors listed in subsection 208(e) and section 209 of the AFA from 1995 through 1997. Prohibited species amounts harvested by these catcher/processors in BSAI non-pollock groundfish fisheries from 1995 through 1997 are shown in Table 14. These data were used to calculate the relative amount of prohibited species catch limits harvested by pollock catcher/processors, which were then used to determine the prohibited species harvest limits for unrestricted AFA catcher/processors in the 2002 non-pollock groundfish fisheries.

PSC that is caught by unrestricted AFA catcher/processors participating in any non-pollock groundfish fishery listed in Table 13 shall accrue against the 2002 PSC limits for the listed catcher/processors. Regulations at § 679.21(e)(3)(v) provide authority to close directed fishing for non-pollock groundfish for unrestricted AFA catcher/processors once a 2002 PSC limitation listed in Table 14 is reached.

Crab or halibut PSC that is caught by unrestricted AFA catcher/processors while fishing for pollock will accrue against the bycatch allowances annually specified for either the midwater pollock or the pollock/Atka mackerel/other species fishery categories under § 679.21(e).

Table 14.—2002 Unrestricted BSAI AFA Catcher/Processor Prohibited Species Sideboard Amounts
PSC species | 1995-1997: PSC catch | 1995-1997: Total PSC | 1995-1997: Ratio | 2002 PSC available to trawl vessels | 2002 C/P limit
Halibut mortality | 955 | 11,325 | 0.084 | 3,400 | 286 mt.
Red king crab | 3,098 | 473,750 | 0.007 | 89,725 | 628 crab.
C. opilio | 2,323,731 | 15,139,178 | 0.153 | 4,023,750 | 615,634 crab.
C. bairdi
Zone 1 | 385,978 | 2,750,000 | 0.140 | 906,500 | 126,910 crab.
Zone 2 | 406,860 | 8,100,000 | 0.050 | 2,747,250 | 137,363 crab.

2002 AFA Catcher Vessel Sideboards

Regulations at § 679.63(b) establish a formula for setting AFA catcher vessel groundfish and PSC sideboard amounts for the BSAI. The basis for these sideboard amounts was recommended by the Council and is described in detail in the Emergency Interim Rule to Implement Major Provisions of the AFA (64 FR 4520, January 28, 2000). For 2002, the ratio of 1995 to 1997 AFA catcher vessel retained catch to the 1995 to 1997 TAC has been revised from 2001 by NMFS. These revisions are based on ADF&G editing of fish tickets and NMFS editing of observer catch data and weekly production reports. The 2002 AFA catcher vessel sideboards amounts are shown in Tables 15 and 16.

All harvests of groundfish sideboard species made by non-exempt AFA catcher vessels, whether as targeted catch or bycatch, will be deducted from the sideboard limits listed in Table 15.

Table 15.—2002 BSAI AFA Catcher Vessel (CV) Sideboards
[Amounts are Expressed in Metric Tons]
Species | Fishery by Area/Season/Processor/Gear | Ratio of 1995-1997 AFA CV catch to 1995-1997 TAC | 2002 Initial TAC | 2002 catcher vessel sideboard
Pacific cod | BSAI
| jig gear | 0.0000 | 3,700 | 0
| hook-and-line CV |  |  |
| Jan 1—Jun 10 | 0.0006 | 169 | 0
| Jun 10—Dec 31 | 0.0006 | 113 | 0
| Pot gear |  |  |
| Jan 1—Jun 10 | 0.0006 | 10,305 | 6
| Sept 1—Dec 31 | 0.0006 | 6,870 | 4
| CV < 60 feet LOA using hook-and-line or pot gear | 0.0006 | 1,314 | 0
| trawl gear |  |  |
| catcher vessel |  |  |
| Jan 20—Apr 1 | 0.8609 | 30,433 | 26,200
| Apr 1—Jun 10 | 0.8609 | 4,348 | 3,743
| Jun 10—Nov 1 | 0.8609 | 8,695 | 7,486
Sablefish | BS trawl gear | 0.0906 | 820 | 74
| AI trawl gear | 0.0645 | 542 | 35
Atka mackerel | Eastern AI/BS |  |  |
| jig gear | 0.0031 | 51 | 0
| other gear |  |  |
| Jan 1—Apr 15 | 0.0032 | 2,518 | 8
| Sept 1—Nov 1 | 0.0032 | 2,518 | 8
| Central AI |  |  |
| Jan—Apr 15 | 0.0001 | 11,008 | 1
| inside CH | 0.0001 | 6,605 | 1
| Sept 1—Nov 1 | 0.0001 | 11,008 | 1
| inside CH | 0.0001 | 6,605 | 1
| Western AI |  |  |
| Jan—Apr 15 | 0.0000 | 9,111 | 0
| inside CH | 0.0000 | 5,467 | 0
| Sept 1—Nov 1 | 0.0000 | 9,111 | 0
| inside CH | 0.0000 | 5,467 | 0
Yellowfin sole | BSAI | 0.0647 | 73,100 | 4,730
Rock sole | BSAI | 0.0341 | 45,900 | 1,565
Greenland Turbot | BS | 0.0645 | 4,958 | 320
| AI | 0.0205 | 2,442 | 50
Arrowtooth flounder | BSAI | 0.0690 | 13,600 | 938
Alaska Plaice | BSAI | 0.0441 | 10,200 | 450
Other flatfish | BSAI | 0.0441 | 2,550 | 112
POP | BS | 0.1000 | 2,620 | 262
| Eastern AI | 0.0077 | 3,201 | 25
| Central AI | 0.0025 | 2,831 | 7
| Western AI | 0.0000 | 5,236 | 0
Northern rockfish | BS | 0.0048 | 16 | 0
| AI | 0.0089 | 6,239 | 56
Shortraker/Rougheye | BS | 0.0048 | 99 | 0
| AI | 0.0035 | 843 | 3
Other rockfish | BS | 0.0327 | 307 | 10
| AI | 0.0095 | 575 | 5
Squid | BSAI | 0.3827 | 1,675 | 641
Other species | BSAI | 0.0541 | 26,201 | 1,417
Flathead Sole | BS trawl gear | 0.0505 | 21,250 | 1,073

Regulations at § 679.63(b) establish a formula for PSC sideboards for AFA catcher vessels. The AFA catcher vessel PSC bycatch limit for halibut in the BSAI, and each crab species in the BSAI for which a trawl bycatch limit has been established as a percentage of the PSC limit equal to the ratio of aggregate retained groundfish catch by AFA catcher vessels in each PSC target category from 1995 through 1997 relative to the retained catch of all vessels in that fishery from 1995 through 1997. These amounts are listed in Table 16.

Halibut and crab PSC that is caught by AFA catcher vessels participating in any non-pollock groundfish fishery listed in Table 15 will accrue against the 2002 PSC limits for the AFA catcher vessels. Regulations at § 679.21(d)(8) and (e)(3)(v) provide authority to close directed fishing for non-pollock groundfish for AFA catcher vessels once a 2002 PSC limitation listed in Table 16 for the BSAI is reached. PSC that is caught by AFA catcher vessels while fishing for pollock in the BSAI will accrue against either the midwater pollock or the pollock/Atka mackerel/other species fishery categories.

Table 16.—2002 AFA Catcher Vessel (CV) Prohibited Species Catch (PSC) Sideboard Amounts ¹ for the BSAI
PSC species | Target fishery category ² and season | Ratio of 1995-1997 AFA CV retained catch to total retained catch | 2002 PSC Limit | 2002 AFA catcher vessel PSC sideboard
Halibut | Pacific cod trawl | 0.6183 | 1,434 | 887
| Pacific cod hook-and-line or pot | 0.0022 | 775 | 2
| Yellowfin sole
| Jan. 20—Apr. 1 | 0.1144 | 262 | 30
| Apr. 1—May 21 | 0.1144 | 195 | 22
| May 21—June 30 | 0.1144 | 49 | 6
| June 30—Dec. 31 | 0.1144 | 380 | 43
| Rock sole/flat. sole/other flatfish
| Jan. 20—Apr. 1 | 0.2841 | 448 | 127
| Apr. 1—June 30 | 0.2841 | 164 | 47
| June 30—Dec. 31 | 0.2841 | 167 | 47
| Turbot/Arrowtooth/Sablefish | 0.2327 | 0 | 0
| Rockfish | 0.0245 | 69 | 2
| Pollock/Atka mackerel/Other sp | 0.0227 | 232 | 5
Red King Crab | Pacific cod | 0.6183 | 11,664 | 7,212
Zone 1 | Yellowfin sole | 0.1144 | 16,664 | 1,906
| Rock sole/flat. sole/other flatfish | 0.2841 | 59,782 | 16,984
| Pollock/Atka mackerel/Other sp | 0.0227 | 1,615 | 37
C. opilio | Pacific cod | 0.6183 | 124,736 | 77,124
COBLZ ³,⁴ | Yellowfin sole | 0.1144 | 2,776,981 | 317,687
| Rock sole/flat. sole/other flatfish | 0.2841 | 969,130 | 275,330
| Pollock/Atka mackerel/Other sp | 0.0227 | 72,428 | 1,644
| Rockfish ⁵ | 0.0245 | 40,237 | 986
| Turbot/Arrowtooth/Sablefish | 0.2327 | 40,238 | 9,363
C. bairdi | Pacific cod | 0.6183 | 183,112 | 113,218
Zone 1 | Yellowfin sole | 0.1144 | 340,844 | 38,993
| Rock sole/flat. sole/other flatfish | 0.2841 | 365,320 | 103,787
| Pollock/Atka mackerel/Other sp | 0.0227 | 17,224 | 391
C. bairdi | Pacific cod | 0.6183 | 324,176 | 200,438
Zone 2 | Yellowfin sole | 0.1144 | 1,788,459 | 204,600
| Rock sole/flat. sole/other flatfish | 0.2841 | 596,154 | 169,367
| Pollock/Atka mackerel/Other sp | 0.0227 | 27,473 | 624
| Rockfish | 0.0245 | 10,988 | 269
¹ Halibut amounts are in metric tons of halibut mortality. Crab amounts are in numbers of animals.
² Target fishery categories are defined in regulation at § 679.21(e)(3)(iv).
³ C. opilio Bycatch Limitation Zone. Boundaries are defined at Figure 13 of 50 CFR part 679.
⁴ The Council at its December 2001 meeting limited red king crab for trawl fisheries within the RKCSS to 35 percent of the total allocation to the rock sole/flathead sole/'other flatfish” fishery category (§ 679.21(e)(3)(ii)(B)). “Other flatfish” for PSC monitoring includes all flatfish species, except for Pacific halibut (a prohibited species), Greenland turbot, rock sole, yellowfin sole, arrowtooth flounder.
⁵ The Council at its December 2001 meeting apportioned the rockfish PSC amounts from June 30—December 31.

2002 Sideboard Directed Fishing Closures

Catcher/Processor Sideboard Closures

The Regional Administrator has determined that many of the AFA catcher/processor sideboard amounts listed in Table 13 are necessary as incidental catch to support other anticipated groundfish fisheries for the 2002 fishing year. In accordance with § 679.20(d)(1)(iv), the Regional Administrator establishes these following amounts as directed fishing allowances. The Regional Administrator finds that many of these directed fishing allowances will be reached before the end of the year. Therefore, in accordance with § 679.20(d)(1)(iii), NMFS is prohibiting directed fishing by unrestricted AFA catcher/processors for the species in the specified areas set out in Table 17.

Table 17.—AFA Unrestricted Catcher/Processor Sideboard Directed Fishing Closures.¹
[These closures take effect 1200 HRS A.L.T., January 20, 2002 and remain in effect through 2400 HRS, A.L.T., December 31, 2002]
Species | Area | Gear types
Sablefish trawl | BSAI | all.
Greenland turbot | BSAI | all.
Arrowtooth flounder | BSAI | all.
Pacific ocean perch | BSAI | all.
Northern rockfish | BSAI | all.
Shortraker/Rougheye rockfish | BSAI | all.
Other rockfish | BSAI | all.
Squid | BSAI | all.
Other species | BSAI | all.
¹ Maximum retainable percentages may be found in Table 11 to 50 CFR part 679.

AFA Catcher Vessel Sideboard Closures

The Regional Administrator has determined that many of the AFA catcher vessel sideboard amounts listed in Table 15 are necessary as incidental catch to support other anticipated groundfish fisheries for the 2002 fishing year. In accordance with § 679.20(d)(1)(iv), the Regional Administrator establishes these amounts as directed fishing allowances. The Regional Administrator finds that many of these directed fishing allowances will be reached before the end of the year. Therefore, in accordance with § 679.20(d)(1)(iii), NMFS is prohibiting directed fishing by non-exempt AFA catcher vessels for the species in the specified areas set out in Table 18.

Table 18.—AFA Catcher Vessel Sideboard Directed Fishing Closures ¹
[These closures take effect 12 Noon A.L.T., January 20, 2002. These closures will remain in effect through 2400 hrs, A.L.T., December 31, 2002]
Species | Area | Gear
Pacific cod | BSAI | hook-and-line, pot, jig.
Sablefish | BSAI | trawl.
Atka mackerel | BSAI | all.
Greenland Turbot | BSAI | all.
Arrowtooth flounder | BSAI | all.
Pacific ocean perch | BSAI | all.
Northern rockfish | BSAI | all.
Shortraker/rougheye rockfish | BSAI | all.
Other rockfish | BSAI | all.
Squid | BSAI | all.
Other species | BSAI | all.
¹ Maximum retainable percentages may be found in Table 11 to 50 CFR part 679.

Increase in the Contribution of Arrowtooth Flounder CDQ to the CDQ Non-specific Reserve

Regulations at § 679.31(f) establish the CDQ non-specific reserve, comprised of 15 percent of the CDQ reserves of arrowtooth flounder and “other species” (skates, sharks, sculpin, and octopus). These species are taken incidentally in the CDQ fisheries. A CDQ group may request that NMFS transfer amounts in its CDQ non-specific reserve back into either its arrowtooth flounder or “other species” CDQ categories to reduce the possibility that the catch of these species would limit overall CDQ catch. Species or species groups that contribute to the CDQ non-specific reserve are low-valued species for which no target fishery currently exists. These species have an adequate buffer between the TAC and the overfishing limit (OFL).

During the 2002 harvest specification process for the BSAI fisheries, the Bering Sea pollock TAC was set at 1,485,000 mt, based on increases to the 2002 pollock ABC and OFL. This is a 6 percent increase over the 2001 pollock TAC of 1,400,000 mt. The total BSAI TAC for all groundfish must be maintained within a required optimum yield range of 1.4 million to 2.0 million mt. In order to stay within the 2.0 million mt limit, the Council often sets the TAC for a particular groundfish species below its designated ABC. It selected an arrowtooth flounder TAC of approximately 14 percent of the arrowtooth flounder 2002 ABC of 113,000 mt. This means that the amount of the arrowtooth flounder CDQ reserve and the subsequent contribution of this amount to the CDQ non-specified reserve is proportionately decreased for 2002.

During the first 3 years of the groundfish CDQ fisheries, the CDQ non-specific reserve contained sufficient amounts of quota to support the bycatch needs in the “other species” CDQ category. Arrowtooth flounder was the largest contributor to the non-specific reserve in 1999 and 2000, the first complete years of groundfish CDQ fishing. For these years, the arrowtooth flounder TAC was set at or close to the acceptable biological catch (ABC) level. However, in 2001, the arrowtooth flounder TAC was set significantly less than the arrowtooth flounder ABC. This initiated concern among CDQ program participants that vessels fishing for groundfish CDQ would catch the “other species” CDQ allocation before they fully harvested target species such as pollock, Pacific cod, sablefish, and Greenland turbot. One of the primary reasons they cited for the shortfall in “other species” CDQ was the reduction in the 2001 arrowtooth flounder TAC. NMFS regulations limit the amount of “other species” CDQ available to each CDQ group and prohibit the groups from exceeding their allocations.

At its April 2001 meeting, the Council stated that the CDQ non-specific reserve was “intended, in part, to provide adequate ‘other species’ quota to allow reasonable CDQ fisheries.” At its June 2001 meeting, the Council requested that NMFS adjust the contribution of arrowtooth flounder CDQ to the CDQ non-specific reserve from 15 percent to 50 percent via emergency rulemaking. This was done in the SSL/Harvest Specifications interim emergency rule extension on July 17, 2001 (66 FR 37167). During the 2002 BSAI groundfish specification setting process, the Council again requested that NMFS amend the CDQ non-specific reserve to increase the contribution of arrowtooth flounder to the CDQ non-specific reserve from 15 percent of the arrowtooth flounder CDQ reserve to 50 percent of the arrowtooth flounder CDQ reserve for 2002.

In response to the Council's request, NMFS is amending the CDQ non-specific reserve to increase the contribution of arrowtooth flounder to the CDQ non-specific reserve from 15 percent of the arrowtooth flounder CDQ reserve to 50 percent of this reserve for 2002. This increase will allow CDQ groups to transfer additional quota from the CDQ non-specific reserve to the “other species” CDQ account to reduce the possibility that the incidental catch of “other species” would prevent the CDQ groups from fully harvesting their target species allocations.

The maximum amount of “other species” available for harvest in the combined CDQ and non-CDQ fisheries is the aggregate amount of the following components: The open access ITAC (26,201 mt), the CDQ reserve (2,312 mt), and the current amount of arrowtooth flounder in the CDQ non-specific reserve that could be released to the “other species” category (180 mt). The sum of these components is 28,693 mt. If 50 percent (600 mt) of the arrowtooth flounder CDQ reserve is moved to the non-specific CDQ reserve and subsequently released to the “other species” CDQ category, the revised total amount of “other species” available for harvest in the combined open access and CDQ fisheries would increase to 29,113 mt. This is 420 mt more than the currently available total “other species” amount of 28,693 mt. However, the increase in the overall amount of “other species” available for harvest via transfers from the CDQ non-specific reserve is still less than the combined CDQ and non-CDQ fisheries 2002 “other species” TAC of 30,825 mt and will not likely result in the total catch of “other species” exceeding the 2002 “other species” TAC. NMFS has determined that the TAC, ABC, and OFL controls associated with both the “other species” and arrowtooth flounder species categories are not compromised by this action. Even after adjusting the contribution of arrowtooth flounder to the CDQ non-specific reserve, the total permissible catch of “other species” and arrowtooth flounder in both the CDQ and non-CDQ groundfish fisheries remains below the initially recommended TAC for each species. The 2002 ABC and OFL thresholds are not impacted, since this action does not adjust permissible overall catch levels to the extent that they approach the ABC or OFL for either species. The aggregate amount of groundfish allocated to the CDQ sector will remain the same even with this increased contribution of arrowtooth flounder to the CDQ non-specific reserve, and the CDQ sector will still be constrained by existing prohibitions against exceeding specific CDQ amounts.

Gulf of Alaska

The SSC adopted the OFL recommendations from the Plan Team, which were provided in the November 2001 GOA SAFE report (See ADDRESSES) for all groundfish species categories. The SSC also adopted the ABC and area apportionment recommendations from the Plan Team, which were provided in the GOA SAFE report, for all of the groundfish species categories.

The AP adopted the SSC's OFL and ABC recommendations and developed TAC recommendations for all species. The Council adopted the AP's OFL, ABC, and TAC recommendations for all species.

The SSC's, AP's and Council's recommendation for the method of apportioning the sablefish ABC among management areas includes commercial fishery as well as survey data, as in 2001. NMFS stock assessment scientists believe that the use of unbiased commercial fishery data reflecting catch-per-unit effort provides a desirable input for stock distribution assessments. The use of commercial fishery data is evaluated annually to assure that unbiased information is included in stock distribution models. The Council's recommendation for sablefish area apportionments also takes into account the prohibition on the use of trawl gear in the Southeast Outside (SEO) District of the Eastern GOA and makes available 5 percent of the combined Eastern GOA sablefish ABCs to trawl gear for use as incidental catch in other directed groundfish fisheries in the West Yakutat (WYK) District.

The AP and Council recommended that the ABC for Pacific cod in the GOA be apportioned among regulatory areas based on the three most recent NMFS summer trawl surveys conducted in 1996, 1999, and 2001. As in previous years, the Plan Team, SSC, and Council recommended that total removals of Pacific cod from the GOA not exceed ABC recommendations. Accordingly, the Council recommended that the TACs be adjusted downward from the ABCs by amounts equal to the 2002 guideline harvest levels (GHL) established for Pacific cod by the State of Alaska for the State-managed fishery. The effect of the State's GHL on the Pacific cod TAC is discussed in greater detail below.

The Council's recommended ABCs are listed in Table 19. These amounts reflect harvest amounts that are less than the specified overfishing amounts. The sum of 2002 ABCs for all assessed groundfish is 394,780 mt, which is lower than the 2001 ABC total of 447,710 mt.

2002 GOA Harvest Specifications

Specifications of TAC and Reserves

The Council recommended that TACs be set equal to ABCs for pollock, deep-water flatfish, rex sole, sablefish, shortraker and rougheye rockfish, northern rockfish, Pacific Ocean perch, pelagic shelf rockfish, thornyhead rockfish, demersal shelf rockfish, and Atka mackerel. The Council recommended TACs be set less than the ABCs for Pacific cod, flathead sole, shallow-water flatfish, arrowtooth flounder, and other rockfish.

The TAC for pollock in the combined W/C/WYK area of the GOA has decreased from 89,415 mt in 2001 to 51,790 mt in 2002. The 2002 TAC in the SEO District of the Eastern GOA is unchanged from 2001 at 6,460 mt. The apportionment of annual pollock TAC among the Western and Central Regulatory Areas of the GOA reflects the seasonal biomass distribution and is discussed in greater detail below.

Under this emergency interim rule, the annual pollock TAC in the Western and Central Regulatory Areas of the GOA is divided into four equal seasonal apportionments. Twenty-five percent of the annual TAC in the Western and Central Regulatory Areas of the GOA is apportioned to the A season (January 20 through February 25), the B season (March 10 through May 31), the C season (August 25 through September 15), and the D season (October 1 through November 1) in Statistical Areas 610, 620, and 630 of the GOA (§ 679.23(d)(3)(i) through (iv)). The derivation of the seasonal apportionment amounts in these areas is discussed below.

The 2002 Pacific cod TAC is affected by the State's developing fishery for Pacific cod in State waters in the Central and Western GOA, as well as Prince William Sound (PWS). The SSC, AP, and Council recommended that the sum of all State and Federal water Pacific cod removals should not exceed the ABC. Accordingly, the Council recommended that the Pacific cod TAC be reduced from ABC levels to account for State GHLs in each regulatory area of the GOA so that the TAC for (1) The Eastern GOA is lower than the ABC by 864 mt, (2) the Central GOA is lower than the ABC by 6,890 mt, and (3) the Western GOA is lower than the ABC by 5,616 mt. These amounts reflect the sum of State's 2002 GHLs in these areas which are 25 percent, 21.75 percent, and 25 percent of the Eastern, Central, and Western GOA ABCs, respectively. These percentages are unchanged from 2001.

NMFS is also establishing seasonal apportionments of the annual Pacific cod TAC in the Western and Central Regulatory Areas at 60 percent of the annual TAC for the January 1 through June 10 A season for nontrawl gear and January 20 through June 10 A season for trawl gear. 40 percent of the annual TAC is allocated to the B season. For nontrawl gear, the B season extends from September 1 through December 31 and for trawl gear the B seasons extends from September 1 through November 1. These seasonal apportionments of the annual Pacific cod TAC are discussed in greater detail below.

The FMP specifies that the amount for the “other species” category is calculated as 5 percent of the combined TAC amounts for target species. The 2002 GOA-wide “other species” TAC is 11,330 mt, which is 5 percent of the sum of the combined TAC amounts (226,560 mt) for the assessed target species. The sum of the TACs for all GOA groundfish is 237,890 mt, which is within the OY range specified by the FMP. The sum of the 2002 TACs is lower than the 2001 TAC sum of 285,994 mt. NMFS has reviewed the Council's recommended TAC specifications and apportionments and hereby approves these specifications under § 679.20(c)(3)(ii). The 2002 ABCs, TACs, and OFLs are shown in Table 19.

Table 19.—2002 ABCs, TACs, and Overfishing Levels of Groundfish for the Western/Central/West Yakutat (W/C/WYK), Western (W), Central (C), Eastern (E) Regulatory Areas, and in the West Yakutat (WYK), Southeast Outside (SEO), and Gulf-Wide (GW) Districts of the Gulf of Alaska
[Values are in metric tons]
Species | Area ¹ | ABC | TAC | Overfishing
Pollock ²
Shumagin | (610) | 17,730 | 17,730 |
Chirikof | (620) | 23,045 | 23,045 |
Kodiak | (630) | 9,850 | 9,850 |
WYK | (640) | 1,165 | 1,165 |
Subtotal | W/C/WYK | 51,790 | 51,790 | 75,480
SEO | (650) | 6,460 | 6,460 | 8,610
Total |  | 58,250 | 58,250 | 84,090
Pacific cod ³
| W | 22,465 | 16,849 |
| C | 31,680 | 24,790 |
| E | 3,455 | 2,591 |
Total |  | 57,600 | 44,230 | 77,100
Flatfish (deep-water) ⁴ | W | 180 | 180 |
| C | 2,220 | 2,220 |
| WYK | 1,330 | 1,330 |
| SEO | 1,150 | 1,150 |
Total |  | 4,880 | 4,880 | 6,430
Rex sole ⁴ | W | 1,280 | 1,280 |
| C | 5,540 | 5,540 |
| WYK | 1,600 | 1,600 |
| SEO | 1,050 | 1,050 |
Total |  | 9,470 | 9,470 | 12,320
Flathead sole | W | 9,000 | 2,000 |
| C | 11,410 | 5,000 |
| WYK | 1,590 | 1,590 |
| SEO | 690 | 690 |
Total |  | 22,690 | 9,280 | 29,530
Flatfish (shallow-water) ⁵ | W | 23,550 | 4,500 |
| C | 23,080 | 13,000 |
| WYK | 1,180 | 1,180 |
| SEO | 1,740 | 1,740 |
Total |  | 49,550 | 20,420 | 61,810
Arrowtooth flounder | W | 16,960 | 8,000 |
| C | 106,580 | 25,000 |
| WYK | 17,150 | 2,500 |
| SEO | 5,570 | 2,500 |
Total |  | 146,260 | 38,000 | 171,060
Sablefish ⁶ | W | 2,240 | 2,240 |
| C | 5,430 | 5,430 |
| WYK | 1,940 | 1,940 |
| SEO | 3,210 | 3,210 |
Subtotal | E | 5,150 | 5,150 |
Total |  | 12,820 | 12,820 | 19,350
Pacific ocean perch ⁷ | W | 2,610 | 2,610 | 3,110
| C | 8,220 | 8,220 | 9,760
| WYK | 780 | 780 |
| SEO | 1,580 | 1,580 |
Subtotal | E |  |  | 2,800
Total |  | 13,190 | 13,190 | 15,670
Short raker/rougheye ⁸ | W | 220 | 220 |
| C | 840 | 840 |
| E | 560 | 560 |
Total |  | 1,620 | 1,620 | 2,340
Other rockfish ⁹,¹⁰ | W | 90 | 90 |
| C | 550 | 550 |
| WYK | 260 | 150 |
| SEO | 4,140 | 200 |
Total |  | 5,040 | 990 | 6,610
Northern Rockfish ¹⁰,¹² | W | 810 | 600 |
| C | 4,170 | 4,170 |
| E | N/A | N/A |
Total |  | 4,980 | 4,980 | 5,910
Pelagic shelf rockfish ¹³ | W | 510 | 510 |
| C | 3,480 | 3,480 |
| WYK | 640 | 640 |
| SEO | 860 | 860 |
Total |  | 5,490 | 5,490 | 8,220
Thornyhead rockfish | W | 360 | 360 |
| C | 840 | 840 |
| E | 790 | 790 |
Total |  | 1,990 | 1,990 | 2,330
Demersal shelf rockfish ¹¹ | SEO | 350 | 350 | 480
Atka mackerel | GW | 600 | 600 | 6,200
Other species ¹⁴ | GW | ¹⁵ N/A | 11,330 | N/A
Total ¹⁶ |  | 394,780 | 237,890 | 509,450
¹ Regulatory areas and districts are defined at § 679.2.
² Pollock is apportioned in the Western/Central Regulatory areas among three statistical areas. During the A and B seasons the apportionment is based on the relative distribution of pollock biomass at 23 percent, 68 percent, and 9 percent in Statistical Areas 610, 620, and 630 respectively. During the C and D seasons pollock is apportioned based on the relative distribution of pollock biomass at 47 percent, 23 percent, and 30 percent in Statistical Areas 610, 620, and 630 respectively. These seasonal apportionments are shown in Table 21. In the West Yakutat and the Southeast Outside Districts of the Eastern Regulatory Area the annual pollock TAC is not divided into seasonal allowances.
³ The annual Pacific cod TAC is apportioned 60 percent to an A season and 40 percent to a B season in the Western and Central Regulatory Areas of the GOA. Pacific cod is allocated 90 percent for processing by the inshore component and 10 percent for processing by the offshore component. Seasonal apportionments and component allocations of TAC are shown in Table 22.
⁴ “Deep water flatfish” means Dover sole, Greenland turbot, and deepsea sole.
⁵ “Shallow water flatfish” means flatfish not including “deep water flatfish,” flathead sole, rex sole, or arrowtooth flounder.
⁶ Sablefish is allocated to trawl and hook-and-line gears (Table 20).
⁷ “Pacific ocean perch” means Sebastes alutus.
⁸ “Shortraker/rougheye rockfish” means Sebastes borealis (shortraker) and S. aleutianus (rougheye).
⁹ “Other rockfish” in the Western and Central Regulatory Areas and in the West Yakutat District means slope rockfish and demersal shelf rockfish. The category “other rockfish” in the Southeast Outside District means Slope rockfish.
¹⁰ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, “slope rockfish” also includes northern rockfish, S. polyspinous.
¹¹ “Demersal shelf rockfish” means Sebastes pinniger (canary), S. nebulosus (china), S. caurinus (copper), S. maliger (quillback), S. helvomaculatus (rosethorn), S. nigrocinctus (tiger), and S. ruberrimus (yelloweye).
¹² “Northern rockfish” means Sebastes polyspinis.
¹³ “Pelagic shelf rockfish” means Sebastes ciliatus (dusky), S. entomelas (widow), and S. flavidus (yellowtail).
¹⁴ “Other species” means sculpins, sharks, skates, squid, and octopus. The TAC for “other species” equals 5 percent of the TACs of assessed target species.
¹⁵ N/A means not applicable.
¹⁶ The total ABC is the sum of the ABCs for assessed target species.

Apportionment of Reserves

Regulations implementing the FMP require 20 percent of each TAC for pollock, Pacific cod, flatfish, and the “other species” category be set aside in reserves for possible apportionment at a later date (§ 679.20(b)(2)). In 2001, NMFS reapportioned all of the reserves in the final harvest specifications. Between 1997 and 2000, NMFS retained the Pacific cod reserve to provide for a management buffer to account for excessive fishing effort and incomplete or late catch reporting. NMFS believes this is no longer necessary as estimates of catch and incidental catch needs in other directed fisheries have improved in recent years. For 2002, NMFS has reapportioned all of the reserve for pollock, Pacific cod, flatfish, and “other species”. Specifications of TAC shown in Table 19 reflect apportionment of reserve amounts for these species and species groups.

Allocations of the Sablefish TACs to Vessels Using Hook-and-Line and Trawl Gear

Under § 679.20(a)(4)(i) and (ii), sablefish TACs for each of the regulatory areas and districts are allocated to hook-and-line and trawl gear. In the Western and Central Regulatory Areas, 80 percent of each TAC is allocated to hook-and-line gear and 20 percent of each TAC is allocated to trawl gear. In the Eastern Regulatory Area, 95 percent of the TAC is allocated to hook-and-line gear and 5 percent is allocated to trawl gear. The trawl gear allocation in the Eastern Regulatory Area may only be used to support incidental catch of sablefish in directed fisheries for other target species. In recognition of the trawl ban in the SEO District of the Eastern Regulatory Area, the Council recommended that 5 percent of the combined Eastern GOA sablefish be allocated to trawl gear in the WYK District and the remainder to vessels using hook-and-line gear. In the SEO District, 100 percent of the sablefish TAC is allocated to vessels using hook-and-line gear. This recommendation results in an allocation of 258 mt to trawl gear and 1,682 mt to hook-and-line gear in the WYK District and 3,210 mt to hook-and-line gear in the SEO District. Table 20 shows the allocations of the 2002 sablefish TACs between hook-and-line gear and trawl gear.

Table 20.—2002 Sablefish TAC Specifications in the Gulf of Alaska and Allocations Thereof to Hook-and-Line and Trawl Gear
[Values are in metric tons]
Area/District | TAC | Hook-and-line apportionment | Trawl apportionment
Western | 2,240 | 1,792 | 448
Central | 5,430 | 4,344 | 1,086
West Yakutat | 1,940 | 1,682 | 258
Southeast Outside | 3,210 | 3,210 | 0
Total | 12,820 | 11,028 | 1,792

Apportionments of Pollock TAC Among Seasons and Regulatory Areas, and Allocations for Processing by Inshore and Offshore Components

In the GOA, pollock is apportioned by season and area, and is further allocated for processing by inshore and offshore components. Under this emergency interim rule implementing Steller sea lion protection measures for 2002, the annual pollock TAC specified for the Western and Central Regulatory Areas of the GOA is apportioned into four equal seasonal allowances of 25 percent (§ 679.20(a)(5)(ii)(C)). As established by § 679.23(d)(3), the A, B, C, and D season allowances are available from January 20 through February 25, from March 10 through May 31, from August 25 through September 15, and from October 1 through November 1, respectively.

Pollock TACs in the Western and Central Regulatory Areas of the GOA in the A and B seasons are apportioned among Statistical Areas 610, 620, and 630 in proportion to the distribution of pollock biomass as determined by a composite of NMFS winter surveys and in the C and D seasons in proportion to the distribution of pollock biomass as determined by the four most recent NMFS summer surveys. Within any fishing year, underage or overage of a seasonal allowance may be added to or subtracted from subsequent seasonal allowances in a manner to be determined by the Regional Administrator, Alaska Region, NMFS, provided that the sum of the revised seasonal allowances does not exceed 30 percent of the annual TAC apportionment for the Central and Western Regulatory Areas in the GOA (§ 679.20(a)(5)(ii)(C)). For 2002, 30 percent of the annual TAC for the Central and Western Regulatory Areas is 15,187 mt. For 2002, the Regional Administrator has determined that within each area for which a seasonal allowance is established, any overage or underage of harvest at the beginning of the next season(s) shall be subtracted from or added to the following season provided that the resulting sum of seasonal allowances in the Central and Western Regulatory Areas does exceed 15,187 mt in any single season. The WYK and SEO District pollock TACs of 1,165 mt and 6,460 mt, respectively, are not allocated seasonally.

Regulations at § 679.20(a)(6)(ii) require that 100 percent of the pollock TAC in all regulatory areas and all seasonal allowances thereof be allocated to vessels catching pollock for processing by the inshore component after subtraction of amounts that are projected by the Regional Administrator to be caught by, or delivered to, the offshore component incidental to directed fishing for other groundfish species. The amount of pollock available for harvest by vessels harvesting pollock for processing by the offshore component is that amount actually taken as bycatch during directed fishing for groundfish species other than pollock, up to the maximum retainable bycatch amounts allowed under regulations at § 679.20(e) and (f). At this time, these bycatch amounts are unknown and will be determined during the fishing year.

The seasonal biomass distribution of pollock in the Western and Central GOA, area apportionments, and seasonal apportionments for the A, B, C, and D seasons are summarized in Table 21, except that amounts of pollock for processing by the inshore and offshore component are not shown.

Table 21.—Distribution of Pollock in the Central and Western Regulatory Areas of the Gulf of Alaska; Seasonal Biomass Distribution, Area Apportionments; and Seasonal Allowances of Annual TAC in 2002
[Values are in mt]
Area: Season ¹ | Area: Shumagin (Area 610) (biomass distribution ²) | Area: Chirikof (Area 620) (biomass distribution) | Area: Kodiak (Area 630) (biomass distribution) | Area: Total (biomass distribution)
A | 2,916 (23%) | 8,618 (68%) | 1,122 (9%) | 12,656 (100%)
B | 2,916 (23%) | 8,618 (68%) | 1,122 (9%) | 12,656 (100%)
C | 5,949 (47%) | 2,905 (23%) | 3,803 (30%) | 12,657 (100%)
D | 5,949 (47%) | 2,904 (23%) | 3,803 (30%) | 12,656 (100%)
Annual Total | 17,730 | 23,045 | 9,850 | 50,625
¹ These emergency interim regulations for pollock in the GOA which specify A and B season dates and harvest limitations, expires July 8, 2002, before the C and D seasons are scheduled to begin. Therefore, the C and D seasons are not authorized unless either this emergency rule is extended, or proposed and final rulemaking is completed.
² Biomass distribution is rounded to the nearest 1%.

Seasonal Apportionments of Pacific Cod TAC and Allocations for Processing of Pacific Cod TAC Between Inshore and Offshore Components

As described in Part I above, Pacific cod fishing is divided into two seasons in the Western and Central Regulatory Areas of the GOA. The A season begins on January 1, 2002, and ends on June 10, 2002, for nontrawl gear and begins on January 20, 2002, and ends on June 10, 2002, for trawl gear. The B season begins on September 1, 2002, for all gear types and ends on December 31, 2002, for nontrawl gear and November 1, 2002, for trawl gear. After subtraction of incidental catch, 60 percent and 40 percent of the annual TAC will be available for harvest during the A and B seasons, respectively, and will be apportioned between the inshore and offshore processing components as provided in § 679.20(a)(6)(iii). Directed fishing for Pacific cod between the A and the B seasons is closed and fishermen participating in other directed fisheries may retain Pacific cod up to the maximum retainable bycatch amounts allowed under regulations at § 679.20(e) and (f). The time of day of all openings and closures of fishing seasons, other than the beginning and ending of the calender fishing year, is 1200 hours, A.l.t. For purposes of clarification, NMFS points out that the A season and the B season Pacific cod fishery dates differ from those of the A, B, C, and D seasons for the pollock fisheries. Any overage or underage of Pacific cod harvest from the A season shall be subtracted from or added to the subsequent B season. Any incidental catch of Pacific cod after the A season closes will be subtracted from the B season.

Regulations at § 679.20(a)(6)(iii) require that the TAC apportionment of Pacific cod in all regulatory areas be allocated to vessels catching Pacific cod for processing by the inshore and offshore components. Ninety percent of the Pacific cod TAC in each regulatory area is allocated to vessels catching Pacific cod for processing by the inshore component. The remaining 10 percent of the TAC is allocated to vessels catching Pacific cod for processing by the offshore component. These seasonal apportionments and allocations of the Pacific cod TAC for 2002 are shown in Table 22.

Table 22.—2002 Seasonal Apportionments and Allocation of Pacific cod TAC Amounts in the Gulf of Alaska; Allocations for Processing by the Inshore and Offshore Components
[Values are in mt]
Regulatory area | TAC | Component Allocation: Inshore (90%) | Component Allocation: Offshore (10%)
Western | 16,849 | 15,164 | 1,685
A Season (60%) | 10,109 | 9,098 | 1,011
B Season (40%) | 6,740 | 6,066 | 674
Central | 24,790 | 22,311 | 2,479
A Season (60%) | 14,874 | 13,387 | 1,487
B Season (40%) | 9,916 | 8,924 | 992
Eastern | 2,591 | 2,332 | 259
Total | 44,230 | 39,807 | 4,423

Pacific Halibut PSC Mortality Limits

Under § 679.21(d), annual Pacific halibut PSC limits are established and apportioned to trawl and hook-and-line gear and may be established for pot gear.

As in 2001, the Council recommended that pot gear, jig gear, and the hook-and-line sablefish fishery be exempted from the non-trawl halibut limit for 2002. The Council recommended these exemptions because of the low halibut bycatch mortality experienced in the pot gear fisheries (4 mt in 2001) and because of the 1995 implementation of the sablefish and halibut Individual Fishing Quota program, which allows legal-sized halibut to be retained in the sablefish fishery. Halibut mortality for the jig gear fleet cannot be estimated because these vessels do not carry observers. However, halibut mortality is assumed to be very low given the small amount of groundfish harvested by this gear type (336 mt in 2001) and the assumed high survival rate of any halibut that are incidentally taken and released.

As in 2001, the Council recommended a hook-and-line halibut PSC mortality limit of 300 mt. Ten mt of this limit are apportioned to the demersal shelf rockfish fishery in the Southeast Outside District. The fishery is defined at § 679.21(d)(4)(iii)(A) and historically has been apportioned this amount in recognition of its small scale harvests. Observer data are not available to verify actual bycatch amounts given that most vessels are less than 60 ft (13.5 m) LOA and are exempt from observer coverage. The remainder of the PSC limit is seasonally apportioned among the non-sablefish hook-and-line gear fisheries as shown in Table 23.

The Council continued to recommend a trawl halibut PSC mortality limit of 2,000 mt for 2002. The PSC limit has remained unchanged since 1989. Regulations at § 679.21(d)(3)(iii) authorize separate apportionments of the trawl halibut PSC limit between trawl fisheries for deep-water and shallow-water species. Regulations at § 679.21(d)(5) authorize seasonal apportionments of halibut PSC limits.

NMFS concurs in the Council's recommendations described above and listed in Table 23. The following types of information as presented in, and summarized from, the current SAFE report, or as otherwise available from NMFS, ADF&G, the International Pacific Halibut Commission (IPHC), or public testimony were considered:

(A) Estimated Halibut Bycatch in Prior Years

The best available information on estimated halibut bycatch is data collected by observers during 2001. The calculated halibut bycatch mortality by trawl, hook-and-line, and pot gear through December 7, 2001, is 2,205 mt, 286 mt, and 4 mt, respectively, for a total halibut mortality of 2,495 mt.

Halibut bycatch restrictions seasonally constrained trawl gear fisheries during the 2001 fishing year. Trawling for the deep-water fishery complex was closed for the second season on May 25 (66 FR 29511, May 31, 2001) and for the third season on July 23 (66 FR 39119, July 27, 2001). The shallow-water fishery complex was closed for the second season on April 27 (66 FR 21886, May 2, 2001), the fishery was reopened from May 21 to May 26 (66 FR 28679, May 24, 2001, and 66 FR 29512, May 31, 2001), for the third season on June 27 (66 FR 34852, July 2, 2001), and for the fourth season on August 4 (66 FR 41455, August 8, 2001). The fishery was reopened from September 1 to September 4 (66 FR 34852, July 2, 2001, and 66 CF 46967, September 10, 2001). All trawling in the GOA closed (with the exception of pelagic trawl gear targeting pollock) for the remainder of the year on October 21 (66 FR 53736, October 24, 2001).

The three seasonal apportionments of the hook-and-line halibut bycatch mortality limit resulted in closures of hook-and-line gear fisheries for groundfish other than sablefish and demersal shelf rockfish on February 26 (66 FR 12912, March 1, 2001), May 17 (66 FR 27043, May 16, 2000), and on September 4 (66 FR 46404, September 5, 2001).

(B) Expected Changes in Groundfish Stocks

In December 2001, the Council adopted higher 2002 ABCs for rex sole, shallow water flatfish, flathead sole, other rockfish, northern rockfish, and demersal shelf rockfish than those established for 2001. The Council adopted lower 2002 ABCs for pollock, Pacific cod, deep water flatfish, arrowtooth flounder, sablefish, Pacific Ocean perch, shortraker and rougheye rockfish, pelagic shelf rockfish, and thornyhead rockfish than those established for 2001. More information on these changes is included in the final SAFE report (November 2001) and in the Council and SSC December 2001 meeting minutes.

(C) Expected Changes in Groundfish Catch

The total of the 2002 TACs for the GOA is 237,888 mt, a decrease of 17 percent from the 2001 TAC total of 285,994 mt. Those fisheries for which the 2002 TACs are lower than in 2001 are pollock (decreased to 58,250 mt from 95,875 mt), Pacific cod (decreased to 44,230 mt from 52,110 mt), deep water flatfish (decreased to 4,880 mt from 5,300 mt), sablefish (decreased to 12,820 mt from 12,840 mt), Pacific Ocean perch (decreased to 13,190 mt from 13,510 mt), shortraker and rougheye rockfish (decreased to 1,620 mt from 1,730 mt), other rockfish (decreased to 990 mt from 1,010 mt), pelagic shelf rockfish (decreased to 5,490 mt from 5,980 mt), thornyhead rockfish (decreased to 1,990 mt from 2,310 mt), and “other species” (decreased to 11,330 mt from 13,619 mt). Those species for which the 2002 TACs are higher than in 2001 are rex sole (increased to 9,470 mt from 9,440 mt), flathead sole (increased to 9,280 mt from 9,060 mt), shallow water flatfish (increased to 20,420 mt from 19,400 mt), northern rockfish (increased to 4,980 mt from 4,880 mt), and demersal shelf rockfish (increased to 350 mt from 330 mt).

(D) Current Estimates of Halibut Biomass and Stock Condition

The most recent halibut stock assessment was conducted by the International Pacific Halibut Commission (IPHC) in December 2000. The halibut resource is considered to be healthy, with total catch near record levels. The current exploitable halibut biomass for 2001 is estimated to be 249,007 mt, using an age-specific estimate for 2001. In the age-specific estimate, the assumption is that the selection of fish by the survey is based primarily on the age of the fish and reflects the availability of fish of different ages on the grounds. This is an increase from the estimate of 135,172 mt in 2000. The difference is in large part due to omitting a precautionary downward correction used in the 1999 assessment which was based on presumed increased fishing power of baits recently used in the surveys. The 2000 estimate for exploitable biomass in 2001 of 249,007 mt is now similar to the 1998 estimate for exploitable biomass in 1999 of 227,366 mt before the fishing power correction was made. The IHPC believes that exploitable biomass of the Pacific halibut stock peaked at 326,520 mt in 1988. According to the IHPA, the long-term average reproductive biomass for the Pacific halibut resource is estimated at 118,000 mt. Long-term average yield is estimated at 26,980 mt, round weight. The species is fully utilized. Average catches (1994-96) are 33,580 mt for the U.S. and 6,410 mt for Canada, for a combined total of 39,990 mt for the entire Pacific halibut resource. This catch is 48 percent higher than the long-term potential yield, which reflects the good condition of the Pacific halibut resource. In January 2001, the IPHC recommended commercial catch limits totaling 37,120 mt (round weight equivalents) for Alaska in 2001, up from 33,910 mt in 2000. Through November 23, 2001, commercial hook-and-line harvests of halibut in Alaska totaled 35,293 mt (round weight equivalents).

The major change in the assessment results for 2000 came from the elimination of the downward correction in recent survey catch rates that was applied in 1999, to account for a suspected increase in the fishing power of the surveys due to a bait change in 1993. Experiments conducted in 2000 have shown that the precautionary adjustment is not required. The stock assessment shows only minor changes for the southern portion of the range (Areas 2A, 2B, and 2C). Improvements in the estimated biomass of the stock in Area 3A are accounted for largely by the change in the treatment of historical survey data. Weight at age for halibut in the central portion of the range increased slightly in 2000 over the very low values of recent years. However, recruitment of year classes born between 1989 and 1993 appears to be poor. The outlook for the stock biomass over the near future is for a decline from the record high levels of recent years until increased recruitment to the stock occurs.

Additional information on the Pacific halibut stock assessment may be found in the final SAFE report (November 2001) and in the IPHC's 2000 Pacific halibut stock assessment (December 2000). The 2001 Pacific halibut stock assessment for 2002 will be considered by the IPHC at its January 2002 annual meeting in setting the 2002 commercial halibut fishery quotas. IPHC staff have made a preliminary catch recommendation of 36,812 mt (round weight equivalents) for Alaska waters in 2002, a decrease of 308 mt from 2001.

(E) Other Factors

The allowable commercial catch of halibut will be adjusted to account for the overall halibut PSC mortality limit established for groundfish fisheries. The 2002 GOA groundfish fisheries are expected to use the entire proposed halibut PSC limit of 2,300 mt. The allowable directed commercial catch is determined by accounting for the recreational and subsistence catch, waste, and bycatch mortality and then providing the remainder to the directed fishery. Groundfish fishing is not expected to adversely affect the halibut stocks.

Methods available for reducing halibut bycatch include: (1) Reducing halibut bycatch rates through the Vessel Incentive Program; (2) modifications to gear; (3) changes in groundfish fishing seasons; (4) individual transferable quota programs; and (5) time/area closures.

Reductions in groundfish TAC amounts provide no incentive for fishermen to reduce bycatch rates. Costs that would be imposed on fishermen as a result of reducing TAC amounts depend on the species and amounts of groundfish foregone.

Trawl vessels carrying observers for purposes of complying with observer coverage requirements (§ 679.50) are subject to the Vessel Incentive Program. This program encourages trawl fishermen to avoid high halibut bycatch rates while conducting groundfish fisheries by specifying bycatch rate standards for various target fisheries.

Current regulations (§ 679.2 Authorized fishing gear (12)) specify requirements for biodegradable panels and tunnel openings for groundfish pots to reduce halibut bycatch. As a result, low bycatch and mortality rates of halibut in pot fisheries have justified exempting pot gear from PSC limits.

The regulations also define pelagic trawl gear in a manner intended to reduce bycatch of halibut by displacing fishing effort off the bottom of the sea floor when certain halibut bycatch levels are reached during the fishing year. The definition provides standards for physical conformation (§ 679.2, see Authorized fishing gear) and performance of the trawl gear in terms of crab bycatch (§ 679.7(a)(14)). Furthermore, all hook-and-line vessel operators are required to employ careful release measures when handling halibut bycatch (§ 679.7(a)(13)). These measures are intended to reduce handling mortality, to increase the amount of groundfish harvested under the available halibut mortality bycatch limits, and to possibly lower overall halibut bycatch mortality in groundfish fisheries.

The sablefish/halibut IFQ program (implemented in 1995) was intended, in part, to reduce the halibut discard mortality in the sablefish fishery.

Consistent with the goals and objectives of the FMP to reduce halibut bycatch while providing an opportunity to harvest the groundfish OY, NMFS approves the assignments of 2,000 mt and 300 mt of halibut PSC limits to trawl and hook-and-line gear, respectively. While these limits will reduce the harvest quota for commercial halibut fishermen, NMFS has determined that they will not result in unfair allocation to any particular user group as these PSCs establish an upper limit on the impact of the groundfish fisheries on the commercial halibut fishery in the GOA. NMFS recognizes that some halibut bycatch will occur in the groundfish fishery, but the Vessel Incentive Program, required modifications to gear, and implementation of the halibut/sablefish IFQ program are intended to reduce adverse impacts on halibut fishermen while promoting the opportunity to achieve the OY from the groundfish fishery. NMFS and the Council will review the methods available for reducing halibut bycatch listed here to determine their effectiveness, and will initiate changes, as necessary, in response to this review or to public testimony and comment.

Fishery and Seasonal Apportionments of the Halibut PSC Limits

Under § 679.21(d)(5), NMFS seasonally apportions the halibut PSC limits based on recommendations from the Council. The FMP requires that the following information be considered by the Council in recommending seasonal apportionments of halibut PSC limits: (a) Seasonal distribution of halibut, (b) seasonal distribution of target groundfish species relative to halibut distribution, (c) expected halibut bycatch needs on a seasonal basis relative to changes in halibut biomass and expected catches of target groundfish species, (d) expected bycatch rates on a seasonal basis, (e) expected changes in directed groundfish fishing seasons, (f) expected actual start of fishing effort, and (g) economic effects of establishing seasonal halibut allocations on segments of the target groundfish industry.

In December 2001, the Council and its AP recommended seasonal PSC apportionments in order to maximize harvest among gear types, fisheries, and seasons while minimizing bycatch of PSC based upon the criteria above. NMFS adjusts the Council's recommended start date for the third seasonal allowance of trawl halibut PSC from July 1 to June 30 to coincide with the trawl rockfish opening in the BSAI on June 30 and to facilitate inseason management of rockfish harvest over the July 4 holiday. NMFS approves the PSC apportionments specified in Tables 23 and 24, below. Regulations at § 679.21(d)(5)(iii) and (iv) specify that any overages or shortfalls in a seasonal apportionment of a PSC limit will be deducted from or added to the next respective seasonal apportionment within the 2002 season.

Table 23.—Final 2002 Pacific Halibut PSC Limits, Allowances, and Apportionments. The Pacific Halibut PSC Limit for Hook-and-Line Gear is Allocated to the Demersal Shelf Rockfish (DSR) Fishery and Fisheries Other Than DSR. The Hook-and-Line Sablefish Fishery is Exempt from Halibut PSC Limits. (Values are in mt)
Trawl gear: Dates | Trawl gear: Amount | Hook-and-line gear: Other than DSR: Dates | Hook-and-line gear: Other than DSR: Amount | Hook-and-line gear: DSR: Dates | Hook-and-line gear: DSR: Amount
Jan 1- Apr 1 | 550 (27.5%) | Jan 1-June 10 | 250 (86.2%) | Jan 1-Dec 31 | 10 (100%)
Apr 1-June 30 | 400 (20%) | June 10-Sept 1 | 5 (1.7%)
June 30-Sept 1 | 600 (30%) | Sept 1-Dec 31 | 35 (12.1%)
Sept 1-Oct 1 | 150 (7.5%)
Oct 1-Dec 31 | 300 (15%)
Total | 2,000 (100%) |  | 290 (100%) |  | 10 (100%)

Regulations at § 679.21(d)(3)(iii) authorize apportionments of the trawl halibut PSC limit to a deep-water species complex, comprised of sablefish, rockfish, deep-water flatfish, rex sole and arrowtooth flounder; and a shallow-water species complex, comprised of pollock, Pacific cod, shallow-water flatfish, flathead sole, Atka mackerel, and “other species”. The apportionment for these two trawl fishery complexes is presented in Table 24.

Table 24.—Final 2002 Apportionment of Pacific Halibut PSC Trawl Limits Between the Trawl Gear Deep-Water Species Complex and the Shallow-Water Species Complex (Values are in metric tons)
Season | Shallow-water | Deep-water | Total
Jan 20-Apr 1 | 450 | 100 | 550
Apr 1-June 30 | 100 | 300 | 400
June 30-Sept 1 | 200 | 400 | 600
Sept 1-Oct 1 | 150 | Any Remainder | 150
Subtotal: Jan 20-Oct 1 | 900 | 800 | 1,700
Oct 1-Dec 31 |  |  | 300
Total |  |  | 2,000
No apportionment between shallow-water and deep-water fishery complexes during the 4th quarter of the calendar year.

Halibut Discard Mortality Rates

The Council recommended that the revised halibut discard mortality rates (DMRs) recommended by the IPHC be adopted for purposes of monitoring halibut bycatch mortality limits established for the 2002 groundfish fisheries. NMFS concurs in the Council's recommendation. The IPHC recommended use of a long-term average as preseason assumed DMRs for the 2001-2003 groundfish fisheries. The IPHC recommendation also includes a provision that revised DMRs would be proposed should analysis indicate that a fishery's annual DMR diverges substantially (up or down) from the long-term average. Most of the IPHC's assumed DMRs were based on an average of mortality rates determined from NMFS observer data collected between 1990 and 1999. Rates were lacking for some fisheries, so rates from the most recent years were used. For the “other species” fishery, where insufficient mortality data are available, the mortality rate of halibut caught in the Pacific cod fishery for that gear type was recommended as a default rate. The assumed mortality rates recommended for 2002 are unchanged from those used in 2001 in the GOA. The recommended rates for hook-and-line targeted fisheries range from 8 to 24 percent. The recommended rates for trawl targeted fisheries range from 58 to 72 percent. The recommended rate for all pot targeted fisheries is 14 percent. The 2002 assumed DMRs are listed in Table 25.

Table 25.—2002 Assumed Pacific Halibut Mortality Rates for Vessels Fishing in the Gulf of Alaska (Listed values are percent of halibut bycatch assumed to be dead)
Gear and target | Mortality rate
Hook-and-Line:
Pacific cod | 14
Rockfish | 8
Other species | 14
Sablefish | 24
Trawl:
Midwater pollock | 72
Rockfish | 69
Shallow-water flatfish | 69
Pacific cod | 61
Deep-water flatfish | 60
Flathead sole | 58
Rex sole | 61
Bottom pollock | 61
Arrowtooth Flounder | 62
Atka mackerel | 70
Sablefish | 66
Other species | 61
POT:
Pacific cod Other species | 14

Non-Exempt American Fisheries Act (AFA) Catcher Vessel Groundfish Harvest and PSC Limitations

One of the provisions implemented under the AFA was to specify groundfish harvesting and processing limitations, also called sideboards, on AFA catcher/processors and catcher vessels in the GOA. These limitations are considered necessary for fishermen and processors who have received exclusive harvesting and processing privilege under the AFA to protect the interests of fishermen and processors who have not directly benefitted from the AFA. In the GOA, unrestricted AFA catcher/processors are prohibited from fishing for any species of fish and from processing any groundfish harvested in Statistical Area 630 of the GOA. The Council recommended that certain AFA catcher vessels in the GOA be exempt from groundfish harvest limitations. Exempted AFA catcher vessels in the GOA are those less than 125 ft (38.1 m) length overall whose annual BSAI pollock landings totaled less than 5,100 mt and that made 40 or more GOA groundfish landings from 1995 through 1997 (§ 679.63(b)(1)(i)(B)).

For non-exempt AFA catcher vessels in the GOA, harvest limitations are based upon their traditional harvest levels of TAC in groundfish fisheries covered by the GOA FMP. The amounts of the groundfish harvest limits in the GOA are based on the retained catch of non-exempt AFA catcher vessels of each sideboard species from 1995 through 1997 divided by the TAC for that species over the same period (§ 679.63(b)(1)(ii)(C)). For 2002, the ratio of 1995 to 1997 non-exempt AFA catcher vessel retained catch to the 1995 to 1997 TAC has been revised from 2001 by NMFS. These revisions are based upon ADF&G editing of fish tickets and NMFS editing of observer catch data and weekly production reports. These amounts are listed in Table 26. All harvests of sideboard species made by non-exempt AFA catcher vessels, whether as targeted catch or bycatch, will be deducted from the sideboard limits in Table 26.

Table 26.—Final 2002 GOA Non-Exempt AFA Catcher Vessel (CV) Groundfish Harvest Limitations (Sideboards) (Values are in mt)
Species | Apportionments and Allocations by Area/Season/processor/Gear | Ratio of 1995-1997 Non-Exempt AFA CV Catch to 1995-1997 TAC | 2002 TAC | 2002 Non-Exempt AFA Catcher Vessel Sideboard
Pollock | A Season (W/C areas only)
| January 20—February 25
| Shumagin (610) | 0.6112 | 2,916 | 1,782
| Chirikof (620) | 0.1427 | 8,618 | 1,230
| Kodiak (630) | 0.2438 | 1,122 | 274
| B Season (W/C areas only)
| March 10—May 31
| Shumagin (610) | 0.6112 | 2,916 | 1,782
| Chirikof (620) | 0.1427 | 8,618 | 1,230
| Kodiak (630) | 0.2438 | 1,122 | 274
| C Season (W/C areas only)
| August 25—September 15
| Shumagin (610) | 0.6112 | 5,949 | 3,636
| Chirikof (620) | 0.1427 | 2,905 | 414
| Kodiak (630) | 0.2438 | 3,803 | 927
| D Season (W/C areas only)
| October 1—November 1
| Shumagin (610) | 0.6112 | 5,949 | 3,636
| Chirikof (620) | 0.1427 | 2,904 | 414
| Kodiak (630) | 0.2438 | 3,803 | 927
| Annual
| WYK (640) | 0.3499 | 1,165 | 408
| SEO (650) | 0.3499 | 6,460 | 2,260
Pacific cod | A Season ¹
| January 1—June 10
| W inshore | 0.1423 | 9,098 | 1,295
| offshore | 0.1026 | 1,011 | 104
| C inshore | 0.0722 | 13,387 | 966
| offshore | 0.0721 | 1,487 | 107
| B Season ²
| September 1—December 31
| W inshore | 0.1423 | 6,066 | 863
| offshore | 0.1026 | 674 | 69
| C inshore | 0.0722 | 8,924 | 644
| offshore | 0.0721 | 992 | 72
| Annual
| January 1—December 31
| E inshore | 0.0079 | 2,332 | 18
| Offshore | 0.0078 | 259 | 2
Flatfish deep-water | W | 0.0000 | 180 | 0
| C | 0.0670 | 2,220 | 149
| E | 0.0171 | 2,480 | 42
Rex sole | W | 0.0010 | 1,280 | 1
| C | 0.0402 | 5,540 | 223
| E | 0.0153 | 2,650 | 41
Flathead sole | W | 0.0036 | 2,000 | 7
| C | 0.0261 | 5,000 | 130
| E | 0.0048 | 2,280 | 11
Flatfish shallow-water | W | 0.0156 | 4,500 | 70
| C | 0.0598 | 13,000 | 777
| E | 0.0126 | 2,920 | 37
Arrowtooth flounder | W | 0.0021 | 8,000 | 17
| C | 0.0309 | 25,000 | 772
| E | 0.0020 | 5,000 | 10
Sablefish | W trawl gear | 0.0000 | 448 | 0
| C trawl gear | 0.0720 | 1,086 | 78
| WYK trawl gear | 0.0488 | 258 | 13
Pacific Ocean perch | W | 0.0623 | 2,610 | 163
| C | 0.0866 | 8,220 | 712
| E | 0.0466 | 2,360 | 110
Shortraker/Rougheye | W | 0.0000 | 220 | 0
| C | 0.0237 | 840 | 20
| E | 0.0124 | 560 | 7
Other rockfish | W | 0.0034 | 90 | 0
| C | 0.2065 | 550 | 114
| E | 0.0000 | 350 | 0
Northern rockfish | W | 0.0003 | 810 | 0
| C | 0.0336 | 4,170 | 140
Pelagic shelf rockfish | W | 0.0001 | 510 | 0
| C | 0.0000 | 3,480 | 0
| E | 0.0067 | 1,500 | 10
Thornyhead rockfish | W | 0.0308 | 360 | 11
| C | 0.0308 | 840 | 26
| E | 0.0308 | 790 | 24
Demersal shelf rockfish | SEO | 0.0020 | 350 | 1
Atka mackerel | Gulfwide | 0.0309 | 600 | 19
Other species | Gulfwide | 0.0090 | 11,330 | 102
Notes:¹ The Pacific cod A season for trawl gear does not open until January 20.
² The Pacific cod B season for trawl gear closes November 1.

PSC bycatch limits for non-exempt AFA catcher vessels in the GOA are based upon the ratio of aggregate retained groundfish catch by non-exempt AFA catcher vessels in each PSC target category from 1995 through 1997 relative to the retained catch of all vessels in that fishery from 1995 through 1997 (§ 679.63(b)(1)(iii)). These amounts are shown in Table 27.

Table 27.—Final 2002 Non-Exempt AFA Catcher Vessel Prohibited Species Catch (PSC) Limits for the GOA (Values are in mt)
PSC species | Target fishery and season | Ratio of 1995-1997 non-exempt AFA CV retained catch to total retained catch | 2002 PSC limit | 2002 Non-exempt AFA catcher vessel PSC limit
Halibut (mortality in mt) | Trawl 1st Seasonal Allowance; January 20-April 1
| shallow water targets | 0.340 | 450 | 153
| deep water targets | 0.070 | 100 | 7
| Trawl 2nd Seasonal Allowance; April 1-June 30
| shallow water targets | 0.340 | 100 | 34
| deep water targets | 0.070 | 300 | 21
| Trawl 3rd Seasonal Allowance; June 30-Sept. 1
| shallow water targets | 0.340 | 200 | 68
| deep water targets | 0.070 | 400 | 28
| Trawl 4th Seasonal Allowance; Sept. 1-October 1
| shallow water targets | 0.340 | 150 | 51
| deep water targets | 0.070 | 0 | any remainder from 3rd season above
| Trawl 5th Seasonal Allowance; October 1-December 31
| all targets | 0.205 | 300 | 62

Closures

In accordance with § 679.20(d)(1)(i), if the Regional Administrator determines that the amount of a target species or “other species” category apportioned to a fishery or, with respect to pollock and Pacific cod, to an inshore or offshore component allocation, will be reached, the Regional Administrator may establish a directed fishing allowance for that species or species group. If the Regional Administrator establishes a directed fishing allowance, and that allowance is or will be reached before the end of the fishing year, NMFS will prohibit directed fishing for that species or species group in the specified GOA Regulatory Area or district (§ 679.20(d)(1)(iii)).

The Regional Administrator has determined that the following TAC amounts (Table 28) are necessary as incidental catch to support other anticipated groundfish fisheries for the 2002 fishing year.

Table 28.—Incidental Catch Needed To Support Other Directed Fisheries in the GOA in 2002 (Amounts Are in mt)
Target | Regulatory area | Gear/component | Amount
Atka Mackerel | Entire GOA | All | 600
Thornyhead Rockfish | Entire GOA | All | 1,990
Shortraker and Rougheye Rockfish | Entire GOA | All | 1,620
Other Rockfish | Entire GOA | All | 990
Sablefish | Entire GOA | Trawl | 1,792
Pollock | Entire GOA | All/offshore | 0

Consequently, in accordance with § 679.20(d)(1)(i), the Regional Administrator establishes the directed fishing allowances for the above species or species groups as zero and in accordance with § 679.20(d)(1)(iii), NMFS is prohibiting directed fishing for those species, areas, gear types, components, and seasons listed in Table 28.

Regulations at § 679.63(b)(1)(iv) provide for management of AFA catcher vessel groundfish harvest limits and PSC bycatch limits using directed fishing closures and PSC closures according to procedures set out at § 679.20(d)(1)(iv) and § 679.21(d)(8). The Regional Administrator has determined that in addition to the closures listed above, many of the non-exempt AFA catcher vessel sideboard amounts listed in Table 26 are necessary as incidental catch to support other anticipated groundfish fisheries for the 2001 fishing year. In accordance with § 679.20(d)(1)(iv), the Regional Administrator establishes these amounts as directed fishing allowances. The Regional Administrator finds that many of these directed fishing allowances will be reached before the end of the year. Therefore, in accordance with § 679.20(d)(1)(iii), NMFS is prohibiting directed fishing by non-exempt AFA catcher vessels in the GOA for the species and specified areas set out in Table 29.

Table 29.—Non-Exempt AFA Catcher Vessel Sideboard Directed Fishing Closures in the GOA
Species | Regulatory Area/District | Gear
Pelagic shelf rockfish | Entire GOA | All.
Deep-water flatfish | W and E GOA | All.
Rex sole | W and E GOA | All.
Flathead sole | W and E GOA | All.
Arrowtooth Flounder | W and E GOA | All.
Northern rockfish | W GOA | All.
Shallow-water Flatfish | E GOA | All.
Pacific cod | E GOA | All.
Demersal shelf rockfish | SEO District | All.

Response to Comments

NMFS received two letters of comment in response to the July 17, 2001, emergency interim rule (66 FR 37167) that extended and modified Steller sea lion protection measures and harvest specifications through 2001. The letters indicated concern about the perceived inadequacy of the measures in the emergency interim rule to protect Steller sea lions, inadequacy of the accompanying NEPA analysis, and strength of data used for making decisions. The comments are responded to in this action because NMFS has completed the analysis of the current status of Steller sea lions and the interactions with the groundfish fisheries, making responses based on the best scientific information available. The changes made to Steller sea lion protection measures by the July 17, 2001, emergency interim rule were short-term changes that were likely to be modified for 2002 and the comments received were considered in the development of 2002 protection measures. Copies of the Environmental Assessment (EA) for the extension of the 2001 Steller sea lion protection measures and harvest specifications are available from NMFS (see ADDRESSES).

Comment 1. One of the main reasons for reducing 2001 protection measures is to allow access to certain areas important to commercial fisheries. According to the economic analysis for the 2001 protection measures, the selection of Alternative 3 from the Economic Assessment for the extension of the 2001 emergency rule ensures minimal economic impact. Minimizing economic hardship is not a legitimate reason for choosing protection measures.

Response. Economic considerations can be used as a basis for selecting Steller sea lion protection measures only from alternatives that avoid jeopardizing the continued existence of an endangered or threatened species and that avoid destroying or adversely modifying designated critical habitat. Because Alternative 2 and 3 met or exceeded the level of protection necessary to avoid the likelihood of jeopardy and adverse modification of critical habitat, NMFS was able to choose between Alternatives 2 and 3 and selected the option less likely to cause adverse economic impact. NMFS determined that Alternative 2 would have excessive adverse economic impact; therefore, Alternative 3 was chosen.

Comment 2. Recent telemetry data analysis has led NMFS to reduce the size of Steller sea lion protection areas. Using the telemetry data in this way ignores the facts that (1) Steller sea lions forage beyond 10 nm of land, (2) the telemetry data are biased because the data are limited to Steller sea lions likely to occur closer to shore (lactating females and pups), and (3) NMFS is required to prevent adverse modification in all designated critical habitat.

Response. The best available information on the foraging patterns of Steller sea lions was summarized in a series of white papers by NMFS and the Alaska Department of Fish and Game. This information, along with historical data, was incorporated into an October 2001 Section 7 consultation under the ESA for the two populations of Steller sea lions. This new information was primarily gathered through satellite telemetry on sea lions, observing their at sea distribution, dive characteristics, and haulout patterns. The data indicate a strong preference among juveniles and lactating females to remain close to shore, generally within 10 nm. Some trips by tagged sea lions went beyond 10 nm; however, these were infrequent and often much longer trips going well beyond the boundaries of critical habitat. About 90 percent of the at-sea observations of these tagged animals were within 10 nm from shore.

NMFS recognizes certain limitations in the data that could create undetected biases; these were described in detail in the biological opinion. However, at this time, NMFS has no data to support these possible biases and has no reason to believe that the data mis-represent the at sea distribution of these animals. Little detailed information exists on the foraging patterns of adult males, mostly due to the difficulty in capturing and tagging these large animals. Anecdotal observations, including the Platform of Opportunity (POP) database, indicated that adult males forage over very large areas, often many miles from shore. Additionally, the available data suggest that the lack of juvenile survival may be the greatest cause of the decline, further supporting the use of the telemetry information as a reasonable description of the foraging areas important to Steller sea lions.

In 2002, numerous areas will receive greater protection than in the past; many sites will be protected out to 20 nm as well as parts of the sea lion aquatic foraging areas. NMFS used a zonal approach for closure areas, prohibiting nearly all fishing for the three species within 3 nm from rookeries and haulouts; limited fishing from 3-10 nm by gear types less likely to cause localized depletions of prey; and finally prohibiting fishing with trawl gear from 10-20 nm from most sites. Over the next 1-2 years, the Steller Sea Lion Recovery Team will evaluate the most up to date scientific and commercial data and make recommendations to NMFS on the appropriate boundaries for Steller sea lion critical habitat. NMFS has determined that the limited fishing that is expected to occur in critical habitat would not adversely modify or destroy that critical habitat.

Comment 3. Observed increases in some population segments of Steller sea lions is no reason for reducing protection measures in those localized areas.

Response. In developing protection measures for 2002, the entire western population of Steller sea lions was taken into account. In most cases, where an area was experiencing greater decline, greater protection was provided. Conversely, in some regions with consistent population increases such as Amak Island, the trawl closure zones were actually reduced. Although NMFS did consider some local population trend analyses, the policy was to minimize the impacts on the entire population in order to get a resulting population trajectory that was better than the expected trajectory from the RPA from the November 2000 Biological Opinion. NMFS does not believe that it has adequate information on the sub-populations of sea lions or their prey resources in the western stock to implement management measures that rely on the underlying site-by-site trend of the prey biomass estimates on similarly small scales.

Comment 4. The EA improperly tiers off the 1998 SEIS and the 2001 Draft Programmatic SEIS. A full environmental impact statement should have been developed.

Response. The EA incorporated relevant and accurate discussion and analysis in the 1998 SEIS. The EA did not tier off of the draft programmatic SEIS but it did reference a significant amount of analysis that may be found in that document. This was the latest scientific information available regarding the harvest specifications and it was appropriate to reference this material.

A full environmental impact statement was not developed for the emergency interim rule extension because the short term nature of the action with the protection measures proposed made a significant impact on the environment unlikely, making an environmental impact statement unnecessary. An environmental impact statement for the 2002 Steller sea lion protection measures was in the process of being developed and has been completed for this action.

Comment 5. Many of the comments submitted for the draft Programmatic SEIS also apply to the EA. These comments should also be included with the emergency interim rule extension record.

Response. Comments received on the draft Programmatic SEIS are in the process of being reviewed by NMFS and will be addressed in the final Programmatic SEIS. The comments are included in the administrative record for the July 17, 2001, emergency interim rule extension.

Comment 6. The management decisions determining the 2001 protection measures were based on scat data indicating that a diversity of prey is consumed throughout the year. These data consistently indicated that pollock, Atka mackerel, and Pacific cod were the three most common prey items and that stricter proactive action was needed.

Response. In an analysis by Sinclair and Zeppelin (submitted for publication), scat samples were collected and analyzed from 1991-1998. That paper concluded that pollock, Pacific cod, Atka mackerel, and salmon were the most commonly found four prey items for Steller sea lions based upon the animals sampled. NMFS is implementing Steller sea lion conservation measures for the fisheries for the three species managed by NMFS under the groundfish FMPs.

Comment 7. The telemetry data was based on 100 animals, primarily mothers and nursing pups, and the sightings were from the summer. One cannot assume similar behavior during other times of the year. The data also miss the sub-adults which are experiencing the greatest rate of decline.

Response. The available information on the at-sea distribution of Steller sea lions is quite large, but admittedly incomplete. Numerous research projects are under way to attempt to obtain more information on the distribution of the animals NMFS considers to be most at-risk. Currently, the best available information indicates that juvenile and lactating females generally stay within 10 nm of shore during the summer, and perhaps make longer trips in the winter period as described in the biological opinion and associated white papers. NMFS is implementing management measures which avoid adverse impacts to these sensitive areas and time periods for Steller sea lions.

One letter of comments was received by NMFS on the draft EA prepared for the 2002 TAC specifications. A summary of the comments and NMFS’ response follows:

Comment 1. The TAC setting process framework used by the Council and NMFS is inconsistent with the Magnuson-Stevens Act and the national standard guidelines because the North Pacific groundfish fisheries do not have overfishing status assessments consisting of both a maximum fishing mortality threshold and a minimum stock size threshold (MSST). Thus, NMFS and the Council lack criteria for determining whether stocks are overfished and thus subject to rebuilding plans.

The overfishing definitions employed by NMFS and the Council under Amendments 56/56 to the groundfish FMPs allow a stock abundance to drop to B2%% before harvest no longer is permitted. This policy allows for a species to be fished to the edge of extinction, with being declared overfished and for fishing efforts to be abandoned only at the edge of extinction. Thus, the 2002 TAC specifications are not in compliance with the Magnuson-Stevens Act. The failure of the Council and NMFS to adopt explicit MSSTs, to declare species as overfished, and to then institute multi-faceted “rebuilding” endangers the health of individual stocks already at low abundance levels. This, in turn, has significant impacts on the BSAI and GOA ecosystems and renders the analysis in the EA insufficient for NMFS to determine that the impacts on target species and the ecosystems as a whole are “insignificant.”

Response. NMFS disagrees that the 2002 TAC specifications violate national standard 1 or the Magnuson-Stevens Act. The harvest control rules set forth in Amendments 56/56 (64 FR 10952, March 8, 1999) define OFL and constrain ABC for stocks managed under the fishery management plans for BSAI and GOA groundfish. In approving Amendments 56/56 (64 FR 10953, March 8, 1999), the Secretary of Commerce considered public comments submitted on the proposed amendments, including concerns that the amendments do not specify an MSST, and determined that the reasonable proxy for MSST is contained in the overfishing definitions and associated control rules are in compliance with national standard 1 and all other provisions of the Magnuson-Stevens Act.

Nonetheless, every stock managed under tiers 1-3 (defined under Amendments 56/56) of the BSAI and GOA groundfish FMPs was evaluated with respect to its MSST in the most recent SAFE reports. The TAC specifications use harvest control rules that are related to the MSY-based management required by the Magnuson Act. The control rules used to define OFL and the maximum permissible ABC restrict fishing at all stock sizes, not just at stock sizes below 5 percent of the MSY level. Not only is fishing restricted at all stock sizes, it is restricted in a conservative manner.

NMFS notes that the Steller sea lion protection measures recommended by the Council in October 2001, approved by NMFS, and described above under Part I of this preamble to the emergency interim rule, include a conservative modification of the existing harvest control rule for pollock, Pacific cod, and Atka mackerel.

Comment 1 appears to presume that harvest control rules can, by themselves, force stock biomass to increase. In fact, harvest control rules are rules used to control harvest, not biomass. All harvest control rules “allow” a depleted stock to remain at a low abundance level indefinitely, because no harvest control rule can control the size of incoming year classes. However, the control rules adopted in Amendments 56/56 are explicitly designed to be precautionary, especially in the context of managing stocks whose biomass have fallen below reference levels.

In 1998, NMFS did prepare a Supplemental Environmental Impact Statement (SEIS) on the TAC setting process. NMFS also recognizes that in a July 8, 1999 order, amended on July 13, 1999, the Court in Greenpeace v. NMFS, Civ No. 98-0492 (W.D. Wash.) held that the 1998 SEIS was too limited in scope by not adequately addressing aspects of the GOA and BSAI groundfish fishery management plans other than TAC setting and, therefore, was insufficient in scope under the National Environmental Policy Act. In response to the Court's order, NMFS prepared a new 2001 draft programmatic SEIS for the GOA and BSAI groundfish fishery management plans. In response to public comments and internal agency review, NMFS has determined that the draft 2001 programmatic SEIS should be revised to include additional analyses concerning environmental, economic, and cumulative impacts; to restructure alternatives; and to more clearly define the proposed action. The revised draft programmatic SEIS is scheduled to be distributed for public review and comment late Fall 2002.

Notwithstanding the less expansive scope of the 1998 SEIS, NMFS believes that the discussion and analysis of impacts and alternatives in the 1998 SEIS, which focused on the issue of TAC setting, is directly applicable to the EA prepared in support of this action-the setting of TACs for the 2002 fishery. Consequently, the EA adopts the discussion and analysis in the 1998 SEIS, as well as pertinent sections of the 2001 draft programmatic SEIS.

Finally, NMFS believes that the extensive discussion and analysis of the environmental impacts associated with various levels of TACs in the 1998 SEIS's and in the draft 2001 programmatic SEIS, coupled with the 2002 TAC EA's additional discussion, provide ample support for its determination that the 2002 specifications will not have significant environmental impacts.

Comment 2. Given the concerns expressed in Comment 1, above, many groundfish stocks are below Bmsy and the 2002 TACs even would allow fishing on a number of stocks below B2%% without triggering a rebuilding plan, including GOA Greenland turbot, Bering Sea northern rockfish, GOA vermillion rockfish, and GOA Atka mackerel. The EA is deficient because the preferred alternative does not acknowledge that some species presently are at or approaching an “overfished” condition. The EA's failure to recognize overfished species means that the impacts to the ecosystem as a whole are not adequately analyzed. The NEPA analysis should look at the direct, indirect, cumulative, and synergistic effects of allowing TACs on species with very low biomasses.

Response. Currently, the best scientific information available indicates that no stock managed under the BSAI or GOA groundfish FMPs is being subjected to an inappropriate harvest rate and that no stock managed under tiers 1-3 of the BSAI or GOA groundfish FMPs are overfished. NMFS acknowledges that it is currently not possible to determine the status of stocks in tiers 4-6 with respect to their MSSTs because stocks qualify for management under these tiers only if the best scientific information available is insufficient to estimate the relevant biological reference points.

Currently, the best scientific information available indicates that no stock managed under the BSAI or GOA groundfish fishery management plans is being subjected to an inappropriate harvest rate, and that no stock managed under the groundfish FMPs is overfished. NMFS believes, therefore, that the 2002 TAC specifications reflect the correct use of MSSTs.

The EA addresses uncertainty and ecosystem considerations associated with each stock assessment and acknowledges that all of the groundfish species are predators or prey at some stage of life. A review of ecosystem status and trends also was provided in the ecosystems chapter of the SAFE reports.

Comment 3. The concept of combining rockfish assemblages masks the fact that individual species currently are at an overfished level and the EA does not adequately analyze the present status of these long lived species. Specifically, the EA fails to analyze their biomass in relation to an overfished determination criterion that complies with the Magnuson-Stevens Act.

Response. NMFS disagrees that rockfish species are at an overfished level. However, NMFS does agree that potential concerns about disproportionate harvest relative to abundance of species within groups or assemblages could be at least partially addressed if existing complexes or assemblages were broken out to separate species and managed accordingly. Species within the rockfish assemblages tend to reflect tiers 4 or 5 stocks and it is not possible to determine whether any species is overfished or whether it is approaching an overfished condition.

Difficulties exist in working towards species specific management for existing assemblages, particularly for some of the rockfish assemblages. Most paramount of these difficulties is the collection of adequate species specific catch data upon which to monitor and manage species specific TACs. NMFS is working with its North Pacific Observer Program and stock assessment scientists to address this issue for 2003 and arrive at a subsampling protocol for rockfish species to meet this need. At that time, enhanced species specific management may be possible, notwithstanding other management issues that arise from very small TAC amounts.

Classification

The Administrator, Alaska Region, NMFS (Regional Administrator), has determined that this rule is necessary for the conservation and management of the groundfish fisheries of the BSAI and GOA. The Regional Administrator also has determined that this emergency interim rule is consistent with the Magnuson-Stevens Act and other applicable laws. No relevant Federal rules exist that may duplicate, overlap, or conflict with this action.

The Steller sea lion protection measures have been determined to be significant for purposes of Executive Order 12866 and a regulatory impact review was prepared. The regulatory impact review is available from NMFS as part of the final SEIS. (see ADDRESSES).

Consistent with the National Environmental Policy Act, NMFS prepared an environmental assessment for the TAC specifications portion of this action. NMFS also prepared an SEIS for the Steller sea lion protection measures; a notice of availability of the draft SEIS was published in the Federal Register on August 31, 2001 (66 FR 45984). Comments were received and responded to in the final SEIS and the final document was issued November 23, 2001 (66 FR 58734). The final SEIS and EA are available from NMFS (see ADDRESSES). Based on a comparison of the effects of the other alternatives in the SEIS, NMFS determined that this action meets the ESA requirements for Steller sea lion protection and environmental protection without providing extreme economic hardship that was anticipated from the most environmentally desirable alternative. Potential adverse impacts on marine mammals resulting from fishing activities conducted under this emergency interim rule are discussed in the EA and final SEIS for this action.

This rule contains and refers to collection-of-information requirements subject to the Paperwork Reduction Act. The requirement for a vessel fishing permit has been approved under OMB control number 0648-0444 (expiration date May 31, 2002). The estimated response time for an application to amend a permit and register for the Atka mackerel, pollock, or Pacific cod directed fisheries is 31 minutes. The CDQ reporting requirement has been approved by the OMB and issued OMB control number 0648-0269, expiration date October 31, 2004. Public reporting burden of CDQ collection of information is estimated to be an average of 15 minutes per response for a CDQ catch report. This time includes the time for reviewing instructions, gathering and maintaining the data needed, and completing and reviewing the collection of information.

The requirement to install and use a VMS has been approved under OMB control number 0648-0445 (expiration date June 30, 2002). The response times for VMS-related requirements are 6 hours to install a unit, 12 minutes to fax a check-in report that the VMS is operational, 5 seconds per automated position report, and 4 hours per year for VMS maintenance.

The response-time estimates above include the time for reviewing instructions, searching existing data sources, gathering and maintaining the data needed, and completing and reviewing the collection of information. Send comments regarding these burden estimates, or any other aspect of these data collections, including suggestions for reducing the burden, to NMFS (see ADDRESSES) and to the Office of Information and Regulatory Affairs, Office of Management and Budget, Washington, DC 20503 (Attn: NOAA Desk Officer).

Notwithstanding any other provisions of the law, no person is required to respond to, and no person shall be subject to a penalty for failure to comply with a collection of information subject to the requirements of the PRA, unless that collection of information displays a currently valid OMB control number.

A formal section 7 consultation under the ESA was initiated for this emergency interim rule under the FMPs for the groundfish fisheries of the BSAI and the GOA. In biological opinions dated October 17, 2001, December 22, 1999, and December 23, 1999, the Director of the Office of Protected Resources determined that fishing activities conducted under the emergency interim rule are not likely to jeopardize the continued existence of any endangered or threatened species or result in the destruction or adverse modification of critical habitat. In a memorandum dated December 11, 2001, from the Office of Protected Resources to the Office of Sustainable Fisheries, the 1999 BiOps were extended for one year from January 1, 2002, for purposes of this action. This emergency interim rule is consistent with the objectives for Steller sea lion protection measures implemented in 2001 under section 209(c)(6) of Public Law 106-554, the ESA, and other applicable laws.

NMFS is establishing the 2002 TAC specifications for the BSAI and GOA by this emergency interim rule. The normal procedure of publishing proposed, interim, and final TAC specifications was not followed in 2002 because the information needed to establish the harvest specifications did not become available until mid-November and the Council recommendations were not received by NMFS until December 11, 2001. Analysis of the action and the preparation of the Federal Register notification could not be completed until the Council recommendations were received for the final specifications as well as the Steller sea lion protection measures, of which the specifications are an integral part and must be in place by January 1, 2002, to allow the orderly commencement of the 2002 groundfish fisheries. Accordingly, it is impracticable to provide prior notice and an opportunity for public comment, or to delay for 30 days the effective date of this rule. Further, it would be contrary to the public interest to delay the start of the season to allow for prior notice, an opportunity for public comment, and for a 30-day delay in the effective date. Therefore, good cause exists to waive those requirements pursuant to 5 U.S.C. 553(b)(3). For the same reason, good cause exists to waive the 30-day delay in effective date. Accordingly, under 5 U.S.C. 553(d)(3), a delay in the effective date is hereby waived. Because prior notice and opportunity for public comment are not required for this emergency interim rule by 5 U.S.C. 553 or any other law, the analytical requirements of the Regulatory Flexibility Act, 5 U.S.C. 601 et seq. are not applicable. Therefore, no regulatory flexibility analysis has been prepared.

List of Subjects in 50 CFR Part 679

Alaska, Fisheries, Recordkeeping and reporting requirements.

Dated: December 27, 2001.
Rebecca Lent,
Deputy Assistant Administrator for Fisheries, National Marine Fisheries Service.

For reasons set out in the preamble, 50 CFR part 679 is amended as follows:

PART 679—FISHERIES OF THE EXCLUSIVE ECONOMIC ZONE OFF ALASKA

1. The authority citation for part 679 continues to read as follows:

Authority: 16 U.S.C. 773 et seq.; 1801 et seq.; 3631 et seq.; Title II of Division C, Pub. L. 105-277; Sec. 3027, Pub. L. 106-31; 113 Stat. 57; 16 U.S.C. 1540(f); and Sec. 209, Pub. L. 106-554.

2. In § 679.2, the definitions for “Steller Sea Lion Protection Areas” and paragraph (5) under “Directed Fishing” are suspended until July 8, 2002, and definitions for “Harvest limit area for platoon managed Atka mackerel directed fishing”, “Inshore component in the GOA”, and “Offshore component in the GOA” are added in alphabetical order to read as follows:

§ 679.2 Definitions.

* * * * *

Harvest limit area for platoon managed Atka mackerel directed fishing (applicable through July 8, 2002) for the purposes of §§ 679.4(b)(5)(iv), 679.20(a)(8)(ii) and (iii) and 679.22(a)(12)(iv)(A), means the waters of statistical areas 542 and 543 west of 178° W long. within 20 nm seaward of sites listed in Table 24 of this part and located west of 177.58° W long.

* * * * *

Inshore component in the GOA (applicable through July 8, 2002) means the following three categories of the U.S. groundfish fishery that process groundfish harvested in the BSAI or GOA:

(1) Shoreside processing operations;

(2) Vessels less than 125 ft (38.1 m) LOA that process no more than 126 mt per week in round-weight equivalents of an aggregate amount of pollock and Pacific cod; and

(3) Vessels that process pollock or Pacific cod, harvested in a directed fishery for those species, at a single geographic location in Alaska State waters during a fishing year.

* * * * *

Offshore component in the GOA (applicable through July 8, 2002) means all vessels not included in the definition of “inshore component in the GOA” that process groundfish in the BSAI or GOA.

* * * * *

3. In § 679.4, paragraphs (b)(5)(iv)(E) and (F) are added to read as follows:

§ 679.4 Permits.

* * * * *

(b) * * *

(5) * * *

(iv) * * *

(E) (Applicable through July 8, 2002) If the vessel will be using pot, hook-and-line, or trawl gear in the directed fisheries for pollock, Atka mackerel or Pacific cod in the GOA or in the BSAI.

(F) (Applicable through July 8, 2002) If the vessel owner will be fishing in the harvest limit area in Statistical Areas 542 or 543 in the directed fishery for Atka mackerel.

* * * * *

4. In § 679.5, paragraph (n)(2)(iii)(A)(4) is added to read as follows:

§ 679.5 Recordkeeping and reporting.

* * * * *

(n) * * *

(2) * * *

(iii) * * *

(A) * * *

(4) (Applicable through July 8, 2002) Indicate the intended target species.

* * * * *

5. In § 679.7, paragraphs (a)(11), (b), (d)(16), and (d)(23) are suspended until July 8, 2002, paragraph (c)(3) is suspended 1200 hours, A.l.t., June 10, 2002, until July 8, 2002, and paragraphs (a)(7)(iii) through (vii), (a)(17), (a)(18), (a)(19), (d)(26), (j), and (k) are added to read as follows:

§ 679.7 Prohibitions.

* * * * *

(a) * * *

(7) * * *

(iii) (Applicable through July 8, 2002) Operate any vessel in the BSAI under both the “inshore component in the GOA” and the “offshore component in the BSAI” or under both the “offshore component in the GOA” and the “inshore component in the BSAI” definitions in § 679.2 during the same fishing year.

(iv) (Applicable through July 8, 2002) Operate any vessel in the GOA in more than one of the three categories included in the definitions of “inshore component in the GOA,” in § 679.2, during any fishing year.

(v) (Applicable through July 8, 2002) Operate any vessel in the GOA under both the “inshore component in the GOA” and the “offshore component in the GOA” definitions in § 679.2 during the same fishing year.

(vi) (Applicable through July 8, 2002) Operate any vessel in the GOA under both the “inshore component in the GOA” and the “offshore component in the BSAI” or under both the “offshore component in the GOA” and the “inshore component in the BSAI” definitions in § 679.2 during the same fishing year.

(vii) (Applicable through July 8, 2002) Operate any vessel that processes pollock or Pacific cod, harvested in a directed fishery for those species, at a single location in Alaska State waters under the “inshore component in the BSAI” and the “inshore component in the GOA” definitions in § 679.2 during the same fishing year.

* * * * *

(17) Tender vessel (applicable through July 8, 2002).

(i) Use a catcher vessel or catcher/processor as a tender vessel before offloading all groundfish or groundfish product harvested or processed by that vessel.

(ii) Use a catcher vessel or catcher/processor to harvest groundfish while operating as a tender vessel.

(18) Pollock, Pacific Cod, and Atka Mackerel Directed Fishing and VMS (applicable 1200 hours, A.l.t., June 10, 2002, through July 8, 2002). When a vessel using pot, hook-and-line, or trawl gear in the BSAI or GOA is authorized under § 679.4(b)(5)(iv)(E) to participate in the Atka mackerel, Pacific cod, or pollock directed fisheries; conduct directed fishing for groundfish or for Pacific halibut IFQ under § 679.4(d), unless the vessel carries an operable NMFS-approved Vessel Monitoring System (VMS) transmitter and complies with the requirements in § 679.28(f) at all times any of these directed fisheries which the vessel is authorized for is open.

(19) Atka Mackerel Harvest Limit Area Groundfish Prohibition (applicable through July 8, 2002). For vessels registered for the Atka mackerel harvest limit area directed fishery under § 679.20(a)(8)(iii), conduct directed fishing for groundfish, other than Atka mackerel in an assigned harvest limit area directed fishery under § 679.20(a)(8)(iii), during the time period that the first Atka mackerel directed fishery assigned to the vessel under § 679.20(a)(8)(iii)(B) is open.

* * * * *

(d) * * *

(26) (Applicable through July 8, 2002) Use any groundfish CDQ species as a basis species for calculating retainable amounts of non-CDQ species under § 679.20.

* * * * *

(j) Prohibitions specific to the GOA (applicable through July 8, 2002)—(1) Southeast Outside trawl closure. Use any gear other than non-trawl gear in the GOA east of 140° W long.

(2) Catcher vessel trip limit for pollock. Retain on board a catcher vessel at any time during a trip, more than 300,000 lb (136 mt) of unprocessed pollock.

(3) Tender vessel restrictions for pollock. (i) Operate as a tender vessel east of 157°00′ W long. for pollock harvested in the GOA.

(ii) Operate as a tender vessel west of 157°00′ W long. while retaining on board at any time more than 600,000 lb (272 mt) of unprocessed pollock.

(k) Prohibitions specific to AFA (applicable January 15, 2002, through July 8, 2002) It is unlawful for any person to do any of the following:

(1) Catcher vessels. Use an AFA catcher vessel to retain any BSAI crab species unless the catcher vessel's AFA permit contains a crab sideboard endorsement for that crab species.

(2) Crab processing limits. It is unlawful for an AFA entity that processes pollock harvested in the BSAI directed pollock fishery by an AFA inshore or AFA mothership catcher vessel cooperative to use an AFA crab facility to process crab in excess of the crab processing sideboard cap established for that AFA inshore or mothership entity. The owners and operators for the individual entities comprising the AFA inshore or mothership entity will be held jointly and severally liable for any overages of the AFA inshore or mothership entity's crab processing sideboard cap.

6. In § 679.20, paragraphs (a)(5)(i)(A), (a)(5)(ii)(B), (a)(7)(i)(C)(2), (a)(7)(i)(C)(3), (a)(7)(ii)(A), (a)(7)(iii)(A), (a)(7)(iii)(B), (f)(2), and (f)(3) are suspended until July 8, 2002, and paragraphs (a)(5)(i)(B), (a)(5)(i)(F), (a)(5)(ii)(C), (a)(6)(ii), (a)(6)(iii), (a)(7)(i)(C)(4), (a)(7)(i)(C)(5), (a)(7)(ii)(D) and (E), (a)(7)(iii)(D), (a)(8)(ii)(C), (a)(8)(iii), (a)(11), (b)(2)(i), (b)(2)(ii), (d)(4), and (f)(4) are added to read as follows:

§ 679.20 General limitations.

* * * * *

(a) * * *

(5) * * *

(i) * * *

(B) BSAI seasonal allowances (applicable through July 8, 2002)—(1) Inshore, catcher/processor, mothership, and CDQ components. The portions of the BS subareas pollock directed fishing allowances allocated to each component under sections 206(a) and 206(b) of the American Fisheries Act will be divided into two seasonal allowances corresponding to the two fishing seasons set out at § 679.23(e)(5), as follows: A Season, 40 percent; B Season, 60 percent.

(2) Inseason adjustments. Within any fishing year, the Regional Administrator will add or subtract any under harvest or over harvest of a seasonal allowance for a component to the subsequent seasonal allowance for the component through notification published in the Federal Register.

* * * * *

(F) Steller sea lion conservation area harvest limit (applicable through July 8, 2002).

(1) For each component under Sections 206(a) and 206(b) of the American Fisheries Act and for the open access fishery, no more than 28 percent of the annual pollock directed fishery allowance may be taken from the Steller sea lion conservation area (SCA) before April 1. The SCA is defined at § 679.22(a)(11)(vii).

(2) After April 1, the unharvested amount available in the SCA before April 1 is available for directed fishing either within or outside the SCA during the remainder of the A season.

(ii) * * *

(C) GOA seasonal apportionments (applicable through July 8, 2002). Each apportionment established under paragraph (a)(5)(ii)(A) of this section will be divided into four seasonal apportionments corresponding to the four fishing seasons set out at § 679.23(d)(3) of this part as follows: A Season, 25 percent; B Season, 25 percent; C Season, 25 percent; D Season, 25 percent. Within any fishing year, under harvest or over harvest of a seasonal apportionment may be added to or subtracted from remaining seasonal apportionments in a manner to be determined by the Regional Administrator, provided that any revised seasonal apportionment does not exceed 30 percent of the annual TAC apportionment for the combined GOA Western and Central Regulatory Areas.

(6) * * *

(ii) GOA pollock (applicable through July 8, 2002). The apportionment of pollock in all GOA regulatory areas and for each seasonal apportionment described in paragraph (a)(5)(ii) of this section will be allocated entirely to vessels catching pollock for processing by the inshore component in the GOA after subtraction of an amount that is projected by the Regional Administrator to be caught by, or delivered to, the offshore component in the GOA incidental to directed fishing for other groundfish species.

(iii) GOA Pacific cod (applicable through July 8, 2002). The apportionment of Pacific cod in all GOA regulatory areas will be allocated 90 percent to vessels catching Pacific cod for processing by the inshore component in the GOA and 10 percent to vessels catching Pacific cod for processing by the offshore component in the GOA.

(7) * * *

(i) * * *

(C) * * *

(4) (Applicable through July 8, 2002) Harvest of Pacific cod made by catcher vessels less than 60 ft (18.3 m) LOA using pot gear:

(i) Will accrue against the 18.3 percent specified in paragraph (a)(7)(i)(C)(1)(iii) of this section when the Pacific cod fishery for vessels equal to or greater than 60 ft (18.3 m) LOA using pot gear is open.

(ii) Will accrue against the 1.4 percent specified in paragraph (a)(7)(i)(C)(1)(iv) of this section when the Pacific cod fishery for vessels equal to or greater than 60 ft (18.3 m) LOA using pot gear is closed.

(5) (Applicable through July 8, 2002) Harvest of Pacific cod made by catcher vessels less than 60 ft (18.3 m) LOA using hook-and-line gear:

(i) Will accrue against the 0.3 percent specified in paragraph (a)(7)(i)(C)(1)(ii) of this section when the Pacific cod fishery for vessels equal to or greater than 60 ft (18.3 m) LOA using hook-and-line gear is open.

(ii) Will accrue against the 1.4 percent specified in paragraph (a)(7)(i)(C)(1)(iv) of this section when the Pacific cod fishery for vessels equal to or greater than 60 ft (18.3 m) LOA using hook-and-line gear is closed.

* * * * *

(ii) * * *

(D) Reallocation within the trawl sector (applicable through July 8, 2002). If, during a fishing season, the Regional Administrator determines that either catcher vessels using trawl gear or catcher/processors using trawl gear will not be able to harvest the entire amount of Pacific cod in the BSAI allocated to those vessels under paragraph (a)(7)(i) or (a)(7)(ii)(C) of this section, he/she may reallocate the projected unused amount of Pacific cod to vessels using trawl gear in the other trawl component through notification in the Federal Register before any reallocation to vessels using other gear type(s).

(E) Unused seasonal allowance for trawl (applicable through July 8, 2002). Any unused portion of a seasonal allowance of Pacific cod for vessels using trawl gear under paragraph (a)(7)(i)(C) of this section may be reapportioned by the Regional Administrator, through notification published in the Federal Register, to the subsequent seasonal allocations for vessels using trawl gear.

(iii) * * *

(D) Seasonal apportionment and gear allocations (applicable through July 8, 2002). The Pacific cod BSAI gear allocations and apportionments by seasons, as specified in § 679.23 (e)(6), are as follows:

Gear type | A season (percent) | B season (percent) | C season (percent)
Trawl | 60 | 20 | 20
Trawl CV | 70 | 10 | 20
Trawl CP | 50 | 30 | 20
Hook-and-line ≥60 ft (18.3 m) LOA, non-CDQ pot vessels ≥60 ft (18.3 m) LOA, and jig vessels | 60 | 40
All other nontrawl vessels | No seasonal apportionment.
CV = catcher vessels.
CP = catcher/processor vessels.

(8) * * *

(ii) * * *

(C) Atka mackerel harvest limit area (applicable through July 8, 2002). Harvest of Atka mackerel is limited in the harvest limit area, as defined in § 679.2, as follows:

(1) For the Atka mackerel harvest limit area as defined in § 679.2, the Regional Administrator will establish a harvest limit of no more than 60 percent of the seasonal TAC as specified in paragraph (a)(8)(ii)(A) of this section.

(2) CDQ fishing. A CDQ group is prohibited from exceeding the CDQ portion of the percentage of annual Atka mackerel in the Western and/or Central districts of the AI specified in paragraph (a)(8)(ii)(C)(1) of this section for the harvest limit area as defined in § 679.2.

(iii) Platoon management of Atka mackerel harvest limit area directed fishing (applicable through July 8, 2002)—(A) Registration. All vessels using trawl gear for directed fishing for Atka mackerel in the harvest limit area, as defined in § 679.2, are required to register with NMFS by January 15, 2002. To register, the vessel owner or operator must provide information required by § 679.4(b)(5)(iv) for an endorsement to the vessel's Federal fishery permit issued under § 679.4.

(B) Platoon assignment. For each season, NMFS will manage the harvest limit area fishery for the vessels registered to fish in areas 542 or 543 under paragraph (a)(8)(iii)(A) of this section as follows:

(1) Lottery. The Regional Administrator or his/her designee randomly will assign each vessel to a platoon for one of two directed fisheries for each statistical area in which the vessel is registered under paragraph (a)(8)(iii)(A) of this section. Each platoon within a statistical area will be assigned an equal number of vessels unless there is an odd number of vessels registered under paragraph (a)(8)(iii)(A) of this section. In the case of an odd number of vessels, the Regional Administrator will assign one additional vessel to one platoon. Vessels registering under paragraph (a)(8)(iii)(A) of this section to fish in both area 542 and area 543 will be randomly assigned to a harvest limit area directed fishery in area 542 and will be placed in the area 543 harvest limit area directed fishery occurring at an alternate time during the season.

(2) Notification. The Regional Administrator will provide the results of the lottery under (a)(8)(iii)(B)(1) of this section by notification published in the Federal Register and other means of practicable notification.

(C) Harvest limit area directed fisheries. 48 hours after a seasonal closure of the area 541 Atka mackerel directed fishery, the Regional Administrator will open the directed fisheries within the harvest limit area in areas 542 and 543, as defined at § 679.2. The Regional Administrator will provide notification by publication in the Federal Register of the opening and closure date of the directed fisheries, as determined by paragraph (a)(8)(iii)(E) of this section. Closures specified in Table 24 of this part and in § 679.22(a)(12) will remain in effect.

(D) Harvest limit area harvest limit. The Regional Administrator will establish the harvest limit for each harvest limit area directed fishery for areas 542 and 543 based on the seasonal apportionment at paragraph (a)(8)(ii)(C) of this section and in proportion to the number of vessels in a platoon compared to the total number of vessels participating in the harvest limit area directed fishery for area 542 or 543 during a season.

(E) Harvest limit area directed fisheries closures. The Regional Administrator will establish the closure date of the Atka mackerel directed fisheries in the harvest limit area for areas 542 and 543 based on the estimated fishing capacity of vessels registered to fish in the area and assigned to the platoon under paragraph (a)(8)(iii)(B) of this section. Each harvest limit area directed fishery will last no longer than 14 days.

(F) Groundfish directed fishery prohibition. Vessels registering under paragraph (a)(8)(iii)(A) of this section are prohibited from participating in any groundfish directed fishery other than the one assigned under paragraph (a)(8)(iii)(B) of this section during the opening of the first harvest limit area directed fishery to which the vessel is assigned in a season, as specified in § 679.7(a)(19).

* * * * *

(11) GOA Pacific cod TAC (applicable through July 8, 2002)—(i) Seasonal apportionment. The TAC established for Pacific cod in the Western and Central areas of the GOA will be divided 60 percent to the A season and 40 percent to the B season, as specified in § 679.23(d)(4).

(ii) The Regional Administrator may apply any underage or overage of Pacific cod harvest from one season to the subsequent season. In adding or subtracting any underages or overages to the subsequent season, the Regional Administrator must consider bycatch needed to optimize catch by gear groups and sectors.

(iii) Bycatch. Pacific cod bycatch taken between the closure of the A season and opening of the B season shall be deducted from the B season TAC apportionment.

(b) * * *

(2) * * *

(i) Pollock inshore-offshore reapportionment (applicable through July 8, 2002). Any amounts of the GOA reserve that are reapportioned to pollock as provided by paragraph (b) of this section must be apportioned between the inshore component in the GOA and the offshore component in the GOA in the same proportions specified in paragraph (a)(6)(ii) of this section.

(ii) Pacific Cod inshore-offshore reapportionment (applicable through July 8, 2002). Any amounts of the GOA reserve that are reapportioned to Pacific cod as provided by paragraph (b) of this section must be apportioned between the inshore component in the GOA and the offshore component in the GOA in the same proportion specified in paragraph (a)(6)(iii) of this section.

* * * * *

(d) * * *

(4) Harvest control for pollock, Atka mackerel and Pacific cod (applicable through July 8, 2002). If a biological assessment of stock condition for pollock, Pacific cod, or Atka mackerel within an area projects that the biomass in an area will be below 20 percent of the projected unfished biomass during a fishing year, the Regional Administrator will prohibit the directed fishery for the relevant species within the area. The Regional Administrator will prohibit the directed fishery under this paragraph by notification published in the Federal Register. The directed fishery will remain closed until a subsequent biological assessment projects that the biomass for the species in the area will exceed 20 percent of the projected unfished biomass during a fishing year.

* * * * *

(f) * * *

(4) Retainable amounts (applicable through July 8, 2002). Except as provided in Table 10 to this part, arrowtooth flounder, or any groundfish species for which directed fishing is closed may not be used to calculate retainable amounts of other groundfish species. CDQ species may only be used to calculate retainable amounts of other CDQ species.

* * * * *

7. In § 679.22, paragraphs (a)(5)(i) through (iii), (a)(7), (a)(8), and (b)(2) are suspended until July 8, 2002, and paragraphs (a)(5)(iv), (a)(11), (a)(12), (b)(3), and (b)(6) are added to read as follows:

§ 679.22 Closures.

(a) * * *

(5) * * *

(iv) Catcher/processor restrictions (applicable through July 8, 2002). A catcher/processor vessel authorized to fish for BSAI pollock under § 679.4 is prohibited from conducting directed fishing for pollock in the CVOA during the pollock B season defined at § 679.23(e)(5)(ii), unless it is operating under a CDP approved by NMFS.

* * * * *

(11) Steller sea lion protection areas, Bering Sea subarea (applicable through July 8, 2002)—(i) Bogoslof area—(A) Boundaries. The Bogoslof area consists of all waters of area 518 as described in Figure 1 of this part south of a straight line connecting 55°00′ N lat./170°00′ W long., and 55°00′ N lat./168°11′4.75″ W long.;

(B) Fishing prohibition. All waters within the Bogoslof area are closed to directed fishing for pollock, Pacific cod, and Atka mackerel by federally permitted vessels, except as provided in paragraph (a)(11)(i)(C) of this section.

(C) Bogoslof Pacific cod exemption area. (1) All catcher vessels less than 60 ft (18.3 m) LOA using jig or hook-and-line gear for directed fishing for Pacific cod are exempt from the Pacific cod fishing prohibition as described in paragraph (a)(11)(i)(B) of this section in the portion of the Bogoslof area south of a line connecting a point that is 3 nm north of Bishop Point (54°01′25″ N lat./166° 57'00” W long.) to Cape Tanak (53°33′50″ N lat./168°00′00″ W long.), not including waters of the Bishop Point Pacific cod fishing closures as described in Table 23 of this part.

(2) If the Regional Administrator determines that 113 mt of Pacific cod has been caught by catcher vessels less than 60 ft (18.3 m) LOA using jig or hook-and-line gear in the exemption area described in paragraph (a)(11)(i)(C)(1) of this section, the Regional Administrator will prohibit directed fishing for Pacific cod by catcher vessels less than 60 ft (18.3 m) LOA using jig or hook-and-line gear in the exemption area by notification published in the Federal Register.

(ii) Bering Sea Pollock Restriction Area—(A) Boundaries. The Bering Sea Pollock Restriction Area consists of all waters of the Bering Sea subarea south of a line connecting the points 163°0′00″ W long./55°46′30″ N lat., 165°08′00″ W long./54°42′9″ N lat., 165°40′00″ W long./54°26′30″ N lat., 166°12′00″ W long./54°18′40″ N lat., and 167°0′00″ W long./54°8′50″ N lat.

(B) Fishing prohibition. All waters within the Bering Sea Pollock Restriction Area are closed to directed fishing for pollock by federally permitted vessels during the A season, as defined at § 679.23(e)(5).

(iii) Groundfish closures. Directed fishing for groundfish by federally permitted vessels is prohibited within 3 nm of selected sites. These sites are listed in Table 21 of this part and are identifiable by “Bering Sea” in column 2.

(iv) Pollock closures. Directed fishing for pollock by federally permitted vessels is prohibited within pollock no fishing zones around selected sites. These sites are listed in Table 22 of this part and are identifiable by “Bering Sea” in column 2.

(v) Pacific cod closures. Directed fishing for Pacific cod by federally permitted vessels using trawl, hook-and-line, and pot gear is prohibited within the Pacific cod no fishing zones around selected sites. These sites and gear types are listed in Table 23 of this part and are identifiable by “BS” in column 2.

(vi) Atka mackerel closures. Directed fishing for Atka mackerel by federally permitted vessels using trawl gear is prohibited within Atka mackerel no fishing zones around selected sites. These sites are listed in Table 24 of this part and are identifiable by “Bering Sea” in column 2.

(vii) Steller sea lion conservation area (SCA). (A) General. When the Regional Administrator announces, by notification in the Federal Register, that the criteria set out in paragraph (a)(11)(vii)(C) of this section have been met by one or more industry component(s) made of vessels catching pollock for processing by the inshore component, catcher/processors in the offshore component, motherships in the offshore component, or directed fishing for pollock CDQ; directed fishing for pollock by that industry component(s) is prohibited within the SCA until April 1.

(B) Boundaries. The SCA consists of the area of the Bering Sea subarea between 170°00′ W long. and 163°00′ W long., south of straight lines connecting the following points in the order listed: 55°00′ N lat., 170°00′ W long.; 55°00′ N lat., 168°00′ W long.; 55°30′ N lat., 168°00′ W long.; 55°30′ N lat., 166°00′ W long.; 56°00′ N lat., 166°00′ W long.; and, 56°00′ N lat., 163°00′ W long.

(C) Criteria for closure—(1) General. The directed fishing closures identified in paragraph (a)(11)(vii)(A) of this section will take effect when the Regional Administrator determines that the harvest limit for pollock within the SCA, as specified in § 679.20(a)(5)(i)(F)(1) is reached before April 1. The Regional Administrator will close the directed pollock fishery in the SCA by notification published in the Federal Register.

(2) Inshore catcher vessels greater than 99 ft (30.2 m) LOA. The Regional Administrator will prohibit directed fishing for pollock to vessels greater than 99 ft (30.2 m) LOA, catching pollock for processing by the inshore component before reaching the inshore SCA harvest limit before April 1 to accommodate fishing by vessels less than or equal to 99 ft (30.2 m) inside the SCA until April 1. The Regional Administrator will estimate how much of the inshore seasonal allowance is likely to be harvested by catcher vessels less than or equal to 99 ft (30.2 m) LOA and reserve a sufficient amount of the inshore SCA allowance to accommodate fishing by such vessels after the closure of the SCA to inshore vessels greater than 99 ft (30.2 m) LOA. The Regional Administrator will prohibit directed fishing for all inshore catcher vessels within the SCA when the harvest limit specified in § 679.20(a)(5)(i)(F) has been met before April 1.

(12) Steller sea lion protection areas, Aleutian Islands subarea (applicable through July 8, 2002)—(i) Seguam Foraging area. (A) The Seguam foraging area is established as all waters within the area between 52° N lat. and 53° N lat. and between 173°30′ W long. and 172°30′ W long.

(B) Directed fishing for pollock, Pacific cod, and Atka mackerel by federally permitted vessels is prohibited in the Seguam Foraging area as described in paragraph (a)(12)(i)(A) of this section.

(ii) Pollock Closure. Directed fishing for pollock by federally permitted vessels is prohibited within the Aleutian Islands subarea at all times.

(iii) Groundfish closures. Directed fishing for groundfish by federally permitted vessels is prohibited within 3 nm of selected sites. These sites are listed in Table 21 of this part and are identifiable by “Aleutian Islands” in column 2.

(iv) Pacific cod closures—(A) Central and Western Aleutian Islands harvest limit area. Directed fishing for Pacific cod by federally permitted vessels using trawl gear is prohibited in the Atka mackerel harvest limit area in area 542 or area 543, as defined in § 679.2, when the Atka mackerel harvest limit area directed fishery in area 542 or area 543 is open.

(B) Gear specific closures. Directed fishing for Pacific cod by federally permitted vessels using trawl, hook-and-line, or pot gear is prohibited within the Pacific cod no fishing zones around selected sites. These sites and gear types are listed in Table 23 of this part and are identifiable by “AI” in column 2.

(v) Atka mackerel closures. Directed fishing for Atka mackerel by federally permitted vessels using trawl gear is prohibited within Atka mackerel no fishing zones around selected sites. These sites are listed in Table 24 of this part and are identifiable by “Aleutian Islands” in column 2.

(b) * * *

(3) Steller sea lion protection areas (applicable through July 8, 2002)—(i) Groundfish closures. Directed fishing for groundfish by federally permitted vessels is prohibited within 3 nm of selected sites. These sites are listed in Table 21 of this part and are identifiable by “Gulf of Alaska” in column 2.

(ii) Pollock closures. Directed fishing for pollock by federally permitted vessels is prohibited within pollock no fishing zones around selected sites. These sites are listed in Table 22 of this part and are identifiable by “Gulf of Alaska” in column 2.

(iii) Pacific cod closures. Directed fishing for Pacific cod by federally permitted vessels using trawl, hook-and-line, or pot gear is prohibited within Pacific cod no fishing zones around selected sites. These sites and gear types are listed in Table 23 of this part and are identifiable by “GOA” in column 2.

(iv) Atka mackerel closure. Directed fishing for Atka mackerel by federally permitted vessels within the Gulf of Alaska is prohibited at all times.

* * * * *

(6) Chiniak Gully Research Area (applicable through July 8, 2002)—(i) Description of Chiniak Gully Research Area. The Chiniak Gully Research Area is defined as that part of Statistical Area 630 bounded by straight lines connecting the coordinates in the order listed: 57.81° N lat., 152.37° W long.; 57.81° N lat., 151.85° W long.; 57.22° N lat., 150.64° W long.; 56.98° N lat., 151.27° W long.; 57.62° N lat., 152.16° W long.; and hence counterclockwise along the shoreline of Kodiak Island to 57.81° N lat., 152.37° W long.

(ii) Closure. (A) The Chiniak Gully Research Area is closed to federally permitted vessels using trawl gear from August 1 to a date no later than September 20, except that trawl gear may be tested in the manner described at § 679.24(d)(2) in the Kodiak Test Area defined at § 679.24(d)(4)(i) and illustrated in Figure 7 to this part.

(B) Prior to September 20, the Regional Administrator may publish notification in the Federal Register rescinding the trawl closure in the Chiniak Gully Research Area described in paragraph (b)(6)(ii)(A) of this section.

* * * * *

8. In § 679.23, paragraphs (d)(2), (e)(2), (e)(3), and (e)(4)(iii), are suspended until July 8, 2002, and paragraphs (d)(3), (d)(4), (e)(4)(iv), (e)(4)(v), (e)(5), (e)(6), (e)(7), and (i) are added to read as follows:

§ 679.23 Seasons.

* * * * *

(d) * * *

(3) Directed fishing for pollock (applicable through July 8, 2002). Subject to other provisions of this part, directed fishing for pollock in the Western and Central Regulatory Areas is authorized only during the following four seasons:

(i) A season. From 1200 hours, A.l.t., January 20 through 1200 hours, A.l.t., February 25;

(ii) B season. From 1200 hours, A.l.t., March 10 through 1200 hours, A.l.t., May 31;

(iii) C season. From 1200 hours, A.l.t., August 25 through 1200 hours, A.l.t., September 15; and

(iv) D season. From 1200 hours, A.l.t., October 1 through 1200 hours, A.l.t., November 1.

(4) Directed fishing for Pacific cod (applicable through July 8, 2002)—(i) Hook-and-line, pot, or jig gear. Subject to other provisions of this part, directed fishing for Pacific cod with hook-and-line, pot, or jig gear in the Western and Central Regulatory Areas is authorized only during the following two seasons:

(A) A season. From 0001 hours, A.l.t., January 1 through 1200 hours, A.l.t., June 10; and

(B) B season. From 1200 hours, A.l.t., September 1 through 2400 hours, A.l.t., December 31.

(ii) Trawl gear. Subject to other provisions of this part, directed fishing for Pacific cod with trawl gear in the Western and Central Regulatory Areas is authorized only during the following two seasons:

(A) A season. From 1200 hours, A.l.t., January 20 through 1200 hours, A.l.t., June 10; and

(B) B season. From 1200 hours, A.l.t., September 1 through 1200 hours, A.l.t., November 1.

(e) * * *

(4) * * *

(iv) Groundfish CDQ (applicable through July 8, 2002). Fishing for groundfish CDQ species, other than pollock CDQ; hook-and-line, jig, or trawl Pacific cod CDQ; and fixed gear sablefish CDQ under subpart C of this part, is authorized from 0001 hours, A.l.t., January 1 through the end of each fishing year, except as provided under paragraph (c) of this section.

(v) Pollock CDQ and Pacific cod CDQ harvested with hook-and-line, jig or trawl gear (applicable through July 8, 2002). (A) Fishing for pollock CDQ is authorized under paragraph (e)(5) of this section.

(B) Fishing for Pacific cod CDQ with hook-and-line, jig or trawl gear is authorized under paragraph (e)(6) of this section.

(5) Directed fishing for pollock in the Bering Sea Subarea by inshore, offshore catcher/processor, and mothership components and pollock CDQ fisheries (applicable through July 8, 2002). Subject to other provisions of this part, directed fishing for pollock by vessels catching pollock for processing by the inshore component, catcher/processors in the offshore component, and motherships in the offshore component in the Bering Sea subarea or directed fishing for pollock CDQ in the Bering Sea subarea is authorized only during the following two seasons:

(i) A season. From 1200 hours, A.l.t., January 20 through 1200 hours, A.l.t., June 10; and

(ii) B season. From 1200 hours, A.l.t., June 10 through 1200 hours, A.l.t., November 1.

(6) Directed fishing for Pacific cod (applicable through July 8, 2002). (i) Fixed gear. Subject to other provisions of this part, directed fishing for Pacific cod with fixed gear in the BSAI is authorized only during the following two seasons:

(ii) Hook-and-line and jig gear. Subject to other provisions of this part, directed fishing for CDQ and non-CDQ Pacific cod with vessels equal to or greater than 60 ft (18.3 m) LOA using hook-and-line and with vessels using jig gear in the BSAI is authorized only during the following two seasons:

(A) A season. From 0001 hours, A.l.t., January 1 through 1200 hours, A.l.t., June 10; and

(B) B season. From 1200 hours, A.l.t., June 10 through 2400 hours, A.l.t., December 31.

(iii) Trawl gear. Subject to other provisions of this part, directed fishing for CDQ and non-CDQ Pacific cod with trawl gear in the BSAI is authorized only during the following three seasons:

(A) A season. From 1200 hours, A.l.t., January 20 through 1200 hours, A.l.t., April 1;

(B) B season. From 1200 hours, A.l.t., April 1 through 1200 hours, A.l.t., June 10; and

(C) C season. From 1200 hours, A.l.t., June 10 through 1200 hours, A.l.t., November 1.

(iv) Pot gear. Subject to other provisions of this part, non-CDQ directed fishing for Pacific cod with vessels equal to or greater than 60 ft (18.3 m) LOA using pot gear in the BSAI is authorized only during the following two seasons:

(A) A season. From 0001 hours, A.l.t., January 1 through 1200 hours, A.l.t., June 10; and

(B) B season. From 1200 hours, A.l.t., September 1 through 2400 hours, A.l.t., December 31.

(7) Directed fishing for Atka mackerel with trawl gear (applicable through July 8, 2002). Subject to other provisions of this part, non-CDQ directed fishing for Atka mackerel with trawl gear in the Aleutian Islands subarea is authorized only during the following two seasons:

(i) A season. From 1200 hours, A.l.t., January 20 through 1200 hours, A.l.t., April 15; and

(ii) B season. From 1200 hours, A.l.t., September 1 through 1200 hours, A.l.t., November 1.

* * * * *

(i) Catcher vessel exclusive fishing seasons for pollock (applicable through July 8, 2002). Catcher vessels are prohibited from participating in directed fishing for pollock under the following conditions. Vessels less than 125 ft (38.1 m) LOA are exempt from this restriction when fishing east of 157°00' W long. GOA and Bering Sea seasons are specified at § 679.23(d)(3) and § 679.23(e)(5).

If you own or operate a catcher vessel and engage in directed fishing for pollock in the | During the | Then you are prohibited from subsequently engaging in directed fishing for pollock with that catcher vessel in the
Bering Sea subarea | A season | GOA until the following C season.
| B season | GOA until the A season of the next year.
GOA | A season | BSAI until the following B season.
| B season | BSAI until the following B season.
| C season | BSAI until the A season of the following year.
| D season | BSAI until the A season of the following year.

8a. In §679.23, new paragraph (e)(6)(i) is suspended until July 8, 2002.

9. In § 679.28, paragraph (f)(3)(viii) is added to read as follows:

§ 679.28 Equipment and operational requirements.

* * * * *

(f) * * *

(3) * * *

(viii) (Applicable 1200 hours A. l. t. June 10, 2002, through July 8, 2002) For vessels permitted to fish in the pollock, Pacific cod, or Atka mackerel directed fisheries under § 679.4(b)(5)(iv)(E), the vessel owner must inform NMFS Enforcement Division by FAX at least 72 hours before entering the area the vessel is permitted to directed fish for pollock, Atka mackerel, or Pacific cod, of the VMS transponder ID and the vessel ID on which the VMS unit is used and the approximate time and location that the vessel will begin directed fishing for groundfish or halibut IFQ.

10. In § 679.31, paragraph (f) is suspended until July 8, 2002, and paragraph (g) is added to read as follows:

§ 679.31 CDQ reserves.

* * * * *

(g) Non-specific CDQ reserve (applicable through July 8, 2002). Annually, NMFS will apportion 50 percent of the arrowtooth flounder CDQ and 15 percent of the “other species” CDQ for each CDQ group to a non-specific CDQ reserve. A CDQ group's non-specific CDQ reserve must be for the exclusive use of that CDQ group. A release from the non-specific reserve to the CDQ group's arrowtooth flounder or “other species” CDQ is a technical amendment to a community development plan as described in § 679.30(g)(5). The technical amendment must be approved before harvests relying on CDQ transferred from the non-specific CDQ reserve may be conducted.

11. In § 679.32, paragraphs (a)(2) and (e) are suspended until July 8, 2002.

12. In § 679.50, paragraph (c)(4)(i) is suspended until July 8, 2002, paragraph (c)(5) is added and reserved, and paragraphs (c)(1)(x), (c)(4)(vi), and (c)(6) are added to read as follows:

§ 679.50 Groundfish observer program applicable through December 31, 2002.

* * * * *

(c) * * *

(1) * * *

(x) (Applicable through July 8, 2002) A vessel directed fishing with trawl gear for Atka mackerel in the Aleutian Islands subarea must carry two NMFS-certified observers at all times while directed fishing for Atka mackerel in the harvest limit area for platoon managed Atka mackerel directed fishing, as defined in § 679.2.

* * * * *

(4) * * *

(vi) Motherships or catcher/processors using trawl gear (applicable January 15, 2002, through July 8, 2002). (A) A mothership or catcher/processor vessel using trawl gear to participate in a directed fishery for pollock CDQ must have at least two NMFS-certified observers aboard the vessel, at least one of whom must be certified as a lead CDQ observer as described at paragraph (h)(1)(i)(E) of this section.

(B) A mothership or catcher/processor vessel using trawl gear to participate in a directed fishery for other than pollock CDQ must have at least two CDQ observes as described at paragraphs (h)(1)(i)(D) and (E) of this section aboard the vessel, at least one of whom must be certified as a lead CDQ observer.

* * * * *

(6) AFA catcher/processors and motherships (applicable January 15, 2002, through July 8, 2002).

(i) Coverage requirement—(A) Unrestricted AFA catcher/processors and AFA motherships. The owner or operator of an unrestricted AFA catcher/processor or AFA mothership must provide at least two NMFS-certified observers for each day that the vessel is used to harvest, process, or take deliveries of groundfish. More than two observers are required if the observer workload restriction in paragraph (c)(6)(iii) of this section would otherwise preclude sampling.

(B) Restricted AFA catcher/processors. The owner or operator of a restricted AFA catcher/processor must provide at least two NMFS-certified observers for each day that the vessel is used to engage in directed fishing for pollock in the BSAI, or take deliveries of pollock harvested in the BSAI. When a restricted AFA catcher/processor is not engaged in directed fishing for BSAI pollock and is not receiving deliveries of pollock harvested in the BSAI, the observer coverage requirements in paragraph (c)(1)(iv) of this section apply.

(ii) Certification level. At least one of the observers required under paragraphs (c)(6)(i)(A) and (B) of this section must be certified as a lead CDQ observer as specified in paragraph (h)(1)(i)(E)(1) of this section.

(iii) Observer work load. The time required for the observer to complete sampling, data recording, and data communication duties may not exceed 12 consecutive hours in each 24-hour period, and the observer may not sample more than 9 hours in each 24-hour period.

* * * * *

13. In 50 CFR part 679, Tables 4, 5, and 6 are suspended until July 8, 2002, and Tables 21, 22, 23, and 24 are added to read as follows:

[FR Doc. 01-32251 Filed 12-31-01; 10:44 am]

BILLING CODE 3510-22-P